DEPARTMENT OF COMMERCE

National Oceanic and Atmospheric Administration

50 CFR Part 660

[Docket No. 240802-0211]

RIN 0648-BN08

Magnuson-Stevens Act Provisions; Fisheries Off West Coast States; Pacific Coast Groundfish Fishery; Pacific Coast Groundfish Fishery Management Plan; Amendment 33; 2025-26 Biennial Specifications and Management Measures

AGENCY: National Marine Fisheries Service (NMFS), National Oceanic and Atmospheric Administration (NOAA), Commerce.

ACTION: Proposed rule; availability of a draft environmental assessment; request for comments.

SUMMARY: This proposed rule would establish the 2025-26 harvest specifications for groundfish caught in the U.S. exclusive economic zone (EEZ) seaward of Washington, Oregon, and California, consistent with the Magnuson-Stevens Fishery Conservation and Management Act (Magnuson-Stevens Act or MSA) and the Pacific Coast Groundfish Fishery Management Plan (PCGFMP). This proposed rule would also revise management measures intended to keep the total annual catch of each groundfish stock or stock complex within the annual catch limits. These proposed measures are intended to help prevent overfishing, rebuild overfished stocks, achieve optimum yield, and ensure that management measures are based on the best scientific information available. This proposed rule would also make minor corrections (e.g. correcting grammar, removing outdated regulations, revisions for clarity) to the regulations. Additionally, this proposed rule announces the receipt of exempted fishing permit (EFP) applications. NMFS has made a preliminary determination that these applications warrant further consideration and is requesting public comment on these applications. This proposed rule also would implement amendment 33 to the PCGFMP, which would establish a rebuilding plan for California quillback rockfish and revise the allocation framework for shortspine thornyhead. In accordance with the National Environmental Policy Act (NEPA) of 1969, as amended, NMFS also announces the availability of a draft Environmental Assessment (EA) that analyzes the potential effects of the associated proposed rule.

DATES: Comments must be received no later than September 30, 2024.

ADDRESSES: Submit your comments on the proposed rule, draft EA, and EFP applications, identified by NOAA-NMFS-2024-0065, by the following method:

• Electronic Submissions: Submit all electronic public comments via the Federal e-Rulemaking Portal. Go to www.regulations.gov and enter NOAA-NMFS-2024-0065 in the Search box. Click the “Comment” icon, complete the required fields, and enter or attach your comments. The EFP applications will be available under Supporting Documents through the same link.

Instructions: Comments must be submitted by the above method to ensure that the comments are received, documented, and considered by NMFS. Comments sent by any other method, to any other address or individual, or received after the end of the comment period, may not be considered. All comments received are a part of the public record and NMFS will post them for public viewing on www.regulations.gov without change. All personal identifying information (e.g., name, address, etc.), confidential business information, or otherwise sensitive information submitted voluntarily by the sender is publicly accessible. NMFS will accept anonymous comments (enter “N/A” in the required fields if you wish to remain anonymous). Please specify whether the comments provided are associated with the proposed rule, draft EA, or EFP applications.

Please submit written comments regarding the burden-hour estimates or other aspects of the collection-of-information requirements contained in this proposed rule and subject to the Paperwork Reduction Act (PRA) by email to WCR.HMS@noaa.gov and to OIRA_Submission@omb.eop.gov or fax to (202) 395-7285.

Electronic Access

This rulemaking is accessible via the internet at the Office of the Federal Register website at https://www.federalregister.gov/. The draft Analysis, which includes an EA that addresses the NEPA, as well analyses that address Presidential Executive Order 12866, the Regulatory Flexibility Act (RFA), and the statutory requirements of the Magnuson-Stevens Act is accessible via the internet at the NMFS West Coast Region website at https://www.fisheries.noaa.gov/region/west-coast and the Pacific Fishery Management Council's (Council) website at http://www.pcouncil.org. The final 2024 Stock Assessment and Fishery Evaluation (SAFE) report for Pacific Coast groundfish, as well as the SAFE reports for previous years, are available from the Council's website at http://www.pcouncil.org.

FOR FURTHER INFORMATION CONTACT: Lynn Massey, Fishery Management Specialist, at 562-900-2060 or lynn.massey@noaa.gov.

SUPPLEMENTARY INFORMATION:

I. Background

The Pacific Coast groundfish fishery in the U.S. EEZ seaward of Washington, Oregon, and California is managed under the PCGFMP. The Council developed the PCGFMP pursuant to the MSA (16 U.S.C. 1801 et seq.). The Secretary of Commerce approved the PCGFMP and implemented the provisions of the plan through Federal regulations at 50 CFR part 660, subparts C through G. The PCGFMP manages more than 90 species of roundfish, flatfish, rockfish, sharks, and skates.

Chapter 5 of the PCGFMP requires the Council to assess the biological, social, and economic conditions of the Pacific Coast groundfish fishery and use this information to develop harvest specifications and management measures at least biennially. This proposed rule is based on the Council's final recommendations for harvest specifications and management measures for the 2025-26 biennium made at its April and June 2024 meetings.

The Council deemed the proposed regulations necessary and appropriate to implement these actions in a July 29, 2024, letter from Council Executive Director, Merrick Burden, to Regional Administrator Jennifer Quan. Under the MSA, NMFS is required to publish proposed rules for comment after preliminarily determining whether they are consistent with applicable law. We are seeking comment on the proposed regulations in this action and whether they are consistent with the PCGFMP, the MSA and its National Standards, and other applicable law.

NMFS published a Notice of Availability (NOA) to announce the proposed amendment 33 to the PCGFMP (referred to interchangeably as “the amendment”) on August 2, 2024 (89 FR 63153). The NOA requests public review and comment on proposed changes to the Council fishery management plan document (89 FR 63153; August 2, 2024). Public comments are being solicited on the amendment through October 1, 2024, the end of the comment period for the NOA. Public comments on the proposed rule must be received by the end of the comment period on the amendment, as published in the NOA, to be considered in the approval/disapproval decision on the amendment. All comments received by the end of the comment period on the amendment, whether specifically directed to the amendment, or the proposed rule, will be considered in the approval/disapproval decision. Comments received after that date will not be considered in the approval/disapproval decision on the amendment. To be considered, comments must be received by close of business on the last day of the comment period; that does not mean postmarked or otherwise transmitted by that date.

A. Specification and Management Measure Development Process

In 2023, the Northwest Fisheries Science Center (NWFSC) conducted full stock assessments for black rockfish (all areas), copper rockfish (California areas), petrale sole, and canary rockfish. The NWFSC conducted length-based data moderate assessments for shortspine thornyhead and rex sole. Additionally, the NWFSC conducted catch-only assessment updates for widow rockfish and yelloweye rockfish, a limited update assessment for sablefish, and catch-only projections for chilipepper rockfish and yellowtail rockfish north of 40°10′ north latitude (N lat.). The NWFSC did not update assessments for the remaining stocks, so harvest specifications for these stocks are based on assessments from previous years. The full stock assessments used to set catch limits for this biennium are available on the Council's website at https://www.pcouncil.org/.

The Council's stock assessment review panel (STAR panel) reviewed the stock assessments, including assessments on stocks for which some biological indicators are available, as described below, for technical merit, and to determine that each stock assessment document was sufficiently complete. Finally, the Council's Scientific and Statistical Committee (SSC) reviewed the stock assessments and STAR panel reports and made its recommendations to the Council (Agenda Item G.2, September 2023 Council Meeting; Agenda Item E.2, November 2023 Council Meeting).

The Council considered the new stock assessments, stock assessment updates, catch-only updates, public comment, recommendations from the SSC, and advice from its advisory bodies over the course of six Council meetings during development of its recommendations for the 2025-26 harvest specifications and management measures. At each Council meeting between June 2023 and June 2024, the Council made a series of decisions and recommendations that were, in some cases, refined after further analysis and discussion. Agenda Item H.7, Attachment 1, June 2023 describes the Council's meeting schedule for developing the 2025-26 biennial harvest specifications. Additionally, detailed information, including the supporting documentation the Council considered at each meeting, is available at the Council's website at www.pcouncil.org.

The 2025-26 biennial management cycle is the fifth cycle following PCGFMP amendment 24 (80 FR 12567, March 10, 2015), which established default harvest control rules and was analyzed through an Environmental Impact Statement (EIS) (Final Environmental Impact Statement for Pacific Coast Groundfish Harvest Specifications and Management Measures for 2015-2016 and Biennial Periods Thereafter, and amendment 24 to the PCGFMP, published January 2015). The EIS described the ongoing implementation of the PCGFMP and the default harvest control rules. Under amendment 24, the default harvest control rules used to determine the previous biennium's harvest specifications (i.e., overfishing limits (OFLs), acceptable biological catches (ABCs), and annual catch limits (ACLs)) are applied automatically to the best scientific information available to determine the future biennium's harvest specifications. NMFS implements harvest specifications based on the default harvest control rules used in the previous biennium unless the Council makes a recommendation to deviate from the default. Therefore, this rulemaking would implement the default harvest control rules, consistent with the last biennium (i.e., 2023-24), for most stocks, and discusses Council-recommended departures from the defaults. The draft EA supporting this action identifies the preferred harvest control rules, management measures, and other management changes that were not described in the 2015 EIS and will be posted on the NMFS West Coast Region web page (see Electronic Access).

Information regarding the OFLs, ABCs, and ACLs proposed for groundfish stocks and stock complexes in 2025-26 is presented below, followed by a discussion of the proposed management measures for commercial and recreational groundfish fisheries.

II. Proposed Harvest Specifications

This proposed rule would set 2025-26 harvest specifications and management measures for the 90+ groundfish stocks or management units which currently have ACLs or ACL contributions to stock complexes managed under the PCGFMP, except for Pacific whiting. Pacific whiting harvest specifications are established annually through a separate bilateral process with Canada.

The proposed OFLs, ABCs, and ACLs are based on the best available biological and socioeconomic data, including projected biomass trends, information on assumed distribution of stock biomass, and revised technical methods used to calculate stock biomass. The PCGFMP specifies a series of three stock categories for the purpose of setting maximum sustainable yield (MSY),¹ OFLs, ABCs, ACLs, and rebuilding standards. Category 1 represents the highest level of information quality available, while Category 3 represents the lowest. Category 1 stocks are the relatively few stocks for which the NWFSC can conduct a “data rich” quantitative stock assessment that incorporates catch-at-age, catch-at-length, or other data. The SSC can generally calculate OFLs and overfished/rebuilding thresholds for these stocks, as well as ABCs, based on the uncertainty of the biomass estimated within an assessment or the variance in biomass estimates between assessments for all stocks in this category. The set of Category 2 stocks includes a large number of stocks for which some biological indicators are available, yet status is based on a “data moderate” quantitative stock assessment. The Category 3 stocks include minor stocks which are caught, but for which there is, at best, only information on landed biomass. For stocks in this category, there is limited data available for the SSC to quantitatively determine MSY, OFL, or an overfished threshold. Typically, catch-based methods (e.g., depletion-based stock reduction analysis, depletion corrected average catch, and average catches) are used to determine the OFL for Category 3 stocks. A detailed description of each of these categories can be found in Section 4.2 of the PCGFMP.

¹ MSY is the largest long-term average catch that can be taken from a fish stock under prevailing environmental and fishery conditions.

A. Proposed OFLs for 2025 and 2026

The OFL serves as the maximum amount of fish that can be caught in a year without resulting in overfishing. Overfishing occurs when a stock's harvest rate, denoted as Fx%, is set higher than the rate that produces the stock's MSY. The SSC derives OFLs for groundfish stocks with stock assessments by applying the harvest rate to the current estimated biomass (B). Harvest rates represent the rates of fishing mortality (F) that will reduce the female spawning potential ratio (SPR) to X percent of its unfished level. The PCGFMP defines SPR as the average fecundity of a recruit over its lifetime when the stock is fished divided by the average fecundity of a recruit over its lifetime when the stock is unfished. The SPR is based on the principle that a certain biomass of fish has to survive in order to spawn and replenish the stock at a sustainable level. As an example, a harvest rate of F40% means the harvest rate that would fish 60 percent of the population, thereby reducing the stock to 40 percent of its unfished level. F40% is more aggressive than F45% or F50% harvest rates because F40% allows more fishing mortality on a stock (as it allows a harvest rate that would reduce the stock to 40 percent of its unfished level, while F45% or F50% would reduce the stock to 45 percent and 50 percent of its unfished level). The OFL does not account for scientific or management uncertainty; therefore, the SSC typically recommends an ABC that is lower than the OFL in order to account for this uncertainty. Usually, the greater the amount of scientific uncertainty, the lower the ABC is set compared to the OFL.

For 2025-26, the Council maintained its policy of using a default harvest rate as a proxy for the fishing mortality rate that is expected to achieve MSY (FMSY). The Council also maintained the same default harvest rate proxies as used in the 2023-24 biennium, based on the SSC's recommendations: F30% for flatfish (meaning an SPR harvest rate that would reduce the stock to 30 percent of its unfished level), F50% for rockfish (including longspine and shortspine thornyheads), F50% for elasmobranchs, and F45% for other groundfish such as sablefish and lingcod. For unassessed stocks, the Council recommended using a historical catch-based approach (e.g., average catch, depletion-corrected average catch, or depletion-based stock reduction analysis) to set the OFL. See Tables 1a and 2a to Part 660, subpart C in the proposed regulatory text supporting this rulemaking for the proposed 2025-26 OFLs. The SAFE document for 2024 includes a detailed description of the scientific basis for all of the SSC-recommended OFLs proposed in this rulemaking and is available at the Council's website at www.pcouncil.org.

B. Proposed ABCs for 2025 and 2026

The ABC is the stock or stock complex's OFL reduced by an amount associated with scientific uncertainty. The SSC-recommended P star (P*)-sigma (σ) approach determines the amount by which the OFL is reduced to account for this uncertainty. Under this approach, the SSC recommends a σ value. The σ value is generally based on the scientific uncertainty in the biomass estimates generated from stock assessments and is usually related to the stock category. After the SSC determines the appropriate σ value, the Council chooses a P* based on its chosen level of risk aversion to address the consequences of the stock being elsewhere within the uncertainty represented by σ. A P* of 0.5 equates to no additional reduction beyond the σ value reduction. The PCGFMP specifies that the upper limit of P* will be 0.45, thus always ensuring at least some additional reduction beyond the σ value reduction. The P*- σ approach is discussed in detail in the proposed and final rules for the 2011-12 biennial harvest specifications and management measures (75 FR 67810, November 3, 2010; 76 FR 27508, May 11, 2011) and the 2013-14 biennial harvest specifications and management measures (77 FR 67974, November 12, 2012; 78 FR 580, January 3, 2013).

The SSC quantified major sources of scientific uncertainty in the estimates of OFLs and generally recommended a σ value of 0.5 for Category 1 stocks, a σ value of 1.0 for Category 2 stocks, and a σ value of 2.0 for Category 3 stocks. For Category 2 and 3 stocks, there is greater scientific uncertainty in the OFL estimate because the assessments for these stocks are informed by less data than the assessments for Category 1 stocks. Therefore, the scientific uncertainty buffer is generally greater than that recommended for stocks with data-rich stock assessments. Assuming the same P* is applied, a larger σ value results in a larger reduction from the OFL. For 2025-26, the ABC recommendations are consistent with the general policy of using the SSC-recommended σ values for each stock category.

For 2025-26, the Council maintained the P* policies it established for the previous biennium for most stocks. The Council recommended using P* values of 0.45 for all individually managed Category 1 stocks, except yelloweye rockfish. Combining the Category 1 σ value of 0.5 with the P* value of 0.45 results in a reduction of 6.1 percent from the OFL when deriving the ABC. For Category 2 stocks, the Council's general policy was to apply a P* of 0.40, with a few exceptions. The Council recommended applying a P* of 0.45 for big skate, English sole, lingcod south of 40°10′ N lat., lingcod north of 40°10′ N lat., longnose skate, Pacific ocean perch, shortspine thornyhead, blue rockfish in the Oregon blue/deacon/black rockfish complex, and all Category 2 stocks in the Nearshore rockfish complexes, Shelf rockfish complexes, and Slope rockfish complexes. When combined with the σ values of 1.0 for Category 2, a P* value of 0.45 corresponds to an 11.8 percent reduction from the OFL and a P* value of 0.40 corresponds to a 22.4 percent reduction. For Category 3 stocks, the Council's general policy was to apply a P* value of 0.45, except the Council recommended a P* value of 0.40 for cowcod between 40°10′ N lat. and 34°27′ N lat., Pacific cod, starry flounder, and all stocks in the Other Flatfish complex except rex sole, which was upgraded to a Category 2 stock with a P* of 0.45. When combined with the σ values of 2.0 for Category 3, a P* value of 0.45 corresponds to 22.2 percent reduction from the OFL and a P* value of 0.40 corresponds to a 39.8 percent reduction. See tables 8 and 9 of Agenda Item F.6 Attachment 2 from the June 2024 Council meeting (hereafter interchangeably referred to as the Council Analytical Document) for the full description of σ and P* values by stock (see tables 1a and 2a to Part 660, Subpart C in the proposed regulatory text of this proposed rule for the proposed 2025-26 ABCs).

C. Proposed ACLs for 2025 and 2026

The Council recommends ACLs for each groundfish stock or management unit in the PCGFMP. To determine the ACL for each stock, the Council will determine the best estimate of current stock abundance and its relation to the precautionary and overfished/rebuilding thresholds. Under the PCGFMP, the biomass level that produces MSY, or BMSY, is defined as the precautionary threshold. When the biomass for an assessed Category 1 or 2 stock falls below BMSY, the ACL is set below the ABC using a harvest rate reduction to help the stock return to the BMSY level, which is the management target for groundfish stocks. If a stock biomass is larger than BMSY, the ACL may be set equal to the ABC, or the ACL may be set below the ABC to address conservation objectives, socioeconomic concerns, management uncertainty, or other factors necessary to meet management objectives. The overfished/rebuilding threshold is 25 percent of the estimated unfished biomass level for non-flatfish stocks or 50 percent of BMSY, if known. The overfishing/rebuilding threshold for flatfish stocks is 12.5 percent of the estimated unfished biomass level. When a stock is below BMSY (i.e., the precautionary threshold) but above the overfishing/rebuilding threshold, it is considered to be in the precautionary zone.

Under PCGFMP amendment 24, the Council set up default harvest control rules, which established default policies that would be applied to the best available scientific information to set ACLs each biennial cycle, unless the Council has reasons to diverge from that harvest control rule. A complete description of the default harvest control rules for setting ACLs is described in the proposed and final rule for the 2015-16 harvest specifications and management measures (80 FR 687, January 6, 2015) and PCGFMP amendment 24 (80 FR 12567, March 10, 2015).

The PCGFMP defines the 40-10 harvest control rule for stocks with a BMSY proxy of B40% that are in the precautionary zone as the standard reduction. The analogous harvest control rule with the standard reduction for assessed flatfish stocks is the 25-5 harvest control rule for flatfish stocks with a BMSY proxy of B25%. The further the stock biomass is below the precautionary threshold, the greater the reduction in ACL relative to the ABC. If B10% for a stock with a BMSY proxy of B40% is reached, or if B5% for a stock with a BMSY proxy of B25% is reached, then ACL would be set at zero.

Under the PCGFMP, harvest control rules are typically applied at the component species level for stock complexes to calculate ACLs. Resulting contribution values of each component species, or ACL contributions, are summed to equal the stock complex ACLs. For example, the ACL contribution of black rockfish off of Oregon contributes to the overall ACL for the Oregon black/deacon/blue rockfish stock complex. Under the PCGFMP, the Council may recommend setting the ACL at a different level than what the default harvest control rules specify as long as the ACL does not exceed the ABC and complies with the requirements of the MSA (see the Analysis for information on the MSA). For most of the stocks and stock complexes managed with harvest specifications for 2025-26, the Council chose to maintain the default harvest control rules from the previous biennial cycle. Table 1 presents a summary of the proposed changes to default harvest control rules for certain stocks for 2025-26. Each of these changes is discussed further below.

Table 1—Proposed Changes to Harvest Control Rules for the 2025-26 Biennium
Stock | Default harvest control rule ᵃ | Alternative harvest control rule ᵃ
Rex Sole | ACL = ABC (P* 0.40) | ACL = ABC (P* 0.45)
Shortspine thornyhead ᵇ | ACL < ABC (P* 0.40) | ACL < ABC (P* 0.45), 40-10 HRC applied
Dover sole | ACL = 50,000 mt | ACL = ABC (P* 0.45)
Quillback Rockfish off California | ACL contribution < ABC (SPR 0.55; P* 0.45) ᶜ | ABC Rule ᵈ (ACL = ABC; P* 0.45)
ᵃ The Default Harvest Control Rules were used to set the ACLs in 2023 and 2024. The Alternative Harvest Controls rules are the proposed changes for setting the ACLs in 2025 and 2026.
ᵇ The 40-10 adjustment applies where a precautionary reduction is warranted, per the PCGFMP at section 4.6.1. The 40-10 adjustment reduces the harvest rate to help the stock return to the maximum sustainable yield level.
ᶜ In 2023-24, the harvest control rule (ACL contribution < ABC, SPR 0.55; P* 0.45) specified an ACL contribution because quillback rockfish was still part of the Nearshore rockfish complex. For 2025-26, California quillback rockfish is proposed to be taken out of the Nearshore complex and managed pursuant to a stock-specific ACL.
ᵈ The Council recommended the ABC Rule as the alternative harvest control rule based on a range of harvest strategies analyzed in the California Quillback Rockfish Rebuilding Plan new management measure, which is described in section III, P of this preamble.

Rex Sole

Rex sole is a Category 2 stock, managed as part of the Other Flatfish complex, with a default harvest control rule of ACL=ABC (P* 0.40). Rex sole is primarily caught in the bottom trawl fishery. In 2023, the NWFSC conducted a length-based data-moderate assessment (Agenda Item G.2 Attachment 3, September 2023), which estimates the stock is at 76.1 percent of unfished spawning output in 2023. This value is above the 25 percent management target level, indicating the stock is healthy. Therefore, the Council considered an alternative harvest control rule of ACL=ABC (P* 0.45). The application of a P* 0.45 means that a smaller fraction is used to reduce the OFL and to derive an ABC (beyond the reduction from σ), the result of which would yield higher ACLs in 2025-26 than under the default P* 0.40. As presented in the stock assessment and explained in the Council Analytical Document (Agenda Item F.6 Attachment 2 June 2024), the stock is not expected to fall below the 25 percent management target level during the 10-year catch projection period under either harvest control rule, even with the projected attainment of the full ACL, which is unlikely to occur based on recent mortality trends. ACL attainment from 2020-2022 was approximately 9 percent of the potential 2025 ACL under P* 0.45. Therefore, the Council recommended, and NMFS is proposing, an alternative harvest control rule of ACL=ABC (P* 0.45). This will provide the trawl industry the most flexibility in light of other expected constraints in 2025-26.

Shortspine Thornyhead

Shortspine thornyhead is a Category 2 stock with a default harvest control rule that includes the application of P* 0.40 to the coastwide ABC, which is then split into two area-based ACLs north and south of 34° 27′ N lat. The ACLs are set according to the 5-year rolling average biomass estimated from the NWFSC's West Coast Groundfish Bottom Trawl (WCGBT), which for the 2025-26 biennium would yield a north and south split of 70.6 percent and 29.4 percent, respectively. In 2023, the NWFSC conducted a length-based data-moderate assessment (Agenda Item G.2 Attachment 4, September 2023), which indicates the stock is at 39.4 percent of unfished spawning output in 2023. This value is slightly below the 40 percent target management level, which indicates the stock is in the precautionary zone; thus, the 40-10 reduction from the ABC to derive the ACL automatically applies when setting ACLs for 2025-26 as a precautionary management approach. Due to the decrease in biomass, the Council anticipates that shortspine thornyhead will become a constraining species even under the highest P* for both the trawl and non-trawl sectors, as catch projections for 2023 and 2024 are similar to those ACLs that would result from a P* of 0.45. Additionally, due to anticipated increases in sablefish ACLs over the next few years, the trawl fleet that targets Dover sole, thornyheads, and sablefish (DTS) may expand effort, hence full attainment of shortspine thornyhead is a reasonable expectation. Therefore, the Council considered an alternative harvest control rule (ACL < ABC P* 0.45, 40-10 harvest control rule applied) to yield higher ACLs in 2025-26. As summarized in the Analysis and the Council Analytical Document (Agenda Item F.6 Attachment 2 June 2024), catch projections under a P* of 0.45 are still anticipated to remain within the ACLs and prevent overfishing. Therefore, NMFS is proposing, in alignment with the Council's recommendation, an alternative harvest control rule (i.e., ACL < ABC P* 0.45, 40-10 harvest control rule applied). This will minimize adverse impacts to industry while still preventing overfishing of the stock. In addition to a change from the default P*, the Council recommended a new management measure that would remove the management line at 34° 27′ N lat. and set a coastwide ACL for the stock. This measure is described below under section III, L of this preamble.

Dover Sole

Dover sole is a Category 1 stock with a default harvest control rule of ACL = 50,000 metric tons (mt). However, in 2025-26, setting the ACL at 50,000 mt would violate the MSA, as the ACL would exceed the ABC. Therefore, the Council considered an alternative harvest control rule of P* 0.45 with the ACL set equal to the ABC. As explained in the Analysis and the Council Analytical Document (Agenda Item F.6 Attachment 2 June 2024), actual removals are likely to remain well below the ABC/ACL under this alternative, making the risk of overfishing low. Therefore, NMFS is proposing, in alignment with the Council's recommendation, an alternative harvest control rule (i.e., ACL=ABC, P* 0.45).

California Quillback Rockfish

California quillback rockfish is a Category 2 stock with a default harvest control rule of ACL contribution < ABC (SPR 0.55; P* 0.45). Quillback rockfish is primarily caught by the non-trawl sectors, with approximately 75 percent caught by the recreational sector and approximately 25 percent caught by the commercial sector. Additionally, the majority of fishing mortality (~85 percent) occurs in State waters. In the 2023-24 biennium, California quillback rockfish was managed as part of the Nearshore rockfish complex both north and south of 40°10′ N lat. California quillback rockfish has since been categorized as its own stock under amendment 31 to the PCGFMP (88 FR 78677, November 16, 2023). The NWFSC conducted a data-moderate assessment in 2021 (Agenda Item E.2, Attachment 4, November 2021), which indicated depletion of the stock off California. The assessment was determined to be the best scientific information available in December 2021. In response to this assessment, and several subsequent reviews (Agenda Item C.6.a Supplemental SSC Report 1, September 2021; Agenda Item E.2.a Supplemental SSC Report 1, November 2021), NMFS declared the stock overfished in December 2023 and notified the Council of the requirement to develop a rebuilding plan. California quillback rockfish are caught with many other species of groundfish; therefore, the Council developed the rebuilding plan as part of the 2025-26 biennial specifications and management measures in order to account for restrictions needed for other groundfish targets in order to rebuild the stock. The Council considered a range of alternative harvest control rules during the development of the rebuilding plan that is proposed as a new management measure in this action, and which is described in detail under section III, P. of this preamble. Per the MSA, overfished species must have harvest specifications set to prevent overfishing (50 CFR 600.310(f)(3)(ii) and 50 CFR 600.310(f)(4)(i)), and species managed within a complex are managed to the complex OFL, which is additive across all species in the complex, rather than being managed to a species- or stock-specific harvest specification. Therefore, for the 2025-26 biennium, the Council recommended removing California quillback rockfish from the Nearshore rockfish complexes north and south of 40°10′ N lat., so that catch can be managed under stock-specific harvest specifications. NMFS is also proposing in alignment with the Council's recommendation, an alternative harvest control rule of the ABC Rule to set the 2025-26 ACLs for California quillback rockfish. The ABC Rule sets the ACL equal to the ABC with a management risk tolerance of P* 0.45 and the time-varying scientific uncertainty (σ = 1.0) reduction applied to the OFL. This harvest strategy is anticipated to rebuild the stock as fast as possible while taking into account the biology of the stock and the needs of fishing communities.

Stocks in Rebuilding Plans

When NMFS declares a stock overfished, the Council must develop and manage the stock in accordance with a rebuilding plan. For overfished stocks in the PCGFMP, this means that the harvest control rule for overfished stocks sets the ACL based on the rebuilding plan. The proposed rules for the 2011-12 (75 FR 67810, November 3, 2010) and 2013-14 (77 FR 67974, November 14, 2012) harvest specifications and management measures contain extensive discussions on the management approach used for overfished stocks, which are not repeated here. In addition, the SAFE document posted on the Council's website at http://www.pcouncil.org/groundfish/safe-documents/ contains a detailed description of each overfished stock, its status and management, as well as the SSC's approach for the rebuilding analyses. This document provides information on yelloweye rockfish and, starting with the 2025-26 biennium, California quillback rockfish. NMFS declared yelloweye rockfish overfished in 2002. The Council adopted a rebuilding plan for the stock in 2004, and revised the rebuilding plan in 2011 under amendment 16-4 to the PCGFMP, and again during the 2019-20 biennium (83 FR 63970, December 12, 2018). The Council's proposed yelloweye rockfish ACLs for 2025 and 2026 are based on the current yelloweye rockfish rebuilding plan (see Appendix F to the PCGFMP at www.pcouncil.org), so additional details are not repeated here. As described above, NMFS declared California quillback rockfish overfished in December 2023. The Council adopted a rebuilding plan for the stock at the June 2024 meeting, which NMFS is proposing for implementation in this rulemaking for the 2025-26 biennium (Agenda Item F.6 Supplemental Revised Attachment 3 June 2024). The Council proposed California quillback rockfish ACLs for 2025 and 2026 in accordance with the proposed rebuilding plan, which is described in detail under section III, P. of this preamble.

D. Summary of ACL Changes From 2023 to 2025-26

Table 2 compares the ACLs for major stocks and stock complexes for 2023 and 2025-26 with harvest specifications set under their default harvest control rules. Under this proposed rule, 8 of the 39 stocks/complexes shown in table 2 would have higher ACLs in 2025 than in 2023, and 27 stocks/complexes would have ACLs that would decrease in 2025 from those in 2023. Three stocks/complexes (i.e., Other fish complex, Pacific cod, and starry flounder) would have the same ACLs in 2025 as in 2023. Under this proposed rule, the ACL for yelloweye rockfish would increase by 4.7 percent. This is based on the projections from the 2017 rebuilding analysis and the default harvest control rule specifying ACLs based on the SPR harvest rate of 65 percent. This predicted slow rate of rebuilding is anticipated for this slow growing species. Two stocks (sablefish north of 36° N lat. and sablefish south of 36° N lat.) have ACLs that would increase by more than 100 percent. This increase is due to new information provided in the 2023 update assessment, indicating multiple large year-classes in recent years (e.g., 2016, 2020, and 2021), leading to large increases in the spawning biomass at the end of the time series, with the population projected to continue increasing as new recruits mature. The 55.5 percent decrease in canary rockfish is due to new information from the 2023 full assessment. The 64 percent increase in Other flatfish is due to new information from the 2023 update assessment on rex sole.

Table 2—ACLs for Major Stocks and Management Units for 2023, and Proposed ACLs for the 2025-26 Biennium Under Default Harvest Control Rules. Bold Indicates a Change in ACL Greater Than 50%
[Rebuilding species are capitalized]
Stock/species or complex | Area | ACL (mt): 2023 | ACL (mt): 2025 | ACL (mt): 2026 | % Change 2023 to 2025
YELLOWEYE ROCKFISH | Coastwide | 53.3 | 55.8 | 56.6 | +4.7%
Arrowtooth Flounder | Coastwide | 18,632 | 11,193 | 9,227 | −39.9
Big Skate | Coastwide | 1,320 | 1,224 | 1,188 | −7.3
Black Rockfish | WA | 290 | 245 | 241 | −15.5
Black Rockfish | CA | 334 | 234 | 236 | −29.9
Bocaccio | S of 40°10′ N lat | 1,842 | 1,681 | 1,668 | −8.7
Cabezon | CA | 182 | 162 | 155 | −11.0
Cabezon/Kelp Greenling complex | WA | 20 | 15 | 15 | −25.0
Cabezon/Kelp Greenling complex | OR | 185 | 177 | 174 | −4.3
California Scorpionfish | Coastwide | 262 | 244 | 238 | −6.9
Canary Rockfish | Coastwide | 1,284 | 571 | 573 | −55.5
Chilipepper | S of 40°10′ N lat | 2,183 | 2,815 | 2,643 | +28.9
Cowcod | S of 40°10′ N lat | 80 | 77 | 75 | −3.8
Darkblotched Rockfish | Coastwide | 785 | 754 | 732 | −3.9
English Sole | Coastwide | 9,018 | 8,884 | 8,819 | −1.5
Lingcod | N of 40°10′ N lat | 4,378 | 3,631 | 3,534 | −17.1
Lingcod | S of 40°10′ N lat | 726 | 748 | 773 | +3.0
Longnose Skate | Coastwide | 1,708 | 1,616 | 1,579 | −5.3
Longspine Thornyhead | N of 34°27′ N lat | 2,295 | 2,050 | 1,957 | −10.7
Longspine Thornyhead | S of 34°27′ N lat | 725 | 648 | 618 | −10.7
Pacific Cod | Coastwide | 1,600 | 1,600 | 1,600 | 0.0
Pacific Ocean Perch | N of 40°10′ N lat | 3,573 | 3,328 | 3,220 | −6.9
Pacific Spiny Dogfish | Coastwide | 1,456 | 1,361 | 1,318 | −6.5
Petrale Sole | Coastwide | 3,485 | 2,354 | 2,238 | −32.5
Sablefish | N of 36° N lat | 8,486 | 28,688 | 27,238 | +238.1
Sablefish | S of 36° N lat | 2,338 | 7,857 | 7,460 | +236.1
Blue/Deacon/Black Rockfish complex | Oregon | 597 | 423 | 428 | −29.2
Nearshore Rockfish North ᵃ complex | N of 40°10′ N lat | 93 | 88 | 86 | −5.4
Nearshore Rockfish South ᵃ complex | S of 40°10′ N lat | 887 | 932 | 931 | 5.1
Other Fish complex | Coastwide | 223 | 223 | 223 | 0.0
Other Flatfish complex | Coastwide | 4,862 | 7,974 | 7,144 | +64.0
Shelf Rockfish North complex | N of 40°10′ N lat | 1,283 | 1,392 | 1,378 | +8.5
Shelf Rockfish South complex | S of 40°10′ N lat | 1,469 | 1,465 | 1,462 | −0.3
Slope Rockfish North complex | N of 40°10′ N lat | 1,540 | 1,488 | 1,460 | −3.4
Slope Rockfish South complex | S of 40°10′ N lat | 701 | 693 | 690 | −1.1
Splitnose Rockfish | S of 40°10′ N lat | 1,592 | 1,508 | 1,469 | −5.3
Starry Flounder | Coastwide | 392 | 392 | 392 | 0.0
Widow Rockfish | Coastwide | 12,624 | 11,237 | 10,392 | −11.0
Yellowtail Rockfish | N of 40° 10′ N lat | 5,666 | 6,241 | 6,023 | +10.1
ᵃ California quillback rockfish were removed from the Nearshore Rockfish complexes in November 2023. Thus, the units of comparison are offset between the 2023 ACL and 2025-2026 values in this table.

III. Proposed Management Measures

This section describes proposed management measures used to further allocate the ACLs to the various components of the fishery (i.e., biennial fishery harvest guidelines (HGs) and set-asides) and management measures to control fishing. Management measures for the commercial fishery modify fishing behavior during the fishing year to ensure catch does not exceed the ACL, and include trip and cumulative landing limits, time/area closures, size limits, and gear restrictions. Management measures for the recreational fisheries include bag limits, size limits, gear restrictions, fish dressing requirements, and time/area closures.

A. Deductions From the ACLs

Before making allocations to the primary commercial and recreational components of groundfish fisheries, the Council recommends “off-the-top deductions,” or deductions from the ACLs to account for anticipated mortality for certain types of activities, including: (1) harvest in Pacific Coast treaty Indian Tribal fisheries; (2) harvest in scientific research activities; (3) harvest in non-groundfish fisheries (incidental catch); and (4) harvest that occurs under EFPs. As part of NMFS' effort to simplify regulations pertaining to harvest specifications, the footnotes that typically specify these values in tables 1a, 1b, 2a, and 2b of subpart C would be removed, and all off-the-top deductions proposed for individual stocks or stock complexes and would be published in the 2024 SAFE. The details of the EFPs are discussed below in section III,I of this preamble.

Pacific Coast Tribal Fisheries

The Quileute Tribe, Quinault Indian Nation, Makah Indian Tribe, and Hoh Indian Tribe (collectively, “the Pacific Coast Tribes”) implement management measures for Tribal fisheries both independently as sovereign governments and cooperatively with the management measures in the Federal regulations. The Pacific Coast Tribes work through the Council process to maintain groundfish set-asides, harvest guidelines, and allocations pursuant to treaty fishing rights and as co-managers of the resource. The Pacific Coast Tribes may adjust their Tribal fishery management measures inseason to stay within the Tribal set-asides and allocations and within the estimated impacts to overfished stocks. Table 3 provides the proposed Tribal harvest set-asides and allocations proposed for the 2025-26 biennium for groundfish species other than Pacific whiting, which is allocated through a separate annual specifications process with Canada. These targets are consistent with the 2024 targets, with the exception of petrale sole (decreased to 290 mt), sablefish north of 36° N lat. (increased to 2,869 mt in 2025 and 2,724 mt in 2026) and yelloweye rockfish (increased to 8 mt). Typically, a portion of these values are included as footnotes to tables 1a, 1b, 2a, and 2b of subpart C and the other portion of these values are specified at 50 CFR 660.50. NMFS would remove the footnotes from tables 1a, 1b, 2a, and 2b of subpart C, and publish the full list of Tribal set asides at 50 CFR 660.50 as part of regulatory cleanup efforts. As noted above, these values will also be published in the SAFE.

Table 3—Proposed Tribal Harvest Set-Asides and Allocations for the 2025-26 Biennium Compared to Those in Place in 2024
Stock/species | Off the top deduction: 2024 (mt) | Off the top deduction: 2025-2026 (mt)
Arrowtooth Flounder | 2,041 | 2,041
Big Skate | 15 | 15
Black Rockfish (WA) | 18 | 18
Cabezon/Kelp Greenling (WA) | 2 | 2
Canary Rockfish | 50 | 50
Darkblotched Rockfish | 5 | 5
Dover Sole | 1,497 | 1,497
English Sole | 200 | 200
Lingcod N. of 40°10′ N lat | 250 | 250
Longnose Skate | 220 | 220
Longspine Thornyhead N. of 34°27′ N lat | 30 | 30
Nearshore Rockfish North | 1.5 | 1.5
Other Flatfish | 60 | 60
Pacific cod | 500 | 500
Pacific Ocean Perch | 130 | 130
Pacific Spiny Dogfish | 275 | 275
Petrale Sole | 350 | 290
Sablefish N. of 36° N lat ᵃ | 778 | 2,869 (2025) 2,724 (2026)
Shelf Rockfish North | 30 | 30
Shortspine Thornyhead S. of 34°27′ N lat | 50 | 50
Slope Rockfish North | 36 | 36
Starry flounder | 2 | 2
Widow rockfish | 200 | 200
Yellowtail rockfish | 1,000 | 1,000
Yelloweye rockfish | 5 | 8
ᵃ Sablefish is allocated according to amendment 6 of the PCGFMP and 50 CFR 660.50(f)(2).

The Pacific Coast Tribes proposed trip limit management in Tribal fisheries for 2025-26 for several stocks, including several rockfish stocks and stock complexes. This rulemaking proposes the trip limits for Tribal fisheries. as provided to the Council at its April 2024 meeting in Supplemental Tribal Reports 1 and 2, Agenda Item F.5. For rockfish stocks. Tribal regulations will continue to require full retention of all overfished rockfish stocks and marketable non-overfished rockfish stocks. The Pacific Coast Tribes will continue to develop management measures, including depth, area, and time restrictions, in the directed Tribal Pacific halibut fishery in order to minimize incidental catch of yelloweye rockfish.

Scientific Research

NMFS is proposing, in alignment with the Council's recommendation, the below amounts in table 4 to accommodate mortality from research activities for the 2025-26 biennium. Research activities include the NWFSC's WCGBT survey, the NWFSC's Southern California Hook-and-Line survey, and the International Pacific Halibut Commission longline surveys, as well as other Federal and state research projects. In previous harvest specification cycles, the Council established research set-asides equal to the long-term maximum or historical average (beginning in 2003) for all species except yelloweye rockfish and cowcod, for which custom methodologies were designed for setting research set-asides. However, many of these long-term maximums or averages are not reflective of recent mortality trends in scientific research activities. Therefore, for the 2025-26 biennium, 39 of the 43 stocks or stock complexes that have research set-asides would instead be set equal to their 10-year rolling maximum. The research set-asides for the remaining four stocks (i.e., canary rockfish, cowcod, California quillback rockfish, and yelloweye rockfish) would continue to be established by other methodologies. The rationale for these departures is detailed in Agenda Item E.7.a, Supplemental GMT Report 2, November 2023. The amounts in Table 4 will be published in the SAFE.

Table 4—Proposed Research Set-Asides for the 2025-26 Biennium
[Rebuilding species are capitalized]
Stock/species | Management area | 2025 | 2026
QUILLBACK ROCKFISH | California | 0.1 | 0.1
YELLOWEYE ROCKFISH | Coastwide | 2.9 | 2.9
Arrowtooth flounder | Coastwide | 13.0 | 13.0
Big skate | Coastwide | 5.5 | 5.5
Black rockfish (WA) | Washington | 0.6 | 0.6
Black rockfish (CA) | California | 0.1 | 0.1
Bocaccio | S of 40°10′ N lat | 5.6 | 5.6
Cabezon (CA) | S of 42° N lat | 0.0 | 0.0
California scorpionfish | S of 34°27′ N lat | 0.8 | 0.8
Canary rockfish | Coastwide | 10.1 | 10.1
Chilipepper | S of 40°10′ N lat | 14.1 | 14.1
Cowcod | S of 40°10′ N lat | 10.0 | 10.0
Darkblotched rockfish | Coastwide | 8.5 | 8.5
Dover sole | Coastwide | 61.9 | 61.9
English sole | Coastwide | 8.0 | 8.0
Lingcod | N of 40°10′ N lat | 17.7 | 17.7
Lingcod | S of 40°10′ N lat | 3.2 | 3.2
Longnose skate | Coastwide | 14.7 | 14.7
Longspine thornyhead | N of 34°27′ N lat | 18.4 | 18.4
Longspine thornyhead | S of 34°27′ N lat | 1.3 | 1.3
Pacific cod | Coastwide | 0.8 | 0.8
Pacific ocean perch | N of 40°10′ N lat | 5.4 | 5.4
Pacific Spiny dogfish | Coastwide | 41.9 | 41.9
Pacific whiting | Coastwide | 750.0 | 750.0
Petrale sole | Coastwide | 24.1 | 24.1
Sablefish | N of 36° N lat | 59.3 | 59.3
Sablefish | S of 36° N lat | 2.3 | 2.3
Shortspine thornyhead | Coastwide | 16.3 | 16.3
Splitnose rockfish | S of 40°10′ N lat | 11.2 | 11.2
Starry flounder | Coastwide | 0.6 | 0.6
Widow rockfish | Coastwide | 17.3 | 17.3
Yellowtail rockfish | N of 40°10′ N lat | 20.6 | 20.6
Complex
Nearshore rockfish north | N of 40°10′ N lat | 0.5 | 0.5
Nearshore rockfish south | S of 40°10′ N lat | 0.7 | 0.7
Shelf rockfish north | N of 40°10′ N lat | 15.3 | 15.3
Shelf rockfish south | S of 40°10′ N lat | 15.1 | 15.1
Slope rockfish north | N of 40°10′ N lat | 10.5 | 10.5
Slope rockfish south | S of 40°10′ N lat | 18.2 | 18.2
Other fish | Coastwide | 0.1 | 0.1
Other flatfish | Coastwide | 23.6 | 23.6
Oregon black/blue/deacon rockfish | Oregon | 0.1 | 0.1
Oregon cabezon/kelp greenling | Oregon | 0.1 | 0.1
Washington cabezon/kelp greenling | Washington | 0.4 | 0.4

Incidental Open Access

NMFS is proposing, in alignment with the Council's recommendation, the below amounts in table 5 to accommodate mortality of groundfish taken incidentally in non-groundfish fisheries (i.e., the groundfish incidental open access (IOA) fisheries). IOA comprises the non-Tribal directed commercial Pacific halibut, limited entry and open access California halibut, pink shrimp, and other incidental fisheries. Similar to research mortality, the Council has historically established IOA set-asides equal to the long-term maximum or historical average (beginning in 2003) for all species; however, for the 2025-26 biennium, the Council recommended establishing set-asides based on the new 10-year rolling maximum for 33 of the 43 stocks or stock complexes that have IOA set-asides. The IOA set-asides for the remaining 10 stocks or stock complexes (i.e., bocaccio south of 40°10′ N lat., canary rockfish, darkblotched rockfish, longspine thornyhead north of 34° 27′ N lat., petrale sole, sablefish south of 36° N lat., widow rockfish, nearshore rockfish north of 40° 10′ N lat., slope rockfish south of 40° 10′ N lat., and yelloweye rockfish) would continue to be established by other methodologies. The rationale for these departures is detailed in the Agenda Item E.7.a, Supplemental GMT Report 2 (November 2023). The amounts in table 5 will be published in the SAFE.

Table 5—Proposed Incidental Open Access Set-Asides for the 2025-26 Biennium
[Rebuilding species are capitalized]
Stock/species | Management area | 2025 | 2026
QUILLBACK ROCKFISH | California | 0.0 | 0.0
YELLOWEYE ROCKFISH | Coastwide | 3.9 | 3.9
Arrowtooth flounder | Coastwide | 41.0 | 41.0
Big skate | Coastwide | 38.9 | 38.9
Black rockfish (WA) | Washington | 0.0 | 0.0
Black rockfish (CA) | California | 1.2 | 1.2
Bocaccio rockfish | S of 40°10′ N lat | 2.2 | 2.2
Cabezon (CA) | S of 42° N lat | 0.06 | 0.6
California scorpionfish | S of 34°27′ N lat | 1.2 | 1.2
Canary rockfish | Coastwide | 2.8 | 2.8
Chilipepper rockfish | S of 40°10′ N lat | 13.2 | 13.2
Cowcod | S of 40°10′ N lat | 0.1 | 0.1
Darkblotched rockfish | Coastwide | 10.7 | 10.7
Dover sole | Coastwide | 25.2 | 25.2
English sole | Coastwide | 6.6 | 6.6
Lingcod | N of 40°10′ N lat | 13.4 | 13.4
Lingcod | S of 40°10′ N lat | 8.7 | 8.7
Longnose skate | Coastwide | 15.9 | 15.9
Longspine thornyhead | N of 34°27′ N lat | 1.3 | 1.3
Longspine thornyhead | S of 34°27′ N lat | 0.2 | 0.2
Pacific cod | Coastwide | 0.6 | 0.6
Pacific ocean perch | N of 40°10′ N lat | 10.1 | 10.1
Pacific Spiny dogfish | Coastwide | 6.7 | 6.7
Pacific whiting | Coastwide | 1,500.0 | 1,500.0
Petrale sole | Coastwide | 4.4 | 4.4
Sablefish | S of 36° N lat. | 25.0 | 25.0
Shortspine thornyhead | Coastwide | 5.7 | 5.7
Splitnose rockfish | S of 40°10′ N lat | 2.9 | 2.9
Starry flounder | Coastwide | 14.1 | 14.1
Widow rockfish | Coastwide | 1.0 | 1.0
Yellowtail rockfish | N of 40°10′ N lat | 4.5 | 4.5
Complex
Nearshore rockfish north | N of 40°10′ N lat | 1.1 | 1.1
Nearshore rockfish south | S of 40°10′ N lat | 1.8 | 1.8
Shelf rockfish north | N of 40°10′ N lat | 20.5 | 20.5
Shelf rockfish south | S of 40°10′ N lat | 11.5 | 11.5
Slope rockfish north | N of 40°10′ N lat | 11.5 | 11.5
Slope rockfish south | S of 40°10′ N lat | 0.9 | 0.9
Other fish | Coastwide | 9.7 | 9.7
Other flatfish | Coastwide | 87.7 | 87.7
Oregon black/blue/deacon rockfish | Oregon | 1.5 | 1.5
Oregon cabezon/kelp greenling | Oregon | 0.7 | 0.7
Washington cabezon/kelp greenling | Washington | 0 | 0

Exempted Fishing Permits

Issuing EFPs is authorized by regulations implementing the MSA at 50 CFR 600.745, which state that EFPs may be used to authorize fishing activities that would otherwise be prohibited. The Council routinely considers EFP applications concurrently with the biennial harvest specifications and management process because expected catch under most EFP projects is accounted for via off-the-top deductions from ACLs. However, both EFP applications recommended by the Council for 2025-26 do not request off-the-top deductions from ACLs and plan to account for their catch via other methods. A detailed description of these EFP proposals is provided in section III, I of this preamble.

Recreational Sablefish Set-Aside

The allocation framework for sablefish north of 36° N lat. was set up under amendment 6 to PCGFMP (57 FR 54001; Nov 16 1992). This framework deducts a set-aside from the ACL to account for mortality in the recreational fisheries. The set-aside amount is usually based on the maximum historical value of sablefish caught in recreational fisheries. The Council recommended, and NMFS is proposing, increasing the recreational set-aside from 6 mt in the 2023-24 biennium to 30 mt in the 2025-26 biennium. As described in the Council Analytical Document (Agenda Item F.6 Attachment, June 2, 2024), historical recreational mortality of sablefish north of 36° N lat. has not exceeded 3.98 mt from 2005-22. However, the California and Oregon recreational catch estimates for 2023 totaled 23.9 mt. Therefore, the Council is recommending increasing the set-aside amount to accommodate the recreational fishery. This increase is not expected to constrain the commercial fishery in the 2025-26 biennium.

B. Annual Catch Targets

As defined at 50 CFR 660.11, an annual catch target (ACT) is a management target set below the ACL that may be used as an accountability measure in cases where there is uncertainty in inseason catch monitoring to ensure against exceeding an ACL. Since the ACT is a target and not a limit, it can be used in lieu of HGs or set strategically to accomplish other management objectives. Sector-specific ACTs can also be specified to accomplish management objectives. For the 2025-26 biennium, the Council recommended, and NMFS is proposing, ACTs for yelloweye rockfish in the non-trawl sectors (both commercial and recreational), copper rockfish in the recreational sector south of 34° 27′ N lat., and shortspine thornyhead in the commercial non-trawl sector north of 34° 27′ N lat. Further, the Council recommended removing the ACT from the 2023-24 biennium for California quillback rockfish. These ACTs can be found in the footnotes to tables 1a and 2a to part 660, subpart C in the regulatory text of this proposed rule.

Yelloweye Rockfish

The Council considered removing the non-trawl ACT for yelloweye rockfish. Yelloweye rockfish is a prohibited species in all non-trawl groundfish fisheries, where more than 95 percent of the mortality occurs. It is currently managed with a non-trawl ACT set at 78.4 percent of the non-trawl allocation, and sector-specific ACTs under the non-trawl allocation are also set at 78.4 percent of their respective sector-specific HGs (table 6 below). The majority of commercial non-trawl mortality is discarded and, therefore, commercial non-trawl inseason estimates are largely year-end projections that do not have data-informed estimates of discards until September of the following year, when the Groundfish Expanded Mortality Multiyear (GEMM) report is available. Additionally, pre-season management measures of any non-trawl sector are not expected to be different with or without the ACT. However, ultimately, the Council recommended maintaining ACTs as a precaution. Since yelloweye rockfish catch has been restricted for many years, it is difficult to project encounter rates. This precautionary approach to higher catch limits would allow more access to target fisheries for the non-trawl sector, while also managing for the uncertainty and volatility in catch of this rebuilding stock by this sector.

Table 6—Proposed 2025-26 Non-Trawl Yelloweye Rockfish HGs and ACTs for the Sector and Sub-Sectors
Sector | 2025: HG (mt) | 2025: ACT (mt) | 2026: HG (mt) | 2026: ACT (mt)
Non-Trawl Sector total | 37.7 | 29.6 | 38.5 | 30.2
Non-nearshore/Nearshore (20.9%) | 7.9 | 6.2 | 8.0 | 6.3
WA Rec (25.6%) | 9.7 | 7.6 | 9.9 | 7.7
OR Rec (23.3%) | 8.8 | 6.9 | 9.0 | 7.0
CA Rec (30.2%) | 11.4 | 8.9 | 11.6 | 9.1

Copper Rockfish South of 34°27′ N lat.

NMFS is proposing, in alignment with the Council's recommendation, to remove the statewide all-sector copper rockfish ACT and to establish a recreational copper rockfish ACT in the area south of 34°27′ N lat. This recommendation was made in response to the 2023 copper rockfish off California stock assessment, which estimated depletion of copper rockfish at 46 and 16 percent north and south of 34°27′ N lat., respectively (Agenda Item G.2 Attachment 1, September 2023 and Agenda Item G.2 Attachment 2, September 2023). While allowable harvest of copper rockfish off California is shared by the fixed gear commercial and recreational sectors, recreational mortality has accounted for the majority of impacts in recent years. This is particularly evident in the area south of 34°27′ N lat. Over the last 6 years, the recreational fishery, on average, has been responsible for approximately 90 percent of total mortality in the area south of 34°27′ N lat. As noted in Agenda Item E.7.a, Supplemental GMT Report 3, November 2023, establishing a within non-trawl recreational ACT for copper rockfish south of 34°27′ N lat. may provide a mechanism for management specifically addressing the proportion of the copper rockfish stock that may be more susceptible to localized depletion, in a similar manner as has been done previously for stocks of concern (e.g., yelloweye rockfish). The proposed ACTs are 15.8 and 18.0 mt for 2025 and 2026, respectively.

Shortspine Thornyhead North of 34°27′ N lat.

NMFS is proposing, in alignment with the Council's recommendation, an ACT for shortspine thornyhead in the non-trawl commercial sector north of 34°27′ N lat. This ACT is related to the Council's recommendation to revise the allocation framework for shortspine thornyhead, which is described in detail under section III, L of this preamble. The proposed ACTs for shortspine thornyhead are 67 mt and 55 mt for 2025 and 2026, respectively.

California Quillback Rockfish

NMFS is proposing, in alignment with the Council's recommendation, to remove the ACT from the 2023-24 biennium for quillback rockfish off California. The ACT was originally designed as a mechanism to monitor quillback rockfish mortality relative to its component mortality of the Nearshore Rockfish complex ACL. Now that the Council has recommended to remove California quillback rockfish from the Nearshore complex, mortality will be monitored against its species-specific ACLs. Due to anticipated low harvest limits, there is little value in setting an ACT lower than the ACL because the small difference in an ACL to ACT will not give the Council a timely warning to reduce mortality to avoid exceeding the ACL.

C. Biennial Fishery Allocations

The Council routinely recommends two-year trawl and non-trawl allocations during the biennial specifications process for stocks without formal allocations (as defined in section 6.3.2 of the PCGFMP) or stocks where the long-term allocation is suspended because the stock is declared overfished. The two-year trawl and non-trawl allocations, with the exception of sablefish north of 36° N lat., are based on the fishery HG. The fishery HG is the tonnage that remains after subtracting the off-the-top deductions described in section III, A, entitled “Deductions from the ACLs,” in this preamble. The trawl and non-trawl allocations and recreational HGs are designed to accommodate anticipated mortality in each sector as well as variability and uncertainty in those mortality estimates. Additional information on the Council's allocation framework and formal allocations can be found in section 6.3 of the PCGFMP and 50 CFR 660.55 of the Federal regulations. Tables 7 and 8 below include both categories of allocations, including formal allocations specified in the PCGFMP (i.e., amendment 21 stocks/species) or biennial allocations that are not specified in the PCGFMP and only specified in the Federal regulations each biennium (i.e., 2-year allocations). Table 9 below presents the proposed allocations for sablefish north of 36° N lat. All allocations are detailed in the harvest specification tables appended to 50 CFR part 660, subpart C in the regulatory text of this proposed rule.

Table 7—Proposed 2025 Amendment 21 and Biennial Trawl/Non-Trawl Allocation Percentages (%) and Allocation Amounts in Metric Tons (mt)
[Rebuilding species are capitalized]
Stock/species | Management area | Fishery HG (mt) | Allocation type | Trawl: % | Trawl: mt | Non-trawl: % | Non-trawl: mt
Yelloweye rockfish | Coastwide | 41 | Biennial | 8 | 3.3 | 92 | 38.5
Arrowtooth flounder | Coastwide | 9,098 | A-21 | 95 | 8,643.1 | 5 | 454.9
Big skate | Coastwide | 1,164.6 | Biennial | 95 | 1,106.4 | 5 | 58.2
Bocaccio rockfish | S of 40°10′ N lat | 1,673.2 | Biennial | 39 | 652.5 | 61 | 1,020.6
Canary rockfish | Coastwide | 508.4 | Biennial | 72.3 | 367.6 | 27.7 | 140.8
Chilipepper rockfish | S of 40°10′ N lat | 2,788 | A-21 | 75 | 2,091 | 25 | 697.0
Cowcod | S of 40°10′ N lat | 66.5 | Biennial | 36 | 23.9 | 64 | 42.6
Darkblotched rockfish | Coastwide | 729.8 | A-21 | 95 | 693.3 | 5 | 36.5
Dover sole | Coastwide | 45,840 | A-21 | 95 | 43,459.8 | 5 | 2,290.2
English sole | Coastwide | 8,669.4 | A-21 | 95 | 8,235.9 | 5 | 433.5
Lingcod | N of 40°10′ N lat | 3,349.9 | A-21 | 45 | 1,507.5 | 55 | 1,842.4
Lingcod | S of 40°10′ N lat | 736.4 | Biennial | 40 | 294.6 | 60 | 441.8
Longnose skate | Coastwide | 1,365.4 | Biennial | 90 | 1,228.9 | 10 | 136.5
Longspine thornyhead | N of 34°27′ N lat | 2,000.7 | A-21 | 95 | 1,900.7 | 5 | 100.0
Pacific cod | Coastwide | 1,098.6 | A-21 | 95 | 1,043.7 | 5 | 54.9
Pacific Ocean perch | N of 40°10′ N lat | 3,182.5 | A-21 | 95 | 3,023.4 | 5 | 159.1
Pacific whiting b/ | Coastwide |  | A-21 | 100 |  | 0 | 0
Petrale sole | Coastwide | 2,036 | Biennial |  | 2,006 |  | 30
Sablefish | N of 36° N lat | See Table 9
Sablefish | S of 36° N lat | 7,829.8 | A-21 | 42 | 3,288.5 | 58 | 4,541.3
Shortspine thornyhead | Coastwide | 743.3 | Biennial | 64 | 475.7 | 36 | 267.6
Splitnose rockfish | S of 40°10′ N lat | 1,493.9 | A-21 | 95 | 1,419.2 | 5 | 74.7
Starry flounder | Coastwide | 375.3 | A-21 | 50 | 187.7 | 50 | 187.7
Widow rockfish | Coastwide | 11,018.7 | Biennial |  | 10,718.7 |  | 300.0
Yellowtail rockfish | N of 40°10′ N lat | 5,216.1 | A-21 | 88 | 4,590.2 | 12 | 625.9
Complexes
Shelf rockfish north | N of 40°10′ N lat | 1,325.7 | Biennial | 60.2 | 798.1 | 39.8 | 527.6
Shelf rockfish south | S of 40°10′ N lat | 1,438.6 | Biennial | 12.2 | 175.4 | 87.8 | 1,263.1
Slope rockfish north | N of 40°10′ N lat | 1,430 | A-21 | 81 | 1,158.3 | 19 | 271.7
Slope rockfish south | S of 40°10′ N lat | 674 | Biennial | 63 | 424.6 | 37 | 249.4
Other flatfish | Coastwide | 7,803 | A-21 | 90 | 7,022.7 | 10 | 780.3

Table 8—Proposed 2026 Amendment 21 and Biennial Trawl/Non-Trawl Allocation Percentages (%) and Allocation Amounts in Metric Tons (mt)
Stock/species | Management area | Fishery HG (mt) | Allocation type | Trawl: % | Trawl: mt | Non-trawl: % | Non-trawl: mt
Yelloweye Rockfish | Coastwide | 41.8 | Biennial | 8 | 3.3 | 92 | 38.5
Arrowtooth flounder | Coastwide | 7,132 | A-21 | 95 | 6,775.4 | 5 | 356.6
Big skate | Coastwide | 1,128.6 | Biennial | 95 | 1,072.2 | 5 | 56.4
Bocaccio | S of 40°10′ N lat | 1,680.5 | Biennial | 39 | 655.4 | 60 | 1,025.1
Canary rockfish | Coastwide | 509.6 | Biennial | 72.3 | 368.4 | 27.7 | 141.2
Chilipepper | S of 40°10′ N lat | 2,615.2 | A-21 | 75 | 1,961.4 | 25 | 653.8
Cowcod | south of 40°10′ N lat | 65.2 | Biennial | 36 | 23.5 | 64 | 41.7
Darkblotched rockfish | Coastwide | 707.8 | A-21 | 95 | 672.4 | 5 | 35.4
Dover sole | Coastwide | 40,873 | A-21 | 95 | 38,829.4 | 5 | 2,043.7
English sole | Coastwide | 8,604.4 | A-21 | 95 | 8,174.2 | 5 | 430.2
Lingcod | N of 40°10′ N lat | 3,252.9 | A-21 | 45 | 1,463.8 | 55 | 1,789.1
Lingcod | S of 40°10′ N lat | 761.5 | Biennial | 40 | 304.6 | 60 | 456.9
Longnose skate | Coastwide | 1,328.4 | Biennial | 90 | 1,195.6 | 10 | 132.8
Longspine thornyhead | N of 34°27' N lat | 1,907.3 | A-21 | 95 | 1,811.9 | 5 | 95.4
Pacific cod | Coastwide | 1,098.6 | A-21 | 95 | 1,043.7 | 5 | 54.9
Pacific Ocean perch | N of 40°10′ N lat | 3,074.5 | A-21 | 95 | 2,920.8 | 5 | 153.7
Pacific whiting a/ | Coastwide |  | A-21 | 100 | 0.0 |  | 0
Petrale sole | Coastwide | 1,919.5 | Biennial |  | 1,889.5 |  | 30.0
Sablefish | N of 36° N lat |  | See Table 9
Sablefish | S of 36° N lat | 7,432.9 | A-21 | 42 | 3,121.8 | 58 | 4,311.1
Shortspine thornyhead | Coastwide | 752.7 | Biennial | 71 | 534.4 | 29 | 218.3
Splitnose rockfish | S of 40°10′ N lat | 1,454.9 | A-21 | 95 | 1,382.2 | 5 | 72.7
Starry flounder | Coastwide | 375.3 | A-21 | 50 | 187.7 | 50 | 187.7
Widow rockfish | Coastwide | 10,173.7 | Biennial |  | 9,873.7 |  | 300.0
Yellowtail rockfish | N of 40°10′ N lat | 4,997.5 | A-21 | 88 | 4,397.8 | 12 | 599.7
Complexes
Shelf rockfish north | N of 40°10′ N lat | 1,312.3 | Biennial | 60.2 | 790 | 39.8 | 522.3
Shelf rockfish south | N of 40°10′ N lat | 1,436.2 | Biennial | 12.2 | 172.2 | 87.8 | 1261
Slope rockfish north | N of 40°10′ N lat | 1,402.2 | A-21 | 81 | 1,135.8 | 19 | 266.4
Slope rockfish south | S of 40°10′ N lat | 671 | Biennial | 63 | 422.7 | 37 | 248.3
Other flatfish | Coastwide | 6,563 | A-21 | 90 | 6,973 | 10 | 697.3
ᵃ Pacific whiting harvest limits are set through an annual bilateral treaty process external to the Council.

Table 9—Proposed 2025-2026 Non-Tribal Sablefish North of 36° N Lat. Commercial HGs and Limited Entry (LE) Trawl and Fixed Gear (LEFG) and Open Access (OA) Fishery Allocations as Percentages (%) and Metric Tons (mt)
Year | Non-tribal commercial HG | LE share: % | LE share: mt | LE trawl share: % | LE trawl share: mt | LEFG share: % | LEFG share: mt | OA share: % | OA share: mt
2025 | 25,729.3 | 90.6 | 23,310.7 | 58 | 13,520.2 | 42 | 9,791.9 | 9.4 | 2,418.6
2026 | 24,425.1 | 90.6 | 22,129.1 | 58 | 12,834.9 | 42 | 9,294.0 | 9.4 | 2,296.0

Shortspine Thornyhead

Shortspine thornyhead has a formal allocation structure described in amendment 21 to the PCGFMP. The stock has a coastwide OFL and ABC, with two area-specific ACLs and fishery HGs set for north and south of 34°27′ N lat. The area-specific ACLs have been apportioned using the data (2003-2012) from the NWFSC WCGBT survey at the time of the previous assessment conducted in 2013. There are different allocation frameworks for each area. For north of 34°27′ N lat., 95 percent of the HG has gone to the trawl sector, and 5 percent of the HG to the non-trawl sector. For south of 34°27′ N lat., a fixed tonnage of 50 mt has gone to the trawl sector, and the remainder of the HG to the non-trawl sector. For the 2025-26 biennium, NMFS is proposing, in alignment with the Council's recommendation, a change to this allocation structure to alleviate anticipated constraints for both the trawl and non-trawl sector north of 34°27′ N lat. The details of this new management measure are described in the Analysis and in section III, L of this preamble. The proposed allocation framework would change shortspine thornyhead to a 2-year allocation species, and set a coastwide ACL, coastwide off-the-top deductions, and a coastwide HG. In 2025, the trawl/non-trawl allocation would be 64 and 36 percent of the HG, respectively, and in 2026 the trawl/non-trawl allocation would be 71 and 29 percent of the HG, respectively. These values are reflected in tables 6 and 7 above.

Widow Rockfish

The typical allocation framework for widow rockfish allots a fixed 400 mt to the non-trawl sector and the remainder of the HG to the trawl sector. For the 2025-26 biennium, NMFS is proposing, in alignment with the Council's recommendation, to reduce the non-trawl allocation to a fixed 300 mt, thus increasing the remainder of the HG allocated to the trawl sector by 100 mt. As described in the Council Analytical Document (Agenda Item F.6 Attachment 2 June 2024), the 2025-26 trawl allocations are expected to be lower than that sector's mortality in recent years. The resulting allocations proposed for 2025 and 2026 in tables 6 and 7, respectively, are expected to meet the needs of each sector.

D. Harvest Guideline Sharing Agreements

For each biennium, the Council can consider HG sharing agreements for other stocks or stock complexes separate from the standard list of biennial allocations discussed in section III, C of this preamble. These sharing agreements can be arrangements on how the HG is split among separate states, fishery sectors, or both. For the 2025-26 biennium, NMFS is proposing sharing agreements for: bocaccio south of 40°10′ N lat., canary rockfish, cowcod, Nearshore rockfish complex north of 40°10′ N lat., sablefish south of 36° N lat., slope rockfish south of 40°10′ N lat., and blackgill rockfish. All proposed sharing agreements are maintained from the 2023-24 biennium, with the exception of sablefish south of 36° N lat. The Council is recommending a new sharing agreement for sablefish south of 36° N lat. (described below) based on a new recreational set-aside. See the Council Analytical Document (Agenda Item F.6 Attachment 2, June 2024) for more information on how these HG sharing agreements were chosen. Each of the sharing agreements and the resulting shares between sectors and/or states will be published in the SAFE.

Sablefish South of 36° N Lat.

The Council recommended, and NMFS is proposing, a new recreational set-aside of 10 mt for sablefish south of 36° N lat., within the non-trawl HG sharing agreement, because the recreational fishery in this area has expressed interest in targeting sablefish. As described in the Council Analytical Document (Agenda Item F.6 Attachment 2, June 2024), this amount would allow for better monitoring of mortality of this stock and is not expected to constrain the commercial non-trawl sector, which targets sablefish.

Table 10—Proposed HG Sharing Agreement for Sablefish South of 36° N lat. in the 2025-26 Biennium
Sector | Non-trawl allocation (mt) | Rec. set-aside (mt) | Non-trawl HG (mt) | LEFG share (mt) 70% | OA share (mt) 30%
2025 | 4,541.3 | 10 | 4,531.3 | 3,171.9 | 1,359.4
2026 | 4,311.1 | 10 | 4,301.1 | 3,010.8 | 1,290.3

E. Modifications to Waypoints for Rockfish Conservation Areas

Rockfish Conservation Areas (RCAs) are large area closures intended to reduce the catch of a rockfish stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area.

For the 2025-26 biennium, NMFS is proposing, in alignment with the Council's recommendation, coordinate modifications to six waypoints (#95 through 100) on the 50 fathom (fm) line seaward of California between Pt. Arena and Bodega Bay. These modifications would better align existing RCA coordinates with the 50-fm chart-based depth contour.

F. Limited Entry Trawl

The limited entry trawl fishery is made up of the shorebased individual fishing quota (IFQ) program (for whiting and non-whiting) and the at-sea whiting sectors (Mothership (MS) and catcher-processor (C/P)). For some stocks and stock complexes with a trawl allocation, an amount is first set-aside for the at-sea whiting sector with the remainder of the trawl allocation going to the shorebased IFQ sector. Set-asides are not managed by NMFS or the Council except in the case of a risk to the ACL.

At-Sea Set Asides

For several species, the trawl allocation is reduced by an amount set-aside for the at-sea whiting sector. This amount is designed to accommodate catch by the at-sea whiting sector when they are targeting Pacific whiting. NMFS is proposing, in alignment with the Council's recommendation, the set-asides in table 11 for the 2025-26 biennium.

Table 11—2025-26 At-Sea Set-Asides for Vessels Targeting Pacific Whiting While Fishing as Part of the At-Sea Sector
Species or species complex | Area | At-sea set aside amount (mt)
Arrowtooth Flounder | Coastwide | 100
Canary rockfish | Coastwide | 20
Darkblotched rockfish | Coastwide | 100
Dover sole | Coastwide | 10
Lingcod | N of 40°10′ N lat | 15
Longnose skate | Coastwide | 5
Other flatfish | Coastwide | 100
Pacific halibut | Coastwide | 10
Pacific ocean perch | N of 40°10′ N lat | 300
Petrale sole | Coastwide | 5
Sablefish | N of 36° N lat | 429
Shelf rockfish complex | N of 40°10′ N lat | 35
Shortspine thornyhead | N of 34°27′ N lat | 70
Slope rockfish complex | N of 40°10′ N lat | 300
Widow rockfish | Coastwide | 300
Yellowtail rockfish | N of 40°10′ N lat | 360

Incidental Trip Limits for IFQ Vessels

For vessels fishing in the Shorebased IFQ Program, with either groundfish trawl gear or non-trawl gears, the following incidentally-caught stocks are managed with trip limits: Nearshore rockfish complex north and south, Washington black rockfish, Oregon black/blue/deacon rockfish complex, cabezon (46°16′ to 40°10′ N lat. and south of 40°10′ N lat.), Pacific spiny dogfish, longspine thornyhead south of 34°27′ N lat., big skate, California scorpionfish, longnose skate, Pacific whiting, and the Other Fish complex. For all these stocks, this rulemaking proposes maintaining the same IFQ fishery trip limits for these stocks for the start of the 2025-26 biennium as those in place in 2024. Additionally, this rulemaking proposes maintaining the trip limit for blackgill rockfish within the southern Slope rockfish complex. The trip limit would be unlimited to start the 2025 fishing year. The purpose of the blackgill trip limit would be to allow the Council to reduce targeting of blackgill rockfish inseason, if needed. Trip limits for the IFQ fishery can be found in table 1b (North) and table 1b (South) to part 660, subpart D. Changes to trip limits would be considered a routine measure under 50 CFR 660.60(c), and may be implemented or adjusted, if determined necessary, through inseason action.

G. LEFG and OA Non-Trawl Fishery

Management measures for the LEFG and OA non-trawl fisheries tend to be similar because the majority of participants in both fisheries use hook-and-line gear. Management measures, including area restrictions (e.g., Non-Trawl RCA) and trip limits in these non-trawl fisheries, are generally designed to allow harvest of target stocks while keeping catch of overfished stocks low. LEFG trip limits are specified in table 2b (North) and table 2b (South) to subpart E. OA trip limits are specified in table 3b (North) and table 3b (South) to subpart F, in the regulatory text of this proposed rule. HG sharing agreements between non-trawl sectors are published in the SAFE.

LEFG and OA Trip Limits

The Council recommended, and NMFS is proposing, status quo trip limits for LEFG and OA fisheries in 2025, with the exception of the OA trip limit for lingcod north of 42° N lat., which is being decreased from 11,000 pounds (lb) (4,990 kilograms (kg)) per 2 months, to 9,000 lb (4,082 kg) per 2 months, to ensure the OA trip limit is lower than the LEFG trip limit. The Council also recommended modifying the temporal component (i.e., monthly to bimonthly) of multiple OA and LEFG trip limits. Consolidating trip limits from monthly to bimonthly is expected to reduce regulator complexity and confusion. With the exception of the trip limit for lingcod north of 42° N lat., trip limit amounts that were monthly would double for the bimonthly trip limit (i.e., a trip limit that was 100 lb (45 kg) monthly would become a 200 lb (91 kg) trip limit in the bimonthly option). The Council could recommend further adjustment to the trip limits through additional inseason action, once more data on the current limits is collected and the effects on mortality, particularly discard mortality, are better understood. More information on these trip limits can be found in the Council Analytical Document (Agenda Item F.6 Attachment 2, June 2024).

Primary Sablefish Tier Limits

The primary sablefish fishery tier program is a limited access privilege program set up under amendment 14 to PCGFMP (66 FR 41152; August 7, 2001). Participants hold limited entry permits with a pot gear and/or longline gear endorsement and a sablefish endorsement.

Under amendment 14, as set out in 50 CFR 660.231, the permit holder of a sablefish-endorsed permit receives a tier limit, which is an annual share of the sablefish catch allocation to this sector. NMFS sets three different tier limits through the biennial harvest specifications and management measures process and up to three permits may be stacked at one time on a vessel participating in the fishery. Stacked tier limits are combined to provide a cumulative catch limit for that vessel. After vessels have caught their full tier limits, they are allowed to move into other fisheries for sablefish, specifically the LEFG or OA trip limit fishery, or fisheries for other species. The proposed tier limits for 2025 are as follows: Tier 1 at 246,824 lb (111,957 kg), Tier 2 at 112,193 lb (50,890 kg), and Tier 3 at 64,110 lb (29,080 kg). The proposed tier limits for 2026 are as follows: Tier 1 at 234,312 lb (106,282 kg), Tier 2 at 106,506 lb (48,310 kg), and Tier 3 at 60,860 lb (27,606 kg).

H. Recreational Fisheries

This section describes the recreational fisheries management measures proposed for 2025-2026, which are intended to keep catch within the recreational harvest guidelines for each stock. Washington, Oregon, and California each proposed, and the Council recommended, different combinations of seasons, bag limits, area closures, and size limits for stocks targeted in recreational fisheries. These measures are designed to limit catch of overfished stocks found in the waters adjacent to each state while allowing target fishing opportunities in their particular recreational fisheries. This proposed rule would set these measures for recreational fisheries occurring in the EEZ. Each state, respectively, typically sets measures for recreational fisheries in State waters. The following sections describe the recreational management measures proposed in each state.

Washington

The state of Washington manages its marine fisheries in four areas: (1) Marine Area 1, which extends from the Oregon/Washington border to Leadbetter Point; (2) Marine Area 2, which extends from Leadbetter Point to the mouth of the Queets Rivers; (3) Marine Area 3, which extends from the Queets River to Cape Alava; and (4) Marine Area 4, which extends from Cape Alava to the Sekiu River. This proposed rule would adopt the following season structure in table 12.

BILLING CODE 3510-22-P

BILLING CODE 3510-22-C

Consistent with the Council's recommendation, NMFS proposes continuing with the same season structure, closed areas, and bag limits for 2025-26 as were in place in 2024, with the exception of some varying depth restrictions proposed in table 12 above to ensure harvest specifications are not exceeded. The Council also proposed a new sub-bag limit for canary rockfish of five fish (out of the seven rockfish bag limit). For more information on the proposed management measures for the Washington recreational fishery, see the Washington Department of Fish and Wildlife (WDFW) reports from the April and June 2024 Council meetings (Agenda Item F.5.a, Supp. WDFW Report 1, April 2024; Agenda Item F.6.a WDFW Report 1 June 2024).

Oregon

NMFS is proposing, consistent with the Council's recommendation, that Oregon recreational fisheries in 2025-26 would operate under an all months all depths season structure to start the 2025 fishing year. The Council recommended maintaining the 2023-24 aggregate bag limits and size limits in Oregon recreational fisheries for 2025-26, but with the addition of a new bag limit for sablefish and a new sub-bag limit for canary rockfish within the longleader bag limit. The proposed bag limits are: a marine fish aggregate limit of 10 fish per day, where cabezon have a minimum size of 16 inches (in) (41 centimeter (cm)); 3 lingcod per day, with a minimum size of 22 in (56 cm); 25 flatfish per day, excluding Pacific halibut; a longleader gear limit of 12 fish per day with a sub-bag limit of 5 canary rockfish; and 10 sablefish per day.

NMFS is proposing, consistent with the Council's recommendation, a new sub-bag limit of five canary rockfish per angler within the longleader bag limit. This sub-bag limit would be used to mitigate the decrease in the coastwide ACL and recreational allocation for canary rockfish. The Council also recommended a new bag limit for sablefish. As explained in the Council Analytical Document (Agenda Item F.6 Attachment 2, June 2024), sablefish encounters and catches have increased in all sectors (including the Oregon recreational fishery), as larger recruitment classes of sablefish have entered into the different fisheries. Sablefish are not a targeted species in the Oregon recreational fishery; however, they are encountered during offshore Pacific halibut fishing trips and/or offshore longleader trips. Recreational anglers off Oregon are allowed to retain sablefish during a longleader trip, however, under current regulations, the sablefish bag limit is part of the general marine bag limit (i.e., maximum of 10), which is smaller than the longleader bag limit (i.e., maximum of 12). Sablefish, at present, must count as part of the 12-fish longleader bag limit. Removing sablefish from the marine bag and creating a new sablefish bag limit of 10 avoids regulatory complexity, as anglers would then be allowed to retain 10 sablefish in addition to the 12-fish longleader bag limit. Additionally, a 10-fish sablefish bag limit allows anglers to retain more sablefish in conjunction with the longleader bag limit. This measure will likely decrease regulatory discards and provide an additional opportunity for recreational anglers that fish offshore. For more information on the proposed management measures for the Oregon recreational fishery, see the Council Analytical Document and the Oregon Department of Fish and Wildlife reports from the April 2024 Council meeting (Agenda Item F.5.a Supplemental ODFW Report 1, April 2024).

California

The Council manages recreational fisheries in waters seaward of California in five separate management areas. Season and area closures differ between California management areas to limit incidental catch of overfished stocks and stocks of concern while providing as much recreational fishing opportunity as possible. The Council's recommended California season structure for 2025 and 2026 is the same as the structure adopted by the Council for 2024 recreational fisheries in California (Agenda Item F.8.a CDFW Supplemental Report 2, March 2024; Agenda Item F.5.a Supplemental CDFW Report 1 April 2024).

In the Northern Management Area (42° N lat. to 40°10′ N lat.), the Mendocino Management Area (40°10′ N lat. to 38°57.5′ N lat.), the San Francisco Management Area (38°57.5′ N lat. to 37°11′ N lat.), and part of the Central Management Area (37°11′ N lat. to 36° N lat.), the fishery for California rockfish, cabezon, greenling complex (RCG complex), as defined at 50 CFR 660.360(c)(3)(ii), and the fishery for lingcod would be closed January 1 to March 31, open seaward of 50 fm (91 m) from April 1 to April 31, closed in the EEZ from May 1 to September 30, open seaward of 50 fm (91 m) from October 1 to October 31, closed in the EEZ, and open seaward of 50 fm (91 m) from December 1 to December 31.

In the other portion of the Central Management Area (36° N lat. to 34°27′ N lat.) and the Southern Management Area (34°27′ N lat. to U.S./Mexico border), the RCG complex fishery and the lingcod fishery would be closed January 1 to March 31, open in all depths April 1 to June 30, open in the EEZ shoreward of 50 fm (91 m) from July 1 to September 30, and open seaward of 50 fm (91 m) from October 1 to December 31. Recreational groundfish fishing opportunities in state waters may differ and would be announced separately by the California Department of Fish and Wildlife (CDFW).

Table 13 shows the proposed season structure and depth limits by management area in 2025 and 2026 for the RCG complex fishery and lingcod fishery.

BILLING CODE 3510-22-P

BILLING CODE 3510-22-C

The use of the 50 fm line in the table above constitutes the Recreational RCA line for the start of the 2025-26 biennium, but the Council could recommend to use a different fm line via an inseason action. In other words, the line approximating the 50 fm depth contour would be the line used for the “offshore fishery,” where fishing can be open seaward of the single fm line, as opposed to across a range of depths between two fm lines, which is how RCA closures are typically structured. This management measure was implemented in the 2023-24 biennium (87 FR 77007; December 16, 2022) and used for the first time via the Council's September 2023 inseason action (88 FR 67656; October 2, 2023).

In 2023-24, Federal regulations required that recreational vessels be in continuous transit when motoring back to port during times where an offshore fishery was in place. However, these regulations inadvertently prevented recreational vessels from anchoring overnight shoreward of a Recreational RCA during unfavorable weather conditions or during multi-day trips, thus creating safety-at-sea concerns. Additionally, these regulations inadvertently prevented recreational vessels from fishing for non-groundfish species (e.g., lobster) that they would typically target alongside groundfish. NMFS published a temporary emergency rule to address this issue on April 1, 2024 (89 FR 22352). To address these concerns for the 2025-26 biennium and beyond, NMFS is proposing, consistent with the Council's recommendation, a new management measure that would allow recreational vessels to stop and/or anchor in Federal waters shoreward of the Recreational RCA line, provided that no hook-and-line gear is deployed. This management measure is described in greater detail in the Analysis and below in section III.N.

NMFS is proposing, consistent with the Council's recommendation, the continuation of all the same bag and sub-bag limits from 2024 for the RCG complex, lingcod, Other flatfish, petrale sole, starry flounder, and California scorpionfish. With the exception of the seasonal Recreational RCA boundaries described above in table 13, all other area closures would remain the same as 2024 for 2025-26 (i.e., Cordell Bank GCA, YRCAs, GEAs, and EFHCAs).

NMFS is proposing, consistent with the Council's recommendation, to remove size limit requirements for cabezon, greenlings, and California scorpionfish. NMFS is also proposing to remove the filet length requirement for California scorpion fish and modifying the filet requirements for cabezon, greenlings, California scorpionfish, and lingcod. Current regulations prohibit fileting cabezon and greenlings at sea (50 CFR 660.360(c)(3)(ii)(D)) and specify minimum size requirements (50 CFR 660.360(c)(3)(ii)(C)). California scorpion fish are allowed to be fileted at sea provided that filets are no smaller than 5 in (12.8 cm) and bear an intact 1 in (2.6 cm) square patch of skin (50 CFR 660.360(c)(3)(v)(D)); there is also a minimum size requirement of 10 in (25 cm) (50 CFR 660.360(c)(3)(v)(C)). Lingcod is also allowed to be fileted at sea provided that filets are no smaller than 14 in (36 cm) in length and that each filet bear an intact 1 in (2.6 cm) square patch of skin. The Council recommended to change these regulations to remove the size limits and instead allow fishermen to filet both cabezon and greenlings at sea. In addition, the Council recommended to remove the size limit for California scorpionfish, and modify the filet requirements for cabezon, greenlings, California scorpionfish and lingcod so that the skin is required to be left on the filet, which would improve the ability for enforcement officers to distinguish between filets of these four species, which closely resemble one another. Cabezon, greenling, and California scorpionfish are commonly captured along with rockfish on recreational trips. Size limit restrictions and filet regulations prevent commercial passenger fishing vessel (CPFV) operators and recreational anglers from fileting all species aboard the vessel at sea since, regulations that require fish with a size limit, but no filet length requirement, must be landed whole (50 CFR 660.360(c)(3)(ii)(D)). This process increases time and cost as anglers need to wait to filet certain species when they return to port. These changes are anticipated to reduce operational constraints for CPFVs. See the Council Analytical Document (Agenda Item F.6 Attachment 2, June 2024) for more information on these proposed changes.

I. Exempted Fishing Permits

Issuing EFPs is authorized by regulations implementing the MSA at 50 CFR 600.745, which state that EFPs may be used to authorize fishing activities that would otherwise be prohibited.

At its June 2024 meeting, the Council recommended that NMFS approve two EFP applications for the 2025 fishing year and preliminarily approve the EFP applications for the 2026 fishing year. The Council considers EFP applications concurrently with the biennial harvest specifications and management process because expected catch under most EFP projects is included in the catch limits for groundfish stocks. All of the EFP applications for 2025-26 are renewals from previous biennia. A summary of each EFP application is provided below:

• Groundfish EFP Proposal—Year-round Coastwide Midwater Rockfish EFP: Monitoring and Minimizing Salmon Bycatch When Targeting Rockfish in the Shorebased IFQ Fishery, 2025-2026: West Coast Seafood Processors, Oregon Trawl Commission, Midwater Trawlers Cooperative, and the Environmental Defense Fund submitted a renewal application to continue research that has been conducted since 2017; the multi-year EFP project is collectively referred to as the “Trawl Gear EFP.” The purpose of the EFP is for vessels participating in the West Coast Groundfish Trawl Rationalization Program's Limited Entry Shorebased IFQ Program to test whether removing certain gear, time, and area restrictions may impact the nature and extent of bycatch of protected and prohibited species (i.e., Chinook salmon, coho, eulachon, and green sturgeon). The EFP project would require exemptions for vessels fishing with bottom trawl groundfish gear from: (1) the requirement to use selective flatfish trawl gear, and the prohibition on using small footrope gear other than selective flatfish trawl gear between 42° and 40°10′ N lat. and shoreward of the boundary line approximating the 100 fm depth contour (see 50 CFR 660.130(c)(2)(i) and (c)(2)(ii)); and (2) the requirement that selective flatfish trawl must be a two-seamed net with no more than two riblines, excluding the codend (see 50 CFR 660.130(b)(1)(ii)(A)). The EFP project would require exemptions for vessels fishing with midwater trawl groundfish gear from: (1) the prohibition on fishing outside the primary season dates for the Pacific whiting IFQ fishery (see 50 CFR 660.112(b)(1)(x) and § 660.130(c)(3)); and (2) the prohibition on fishing south of 40°10′ N lat. shoreward of the boundary line approximating the 150 fm depth contour (see § 660.130(c)(3)(ii) and (c)(4)(ii)(B)). The EFP project would require exemptions for vessels fishing with either midwater or bottom trawl groundfish gear from: (1) the prohibition on retaining certain prohibited species (see § 660.12 (a)(1)); and (2) the requirement to discard certain prohibited species at sea (see § 660.140 (g)(1)). If this EFP is approved, NMFS would set a bycatch limit of 1,000 Chinook salmon north of 42° N lat. and 100 Chinook salmon south of 42° N lat. for vessels declared into the EFP, regardless of gear type. If either of these bycatch limits are reached, NMFS would revoke the EFP for both gear types in the respective management area (i.e., north or south of 42° N lat.). Participating vessels would also be required to retain all salmon (excluding salmon already sampled by NMFS' West Coast Groundfish Observer Program) until offloading. If approved, NMFS would authorize up to 60 vessels to participate in the EFP.

• Groundfish EFP Proposal—California Department of Fish and Wildlife 2025-2026 EFP: The CDFW submitted a renewal application for research that has been conducted since 2021. The purpose of the EFP project is to collect fishery-dependent biological data for cowcod for inclusion in future stock assessments. For the 2025-26 biennium, CDFW added yelloweye rockfish and California quillback rockfish to this scope to also collect fishery-dependent biological data for these species. The EFP project would require an exemption from the prohibition on retention of cowcod, yelloweye rockfish, and California quillback rockfish in the California recreational fishery (see § 660.360(c)(3)). The EFP would also provide that any cowcod, yelloweye rockfish, or California quillback rockfish taken and retained would not count against the recreational bag limit for the aggregate of rockfish, cabezon, and greenlings. If approved, NMFS would authorize up to 30 vessels that participate in the California recreational CPFV fishery to retain these species for transfer to CDFW groundfish staff upon landing.

Neither of these EFP projects request set-asides as off-the-top deductions from the 2025-26 applicable ACLs. For the Trawl Gear EFP, landings and discards of IFQ species would be accounted for through the participating vessel's IFQ. For the CDFW EFP, all mortality is expected to occur in conjunction with routine recreational fishing activities and would be calculated as part of the normal recreational catch estimation process. NMFS would not require 100 percent observer coverage for vessels participating in the CDFW EFP project because recreational vessels do not meet the minimum size requirements under Federal regulations to carry an observer.

NMFS does not expect any impacts to the environment, essential fish habitat, or protected or prohibited species from these EFPs beyond those analyzed for the groundfish fishery as a whole in applicable biological opinions (available at https://www.fisheries.noaa.gov/species/west-coast-groundfish#management), the draft Analysis (see ADDRESSES), or the EA for the 2018 Trawl Gear EFP dated December 2017 (available at: https://www.fisheries.noaa.gov/region/west-coast).

After publication of this document in the Federal Register, NMFS may approve and issue permits for the proposed EFP projects for the 2025 fishing year after the close of the public comment period. Both EFP applications are available under “Supporting and Related Materials” (see ADDRESSES). NMFS will consider comments submitted in deciding whether to approve the applications as requested. NMFS may approve the applications in their entirety or may make any alterations needed to achieve the goals of the EFP projects. NMFS would not issue another Federal Register notice soliciting public comment on renewing these EFP projects for 2026 unless: (1) the applicants modify and resubmit their applications to NMFS; (2) changes to relevant fisheries regulations warrant a revised set of exemptions authorized under the EFP projects; or (3) NMFS' understanding of the current biological and economic impacts from EFP fishing activities substantially changes.

J. Permit Program for the Directed Open Access Fishery Sector

NMFS is proposing, consistent with the Council's recommendation, a new permit program for the directed OA sector. The directed OA fishery is defined in 50 CFR 660.11 under “open access fishery” and includes those vessels targeting groundfish pursuant to the OA regulations under Part 660 subpart F. It does not include vessels that retain groundfish incidentally to non-groundfish target species (e.g., the salmon troll fishery, which often retains incidentally caught groundfish).

The purpose of this new management measure is to better track and account for participation in the directed OA sector, thus enabling the Council and NMFS to better account for impacts to and from this sector. The directed OA sector has grown substantially since it was first established alongside the LE sectors in amendment 6 to the PCGFMP (57 FR 54001; Nov 16 1992). Although the Council can generally identify participants via landing receipts and declarations, the lack of an official registry of directed OA participants has created ongoing challenges with: (1) developing management measures for the directed OA fishery; (2) communicating new regulations to the directed OA sector (e.g., the non-trawl logbook), and; (3) the West Coast Groundfish Observer Program's ability to target and sample specific gear types in this sector. This permit program would help alleviate these challenges, as NMFS would have an official list of the participants with their contact and vessel information, as well as advanced notice of when they intend to participate in the directed OA fishery. Additionally, the ability to better tailor observer coverage to this sector would help verify impacts from non-bottom contact hook-and-line gear types that were recently approved for use inside the Non-Trawl RCA starting in 2023 (87 FR 77007; January 1, 2023).

The permit program would require vessels that intend to participate in the directed OA sector to register their information, pay an administrative fee, and obtain a permit on an annual basis. Permits would expire on the last day of the birth month of the permit holder. The number of permits would not be capped. Permits will be assigned to a vessel owner per vessel (i.e., if an owner intends to use two vessels in the directed OA fishery, they would need to obtain two permits, one for each vessel). Applications would be available year-round with an estimated 2-week turnaround between when an applicant submits a complete application and when a permit would be issued; therefore, directed open access participants would need to do some short-term planning ahead for their participation in the sector. NMFS proposes to use its existing web-based application with digital submission and delivery of the permit applications and to allow participants to provide either digital or paper proof of permit upon request. Required application information would include vessel ownership documentation from either the U.S. Coast Guard or state registration form. Permit lists would be shared with the WCGOP for observer selection purposes.

All permits issued by NMFS carry an administrative cost, per the requirements for user fees based on the provision of a service. These costs vary based on the administrative costs of receiving applications, reviewing applications and any association required documentation, and issuing permits as a factor of the number of expected applications. The amount of the fee would be determined in accordance with the NOAA Finance Handbook available at https://www.corporateservices.noaa.gov/finance/documents/NOAAFinanceHBTOC_09.06.19.pdf and would be specified on the application form. The fee may not exceed the administrative costs and must be submitted with the application for the application to be considered complete. Annual permit fees across West Coast fisheries currently range from $18 for the limited entry drift gillnet permit to $170 for the groundfish limited entry permit. Permit fees are recalculated on a regular basis and may decrease after initial implementation due to on-going operating costs being lower than administrative costs. NMFS expects the cost of the directed open access permit to be on the lower end of the cost range.

NMFS may require that fishermen provide vessel monitoring system (VMS) information during the application process for a directed OA permit. The purpose of this requirement would be to ensure that all directed OA permittees are in compliance with VMS regulations. If NMFS chooses to require VMS information, notification will be provided in the final rule. NMFS welcomes public comment on this potential requirement. Additionally, NMFS may also restrict the ability to dual declare both a directed OA declaration code (codes 33 through 37 at § 660.13(d)(4)(iv)(A) and an IOA declaration code. The purpose of this restriction would be to better delineate directed OA fishermen from IOA fishermen. If NMFS chooses to move forward with this restriction, additional language would be added to § 660.13(d)(4)(iv) specifying the restriction in the final rule. NMFS also welcomes public comment on this potential restriction.

When the permit program is established, NMFS will do appropriate outreach to communicate instructions to the fleet. For more information on this new management measure see Council Analytical Document (Agenda Item F.6 Attachment 2, June 2024) and the NMFS report from the June 2024 Council meeting (Agenda Item F.6.a NMFS Report 1, June 2024).

K. Update Electronic Monitoring Program Discard and Retention Requirements

NMFS is proposing, consistent with the Council's recommendation, modifications to the regulations pertaining to discard and retention requirements in the Electronic Monitoring (EM) program for non-IFQ species, to include sablefish and rex sole, and to exclude California halibut. An EFP project designed to test EM to determine its efficacy for monitoring the groundfish trawl fishery and the at-sea Pacific whiting fishery, in lieu of human observers, occurred from 2015-2023. During the past 8 years, the Pacific States Marine Fisheries Commission has conducted video review analysis of EM. Improved catch handling from vessel crew, as well as the improved ability to reliably identify more species on camera from video reviewers over time has resulted in the allowable discards list to expand under the EFP. However, inadvertently, both sablefish and rex sole have been missing from the discard list specified in regulation, whereas the Vessel Monitoring Plan does list these stocks. Additionally, as currently written, the regulations are in conflict with regard to the rules for California halibut catch handling. The regulations require vessels to discard the non-IFQ species California halibut “except as allowed by state regulations” at 50 CFR 660.604(p)(4)(ii), but under 50 CFR 660.604(p)(4)(i), the vessel must retain this species. The addition of sablefish and rex sole to the existing list in regulations, and removing California halibut from them, would align current practices under the EFP.

L. Shortspine Thornyhead Allocation Framework

The Council recommended, and NMFS is proposing, modifying the allocation framework for shortspine thornyhead. These modifications would include removing the management line at 34°27′ N lat. and combining the area-specific ACLs, off-the-top deductions, HGs, and trawl/non-trawl allocations that would have otherwise been assigned north and south of 34°27′ N lat.

Shortspine thornyhead's allocation structure was established via amendment 21 to the PCGFMP (see pcouncil.org). It has a coastwide OFL and ABC, and two area-specific ACLs and fishery HGs for north and south of 34°27′ N lat. The ACL apportionment method is based on the available data (2003-2012) from the NWFSC WCGBT survey at the time of the previous assessment conducted in 2013, which has resulted in approximately 70 percent of the biomass estimated north of 34°27′ N lat. for the past 5 years (Agenda Item E.5.a, Supplemental GMT Report 1, November 2023). For north of 34°27′ N lat., the trawl sector is allocated 95 percent of the HG and the non-trawl sector is allocated 5 percent of the HG. For south of 34°27′ N lat., the trawl sector is allocated a fixed 50 mt of the HG, and the non-trawl sector receives the remainder of the HG. Thus, the percent allocation of each sector's HG in the area south of 34°27′ N lat. has fluctuated from year to year, depending on the biomass of the stock and resulting ACL and HG.

As a result of the 2023 stock assessment (Agenda Item G.2 Attachment 4, September 2023), which indicates the stock will be in the precautionary zone, shortspine thornyhead ACLs in the 2025-26 biennium are expected to be constraining for both the trawl and non-trawl sectors in the area north of 34°27′ N lat. For the trawl sector in the north, there would be substantial IFQ reductions. For the non-trawl sector in the north, trip limits for the LEFG fishery would have to be so low that a targeted fishery is unlikely to be viable. Shortspine thornyhead has been chronically under-attained in the area south of 34°27′ N lat.; therefore, combining the trawl and non-trawl allocations into coastwide allocations would allow for more flexible use in issuing trawl quota and setting non-trawl trip limits. The stock occurs coastwide without known finer-scale population structure. The separate ACLs are a relic of the management system, rather than a tool to address any biological or ecological issue. To achieve the proposed combination, the Council and NMFS would change shortspine thornyhead to a 2-year allocation species (i.e., trawl/non-trawl allocation amounts would be set biennially as opposed to specified in the PCGFMP) and set a coastwide ACL and HG (as opposed to two area-specific ACLs and HGs) for 2025 and beyond. The trawl/non-trawl allocation at the outset of the recombination in 2025 would be 64 percent of the HG to the trawl sector and 36 percent of the HG to the non-trawl sector. For 2026, the Council recommended that 71 percent of the coastwide HG be allocated to the trawl sector and 29 percent of the HG be allocated to the non-trawl sector. These allocation amounts may be revisited by the Council in future biennia.

Shortspine thornyhead was recently defined as a coastwide stock via amendment 31 (88 FR 78677; November 16, 2023). Therefore, the removal of the management line is consistent with the best scientific information available, which indicates there is no biological need for different management strategies north and south of 34°27′ N lat. However, recent data from the NWFSC WCGBT survey indicates that approximately 70 percent of the stock has resided north of 34°27′ N lat. and 30 percent has resided south in the past 5 years, and the separate ACLs had been apportioned accordingly. Since this new management measure would create a coastwide allocation, there will likely be more effort in the area north of 34°27′ N lat., than there otherwise would be if the management line were not removed and the area-specific ACLs and HGs remained. Consequently, the Council recommended the continuation of setting different trip limits for the LEFG and OA fisheries north and south of 34°27′ N lat. to maintain their ability to manage effort in each area. The proposed trip limits are provided in table 2b (LEFG) and table 3b (OA) in the regulatory changes presented in this proposed rule. The Council also recommended setting an ACT in the area north of 34°27′ N lat. This would provide a mechanism to slow the concentration of effort in the northern non-trawl fishery. The proposed ACTs for shortspine thornyhead are 67 mt and 55 mt for 2025 and 2026, respectively. For more information on this management measure, see the Council Analytical Document (Agenda Item F.6 Attachment 2, June 2024).

M. Requirement for Recreational Vessels To Possess a Descending Device

NMFS is proposing, consistent with the Council's recommendation, a new management measure that would require recreational vessels fishing in Federal waters seaward of Washington, Oregon, or California, to possess a functional descending device. A descending device is a tool used to return fish that suffer from barotrauma to depth of capture. Barotrauma is a condition caused by rapid decompression when a fish is reeled up from depth (high pressure) to the surface (low pressure), which can cause multiple physiological changes, notably an inflated swim bladder. When rockfish suffering from barotrauma are released at the surface, their ability to return to depth on their own is compromised due to the inability of the fish to vent the gas from the swim bladder. This can result in increased mortality, either due to surface depredation (e.g., from birds, marine mammals, etc.) or physiological trauma. Returning a fish to depth can reverse the physiological effects of barotrauma and can reduce mortality of released fish. Therefore, this new management measure would reduce mortality of rockfish species in the Pacific Coast groundfish recreational fisheries by increasing the likelihood that discarded species will be returned to depth.

The requirement would be one functional descending device per vessel, regardless of the number of anglers onboard. Although each of the respective states have their own requirements, those requirements are only applicable in State waters. This management measure would apply to any vessel fishing for groundfish under recreational catch limits in Federal waters, thus creating continuity across state and Federal regulations. Anglers would be required to present the descending device at the request of an enforcement officer. For information on this management measure, see the Analysis.

N. Modification to Continuous Transit Limitations for California Recreational Vessels

NMFS is proposing, consistent with the Council's recommendation, modifications to the continuous transit regulations for California recreational vessels. These changes would allow recreational vessels to stop and/or anchor in Federal waters shoreward of a Recreational RCA line, provided that no hook-and-line gear is deployed. At their September 2023 meeting, the Council recommended that California recreational fishing vessels be required to fish seaward of the Recreational RCA line (i.e., the 50 fm depth contour, a management measure also known as the “offshore fishery”) for the remainder of 2023, consistent with California state action implemented on August 21, 2023. The purpose of this action was to protect nearshore-dwelling California quillback rockfish, a stock that was declared overfished by NMFS in December 2023. Like other groundfish closures that exist in Federal waters, continuous transit rules apply when a Recreational RCA line is in effect, which means recreational vessels may only be transiting shoreward of 50 fm depth contour on their way back to port (see 50 CFR 660.360(c)(3)(i)(a)). Industry representatives brought up early concerns that these continuous transit rules, in conjunction with similar transit rules that were applicable in California state waters at the time, prevent recreational vessels from: (1) anchoring overnight on multi-day charter trips, either planned or for safety shoreward of 50 fm (91 m), and (2) anchoring to fish for non-groundfish species (e.g., lobster or Dungeness crabs with traps) shoreward of 50 fm (91 m). The lack of ability to do these activities creates significant safety-at-sea concerns and forces charter companies to cancel fishing trips that typically offer a variety of target species, both groundfish and non-groundfish (primarily invertebrate targets).

NMFS took temporary emergency action to modify the continuous transit regulations for the 2024 fishing year (89 FR 22352; April 1, 2024). The Council recommended the same modifications be made permanent through this action for the 2025-26 biennium and beyond. Similar to the emergency action (89 FR 22352; April 1, 2024), this new management measure is expected to prevent the cancellation of thousands of multi-day or groundfish/non-groundfish recreational fishing trips. For more information on this management measure, see the Analysis.

O. Change to the Scientific Name of Pacific Sand Lance and the Common Name of Pacific Spiny Dogfish

NMFS is proposing, consistent with the Council's recommendation, administrative changes to the regulations that would correct the scientific name of Pacific sand lance and the common name of Pacific spiny dogfish. The scientific name for Pacific sand lance at § 660.5(a) is incorrectly listed as Ammodytes hexapterus. The correct scientific name for this species is Ammodytes personatus. The common name for spiny dogfish (Squalus suckleyi) has changed to include “Pacific” thus the correct common name is Pacific Spiny Dogfish.

P. Rebuilding Plan for California Quillback Rockfish

NMFS is proposing, consistent with the Council's recommendation, the implementation of a rebuilding plan for quillback rockfish off California. NMFS declared quillback rockfish off California overfished in December 2023 in response to a data-moderate assessment conducted by the NWFSC in 2021 (Agenda Item E.2, Attachment 4, November 2021). When NMFS declares a stock overfished, the Council must develop and manage the stock in accordance with a rebuilding plan (50 CFR 600.310(j)), which must include certain rebuilding parameters, including Tmin, Tmax, and Ttarget. Tmin means the amount of time the stock or stock complex is expected to take to rebuild to its MSY biomass level in the absence of any fishing mortality (50 CFR 600.310(j)(3)(i)(A)). Tmax means the maximum time for rebuilding a stock or stock complex to its MSY biomass and can be 10 years or more depending on the value of Tmin (50 CFR 600.310(j)(3)(i)(B)). If Tmin for the stock or stock complex exceeds 10 years, then Tmax must be calculated as Tmin plus the length of time associated with one generation time for that stock or stock complex. “Generation time” is the average length of time between when an individual is born and the birth of its offspring. Ttarget means the specified time period for rebuilding a stock that is considered to be as short a time as possible, taking into account the status and biology of the overfished stock, the needs of fishing communities, recommendations by international organizations in which the U.S. participates, and interaction of the stock within the marine ecosystem (50 CFR 600.310(j)(3)(i)(C) and 50 CFR 600.310(j)(3)(i)). In March 2024, the Council adopted the California quillback rockfish rebuilding analysis (Agenda Item F.2 Attachment 1, March 2024), which specified the following rebuilding parameters: Tmin = 2045, Tmax = 2071, and mean generation time of 26 years. Ttarget (2060) was selected by the Council based on the chosen rebuilding strategy described below.

To meet rebuilding plan requirements, the Council considered a range of alternative harvest control rules during the development of this action (Agenda Item F.6 Supplemental Revised Attachment 3, June 2024). The four harvest control rules considered include: (1) Alternative 1−ACL SPR = 0.55 < ABC P* 0.45; (2) Alternative 2−the ABC rule, P* 0.45; (3) Alternative 3−CDFW alternative; and (4) Alternative 4−F = 0. The Council considered but removed Alternative 1 and Alternative 3 from further consideration at the April 2024 meeting. Alternative 1 would rebuild the stock by 2071 (Tmax), however, the Council rejected Alternative 1 as, when compared to Alternative 2, Alternative 1 delays rebuilding by two years and with a lower probability of rebuilding (69.4 percent) by Tmax. Alternative 3 was not selected for further consideration because it failed to meet technical and legal requirements, as it would result in a catch limit substantially higher than the SSC-recommended OFL. Alternative 4 (F = 0) represents a harvest strategy that achieves zero fishing mortality and rebuilds the stock in the minimum amount of time. This strategy has a 50 percent probability of rebuilding the stock by 2045 and a 99.9 percent probability of rebuilding by 2071 (Tmax); however, to achieve F=0, all groundfish and non-groundfish fisheries that encounter California quillback rockfish would need to be closed, which would cause devastating short-term economic impacts to California fishing communities. Table 14 below shows what the resulting harvest specifications would be under each rebuilding strategy for comparison.

Table 14—Harvest Specifications for OFL and ACL Resulting From Rebuilding Strategies Given the Assumed Removals for 2021-2024
CA quillback rockfish | Harvest control rule ᵃ: Alternative 1: SPR 0.55 | Harvest control rule ᵃ: Alternative 2: ABC rule (P* 0.45) | Harvest control rule ᵃ: Alternative 4: F = 0 (i.e., no fishing mortality)
2025 OFL/ACL (mt) | 1.52/1.26 | 1.52/1.30 | 1.52/0
2026 OFL/ACL (mt) | 1.77/1.47 | 1.77/1.50 | 1.81/0
SPR | 0.55 |  | 1.0
TTARGET | 2062 | 2060 | 2045
TMAX | 2071 | 2071 | 2071
Probability of recovery by TMAX | 0.694 | 0.736 | 0.999
ᵃ Alternative 3 is not included in this table because it was not part of the range included in the rebuilding analysis.

NMFS is proposing, consistent with the Council's recommendation, the ABC control rule as the rebuilding plan harvest strategy (Alternative 2). This rebuilding strategy sets the ABC by applying the maximum management risk tolerance (P* 0.45) and the standard scientific uncertainty (time-varying σ) reduction to the OFL. As shown in the Analysis, this rebuilding strategy has a 50 percent probability of rebuilding the stock by 2060 (Ttarget) and 73.6 percent probability of rebuilding by 2071. Accordingly, this alternative will rebuild the stock within the MSA-mandated timeframe, while still providing some fishing opportunity to meet the needs of the fishing communities.

The Analysis explains that if the rebuilding plan were set to rebuild the stock as fast as possible (i.e., F = 0), the necessary full fishery closures across all groundfish fisheries off of California would devastate numerous fishing businesses and communities. Given the target length of time to rebuild under the F = 0 strategy, it's likely that many California communities could lose vital infrastructure that would impede future engagement in the groundfish fisheries even after California quillback rockfish was rebuilt. Therefore, the Council recommended, and NMFS is proposing, slower rebuilding in order to allow for very limited mortality of co-occurring quillback rockfish, so that other healthy groundfish targets can be caught in recreational and commercial fisheries. For additional information on the range of alternative harvest control rules considered, see the Analysis.

As noted above, the majority of quillback rockfish fishing mortality occurs in state waters. The proposed rebuilding plan only applies in the EEZ. NMFS expects to work cooperatively with the CDFW on any measures the state deems fit to apply in state waters to support rebuilding throughout the stock's range. Mortality of California quillback rockfish in state waters will be deducted from the Federal ACL.

Q. Corrections

This rulemaking proposes minor corrections to the regulations at 50 CFR part 660. These minor corrections are necessary to reduce confusion and inconsistencies in the regulatory text, alleviate enforcement challenges, and ensure the regulations accurately implement the Council's intent.

At § 660.11, NMFS proposes to remove the definition for “grandfathered or first generation” because it is a term that is no longer used in Federal regulations.

At § 660.13, NMFS proposes to make various changes to the non-trawl logbook regulations. First, at § 660.13(a)(3)(ii)(A) and (B), NMFS proposes amending the regulations to clarify that information on setting and retrieving gear must be recorded for every set. The regulations as written: “Logbook entries for setting gear, including vessel information, gear specifications, set date/time/location, must be completed within 2 hours of setting gear” have led to enforcement challenges because some fishermen have interpreted the regulations to mean that they are only required to record information once all of their gear is deployed (i.e., if they set a portion of their gear on one day, and the rest of their gear the next day, they interpret that to mean the 2-hour requirement starts after the last piece of gear is set). Amending these regulations will clarify that the 2-hour and 4-hour requirements for setting and retrieving gear apply to each individual set. Second, at § 660.13(a)(3)(ii)(A) and (B), NMFS is proposing to clarify that all logbook information, whether recorded inside or outside of the electronic application, must be available at-sea for review by an enforcement officer. The regulations as written: “Information recorded outside of the logbook entry must be available for review at-sea by authorized law enforcement personnel upon request” have led to enforcement challenges because some fishermen have interpreted the regulations to mean they are only required to show enforcement officers logbook data that they have recorded outside of the electronic application. Amending these regulations will clarify that all logbook data, whether recorded in the electronic application or by some other method, must be available for review by an enforcement officer. Last, NMFS proposes to remove the paragraph at § 660.13(a)(4), as the non-trawl paper logbook provision will expire at the end of 2024 and this regulation will no longer be relevant starting in 2025.

At § 660.55(i)(2), NMFS proposes to clarify that at-sea set-asides are described in the biennial specifications process and not “in Tables 1D and 2D of this subpart” as currently stated.

At § 660.60(c)(1)(i), NMFS proposes to remove the cross reference to “(c)(1)(i)(A) and (B) of this section” as those references no longer exist.

At § 660.60(g) and § 660.65, NMFS proposes to clarify language about how catch of groundfish species in state waters is accounted for under Federal harvest specifications.

At § 660.140(g), NMFS proposes to add a sentence clarifying that IFQ species with discard mortality rates (DMRs) should be appropriately accounted for when deducting discard amounts from quota pounds (QP) in vessel accounts. As currently written, the regulations state that discarded species must be accounted for and deducted from QP in vessels accounts, but it does not state that the species with reduced discard amounts because of DMRs should be accounted for when deducting discard amounts from QP in vessels accounts. Revising this regulation would clarify that IFQ species with DMRs should also be accounted for when deducting discard amounts from QP in vessel accounts.

At § 660.230 and § 660.330(b), NMFS is proposing to remove the 25-hook maximum limit on each mainline. As written, the regulations preclude fishermen from adjusting the number of hooks on mainlines if they are using fewer than four mainlines. For example, if a fisherman chooses to only have two mainlines in the water, then the intent of the regulations is to allow a maximum of 50 hooks on each mainline. However, as written, the fisherman would still only be able to use 25 hooks per mainline. The gear specifications require that no more than 100 hooks may be in the water, therefore, removing the 25-hook maximum will not change the intent of the regulations.

At § 660.231, NMFS is proposing to revise the paragraph at (b)(3)(iv) to improve readability. The purpose of these revisions is to make the regulatory text less confusing for fishermen and enforcement to interpret. No substantive changes to this regulation are being proposed.

IV. Classification

Pursuant to § 304(b)(1)(A) and 305(d) of the MSA, the NMFS Assistant Administrator has determined that this proposed rule is consistent with the PCGFMP, other provisions of the MSA, and other applicable law, subject to further consideration after public comment. In making its final determination, NMFS will take into account the complete record, including the data, views, and comments received during the comment period.

Pursuant to Executive Order 13175, this proposed rule was developed after meaningful consultation and collaboration with Tribal officials from the area covered by the PCGFMP. Under the MSA at 16 U.S.C. 1852(b)(5), one of the voting members of the Council must be a representative of an Indian Tribe with federally recognized fishing rights from the area of the Council's jurisdiction. In addition, regulations implementing the PCGFMP establish a procedure by which the Tribes with treaty fishing rights in the area covered by the PCGFMP request new allocations or regulations specific to the Tribes, in writing, before the first of the two meetings at which the Council considers groundfish management measures. The regulations at 50 CFR 660.50 further direct NMFS to develop Tribal allocations and regulations in consultation with the affected Tribes. The Tribal management measures in this proposed rule have been developed following these procedures. The Tribal representative on the Council made a motion to adopt the non-whiting Tribal management measures, which was passed by the Council. Those management measures, which were developed and proposed by the Tribes, are included in this proposed rule.

This proposed rule has been determined to be not significant for purposes of Executive Order 12866.

NMFS prepared an Analysis for this action, which addresses the statutory requirements of the MSA, Presidential Executive Order 12866, and the RFA. The full suite of alternatives analyzed by the Council can be found on the Council's website at www.pcouncil.org. NMFS addressed the statutory requirements of the NEPA through preparation of an EA, which is included in the Analysis. This action announces a public comment period on the draft EA (see ADDRESSES).

The Chief Counsel for Regulation of the Department of Commerce certified to the Chief Counsel for Advocacy of the Small Business Administration that this proposed rule, if adopted, would not have a significant economic impact on a substantial number of small entities. The following small entities may be affected by this action: (1) an estimated 6 businesses primarily engaged in seafood product preparation and packaging and employing 750 or fewer persons; (2) an estimated 1,019 commercial fishing businesses with less than $11 million in annual gross receipts; (3) an estimated 357 charter fishing boats all of which are assumed to have annual receipts of less than $7.5 million and are therefore considered to be small businesses; (4) one governmental jurisdiction, with a population of less than 50,000 persons, and therefore considered small;(5) an estimated five not-for-profit organizations with combined annual receipts of less than $7.5 million; and (5) an estimated eight small trust, estates, and agency accounts with annual receipts of less than $32.5 million.

The purpose of this proposed rule is to conserve Pacific Coast groundfish stocks by preventing overfishing, while still allowing harvest opportunity among the various fishery sectors. This will be accomplished by implementing the 2025-26 biennial specifications in the U.S. EEZ off the West Coast. The harvest specifications affect large and small entities similarly, and for this biennium, the catch limit for sablefish (one of the most profitable stocks) is increasing, providing benefit to all participants. Additionally, this proposed rule contains new management measures that are likely to benefit vessels. Specifically, re-combining area-specific allocations for shortspine thornyhead is expected to relieve economic loss and provide additional fishing opportunity for non-trawl vessels north of 34°27′ N lat. The recreational sector may benefit from the proposed new management measure to require descending devices on board fishing vessel. Use of descending devices is known to reduce discard mortality, which may lead to potential increases in opportunity. Although the continuation of restrictive management measures to reduce California quillback rockfish mortality from the 2023-24 biennium are proposed for continuation in the 2025-26 biennium, the Council is proposing a rebuilding plan strategy (i.e., ABC Rule) that yields a slower rebuilding timeline than the strategy with the fastest rebuilding timeline (i.e., F=0) in order to provide some fishing opportunity for co-occurring species. This is expected to sustain fishing communities during the rebuilding timeframe that would otherwise not be possible under the complete fishery closures that would be necessary under F=0. Based on the rationale above and contained in the Analysis (see ADDRESSES), NMFS has concluded that this proposed action would not have a significant economic impact on a substantial number of small entities. As a result, an initial regulatory flexibility analysis is not required and none has been prepared.

This proposed rule contains a collection-of-information requirement subject to review and approval by the Office of Management and Budget under the PRA. This proposed rule revises existing requirements for information collection 0648-0203, Northwest Region Federal Fisheries Permits. The main change to this collection is the addition of a new directed groundfish open access fishery permit. The addition of this permit will increase the number of respondents for this collection by 400 respondents. The public reporting burden for the directed groundfish open access permit is estimated to average 20 minutes per respondent, including the time for reviewing instructions, searching existing data sources, gathering and maintaining the data needed, and completing and reviewing the collection of information. This results in an additional 133 hours for the time burden for this collection (1,953 hours to 2,086 hours). The additional permit will also result in additional labor costs of $2,226.67 and $40,000 in miscellaneous costs to the public.

NMFS seeks public comment regarding whether this proposed collection of information is necessary for the proper performance of the functions of the agency, including whether the information shall have practical utility. NMFS also seeks public comment regarding the accuracy of the burden estimate, ways to enhance the quality, utility, and clarity of the information to be collected, and ways to minimize the burden of the collection of information, including through the use of automated collection techniques or other forms of information technology. Submit comments on these or any other aspects of the collection of information at www.reginfo.gov/public/do/PRAMain. Find this particular information collection by selecting “Currently under review” or by using the search function and entering the title of the collection or the OMB Control Number.

Notwithstanding any other provision of the law, no person is required to respond to, nor shall any person be subject to a penalty for failure to comply with, a collection of information subject to the requirements of the PRA, unless that collection of information displays a currently valid OMB Control Number.

List of Subjects in 50 CFR Part 660

Fisheries, Fishing, Reporting and recordkeeping requirements.

Dated: August 2, 2024.
Samuel D. Rauch, III,
Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend part 660 by:

a. Removing the word “non-coop” and adding in its place the word “non-cooperative” wherever it appears;

b. Removing the word “coop's” and adding in its place the word “cooperative's” wherever it appears;

c. Removing the name “nontrawl RCA” and adding in its place the name “Non-Trawl RCA” wherever it appears; and

d. Removing the word “nontrawl” and adding in its place the word “non-trawl” wherever it appears.

3. Amend § 660.5 by revising paragraph (a)(3) to read as follows:

§ 660.5 Shared Ecosystem Component Species.

(a) * * *

(3) Pacific sand lance (Ammodytes personatus)

* * * * *

4. Amend § 660.11:

a. In the definition of “Conservation areas(s)” by removing paragraph (1)(v); redesignating paragraphs (1)(vi), (vii), and (viii) as paragraphs (1)(v), (vi), and (vii); and revising newly redesignated paragraphs (1)(vi)(A) and (B);

b. By removing the definition of “Grandfathered or first generation”;

c. In the definition of “Groundfish” by revising paragraphs (1) and (7); and

d. In the definition of “Open access fishery” by revising paragraph (1) and adding paragraph (2).

The revisions and addition read as follows:

§ 660.11 General definitions.

* * * * *

Conservation area(s) * * *

(1) * * *

(vi) * * *

(A) Trawl (Limited Entry and Open Access Non-groundfish Trawl Gears) RCAs. The Trawl RCAs are intended to protect a complex of species, such as overfished shelf rockfish species, and have boundaries defined by specific latitude and longitude coordinates approximating depth contours. Boundaries for the limited entry Trawl RCA throughout the year are provided in table 1a (North) subpart D of this part. Boundaries for the open access non-groundfish Trawl RCA throughout the year are provided in § 660.333(e). Boundaries of the Trawl RCAs may be modified by NMFS inseason pursuant to § 660.60(c).

(B) Non-Trawl (Limited Entry Fixed Gear and Open Access Non-trawl Gears) RCAs. Non-Trawl RCAs are intended to protect a complex of species, such as overfished shelf rockfish species, and have boundaries defined by specific latitude and longitude coordinates approximating depth contours. Boundaries for the Non-Trawl RCA throughout the year are provided in tables 2a (North) and 2a (South) of subpart E of this part and tables 3a (North) and 3a (South) of subpart F of this part and may be modified by NMFS inseason pursuant to § 660.60(c).

* * * * *

Groundfish * * *

(1) Sharks: Leopard shark, Triakis semifasciata; soupfin shark, Galeorhinus zyopterus; Pacific spiny dogfish, Squalus suckleyi.

* * * * *

(7) Rockfish: “Rockfish” in the PCGFMP include all genera and species of the family Scorpaenidae that occur off Washington, Oregon, and California, even if not listed below, including longspine thornyhead, Sebastolobus altivelis, and shortspine thornyhead, S. alascanus. Where species below are listed both in a geographic category (nearshore, shelf, slope) and as an area-specific listing (north or south of 40°10′ N lat.) those species are managed within a complex in that area-specific listing.

(i) Nearshore rockfish includes black rockfish, Sebastes melanops (off Washington and California) and the following nearshore rockfish species managed in complexes:

(A) Nearshore Rockfish Complex North of 46°16′ N lat. (Washington): Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; quillback rockfish, S. maliger; treefish, S. serriceps.

(B) Nearshore Rockfish Complex between 46°16′ N lat. and 42° N lat. (Oregon): Black and yellow rockfish, S. chrysomelas; brown rockfish, S. auriculatus; calico rockfish, S. dalli; China rockfish, S. nebulosus; copper rockfish, S. caurinus; gopher rockfish, S. carnatus; grass rockfish, S. rastrelliger; kelp rockfish, S. atrovirens; olive rockfish, S. serranoides; quillback rockfish, S. maliger; treefish, S. serriceps.

(C) Black/blue/deacon Rockfish Complex between 46°16′ N lat. and 42° N lat. (Oregon): Black rockfish, S. melanops, blue rockfish, S. mystinus, and deacon rockfish, S. diaconus.

(D) Nearshore Rockfish Complex between 42° N lat. and 40°10′ N lat. (northern California): Black and yellow rockfish, S. chrysomelas; blue rockfish, S. mystinus; brown rockfish, S. auriculatus; calico rockfish, S. dalli; China rockfish, S. nebulosus; copper rockfish, S. caurinus; deacon rockfish, S. diaconus, gopher rockfish, S. carnatus; grass rockfish, S. rastrelliger; kelp rockfish, S. atrovirens; olive rockfish, S. serranoides; treefish, S. serriceps.

(E) Nearshore Rockfish Complex South of 40°10′ N lat. (Southern California): Nearshore rockfish are divided into three management categories:

(1) Shallow nearshore rockfish consists of black and yellow rockfish, S. chrysomelas; China rockfish, S. nebulosus; gopher rockfish, S. carnatus; grass rockfish, S. rastrelliger; kelp rockfish, S. atrovirens.

(2) Deeper nearshore rockfish consists of black rockfish, S. melanops; blue rockfish, S. mystinus; brown rockfish, S. auriculatus; calico rockfish, S. dalli; copper rockfish, S. caurinus; deacon rockfish, S. diaconus; olive rockfish, S. serranoides; treefish, S. serriceps.

(3) California scorpionfish, Scorpaena guttata.

(ii) Shelf rockfish includes bocaccio, Sebastes paucispinis; canary rockfish, S. pinniger; chilipepper, S. goodei; cowcod, S. levis; shortbelly rockfish, S. jordani; widow rockfish, S. entomelas; yelloweye rockfish, S. ruberrimus; yellowtail rockfish, S. flavidus and the following shelf rockfish species managed in complexes:

(A) Shelf Rockfish Complex North of 40°10′ N lat.: Bronzespotted rockfish, S. gilli; bocaccio, S. paucispinis; chameleon rockfish, S. phillipsi; chilipepper, S. goodei; cowcod, S. levis; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus.

(B) Shelf Rockfish Complex South of 40°10′ N lat.: Bronzespotted rockfish, S. gilli; chameleon rockfish, S. phillipsi; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus; yellowtail rockfish, S. flavidus.

(iii) Slope rockfish includes darkblotched rockfish, Sebastes crameri; Pacific ocean perch, S. alutus; splitnose rockfish, S. diploproa; and the following slope rockfish species managed in complexes:

(A) Slope Rockfish Complex North of 40°10′ N lat.: Aurora rockfish, S. aurora; bank rockfish, S. rufus; blackgill rockfish, S. melanostomus; blackspotted rockfish, S. melanostictus; redbanded rockfish, S. babcocki; rougheye rockfish, S. aleutianus; sharpchin rockfish, S. zacentrus; shortraker rockfish, S. borealis; splitnose rockfish, S. diploproa; yellowmouth rockfish, S. reedi.

(B) Slope Rockfish Complex South of 40°10′ N lat.: Aurora rockfish, S. aurora; bank rockfish, S. rufus; blackgill rockfish, S. melanostomus; blackspotted rockfish, S. melanostictus; Pacific ocean perch, S. alutus; redbanded rockfish, S. babcocki; rougheye rockfish, S. aleutianus; sharpchin rockfish, S. zacentrus; shortraker rockfish, S. borealis; yellowmouth rockfish, S. reedi.

* * * * *

Open access fishery * * *

(1) Directed open access fishery means that a fishing vessel is target fishing (defined at § 660.11) for groundfish and is only declared into a directed open access groundfish gear type or sector as defined in § 660.13(d)(4)(iv)(A). In addition to the requirements in subpart F of this part, fishing vessels participating in the directed open access fishery must be registered to a directed open access permit described at § 660.25(i) and are also subject to the non-trawl logbook requirement at § 660.13(a)(3).

(2) Incidental open access fishery means that a fishing vessel is retaining groundfish incidentally to a non-groundfish target species (see “Incidental catch or incidental species”).

* * * * *

5. Amend § 660.12 by adding paragraph (a)(22) to read as follows:

§ 660.12 General groundfish prohibitions.

* * * * *

(a) * * *

(22) Take and retain, possess, or land groundfish in the directed open access fishery without having a valid directed open access permit for the vessel.

* * * * *

6. Amend § 660.13 by:

a. Revising paragraphs (a)(2)(ii) and (a)(3)(ii)(A) and (B);

b. Removing paragraph (a)(4); and

c. Revising paragraphs (d)(3), (d)(4)(iv) introductory text, and (d)(4)(iv)(A)(21), (23), and (27) through (29).

The revisions read as follows:

§ 660.13 Recordkeeping and reporting.

* * * * *

(a) * * *

(2) * * *

(ii) The limited entry fixed gear trip limit fisheries subject to the trip limits in tables 2b (North) and 2b (South) to subpart E of this part, and primary sablefish fisheries, as defined at § 660.211; and

* * * * *

(3) * * *

(ii) * * *

(A) Setting gear. Logbook entries for setting gear, including vessel information, gear specifications, set date/time/location, must be completed within 2 hours of setting each piece of string or gear. The authorized representative of each vessel may record or document this information in a format outside of the electronic logbook application (e.g., waterproof paper). All logbook information whether recorded inside or outside of the electronic application must be available for immediate review by at-sea authorized law enforcement personnel.

(B) Retrieving gear. Logbook entries for retrieving gear, including date/time recovered and catch/discard information, must be completed within 4 hours of retrieving each piece of string or gear. The authorized representative of each vessel may record or document this information in a format outside of the electronic logbook application (e.g., waterproof paper). All logbook information whether recorded inside or outside of the electronic application must be available for immediate review by at-sea authorized law enforcement personnel.

* * * * *

(d) * * *

(3) Declaration reports for open access vessels using non-trawl gear (all types of open access gear other than non-groundfish trawl gear). The operator of any vessel that is not registered to a limited entry permit or is registered to a directed open access permit, must provide NMFS with a declaration report, as specified at paragraph (d)(4)(iv) of this section, before the vessel leaves port on a trip in which the vessel is used to take and retain or possess groundfish in the EEZ or land groundfish taken in the EEZ.

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using non-trawl gear may declare more than one gear type, with the exception of vessels participating in the Shorebased IFQ Program (i.e., gear switching) and those vessels declaring to fish inside the Non-Trawl RCA with non-bottom contact stationary vertical jig gear or groundfish troll gear (i.e., if one of these declarations is used, no other declaration may be made on that fishing trip). For the purpose of the directed open access permit defined at § 660.65, declaration codes for the directed open access fishery include codes 33 through 37. Vessels using trawl gear may only declare one of the trawl gear types listed in paragraph (d)(4)(iv)(A) of this section on any trip and may not declare non-trawl gear on the same trip in which trawl gear is declared.

(A) * * *

(21) Directed open access bottom contact hook-and-line gear for groundfish (e.g., bottom longline, commercial vertical hook-and-line, rod and reel, dinglebar) (declaration code 33);

* * * * *

(23) Directed open access groundfish trap or pot gear (declaration code 34);

* * * * *

(27) Directed open access non-bottom contact hook and line gear for groundfish (e.g., troll, jig gear, rod & reel gear) (outside the Non-Trawl RCA only) (declaration code 35);

(28) Directed open access non-bottom contact stationary vertical jig gear (allowed inside or outside the Non-Trawl RCA) (declaration code 36);

(29) Directed open access non-bottom contact troll gear (allowed inside or outside the Non-Trawl RCA) (declaration code 37);

* * * * *

7. Amend § 660.14 by revising paragraph (d)(4)(iii) to read as follows:

* * * * *

(d) * * *

(4) * * *

(iii) Permit exemption. If the limited entry permit had a change in vessel registration so that it is no longer registered to the vessel (for the purposes of this section, this includes permits placed into “unidentified” status), the vessel may be exempted from VMS requirements providing the vessel is not used in a fishery requiring VMS off the States of Washington, Oregon, or California (0-200 nm (5.6-370.4 km) offshore) for the remainder of the fishing year.

* * * * *

8. Amend § 660.25 by adding paragraph (i) to read as follows:

§ 660.25 Permits.

* * * * *

(i) Directed open access permit—(1) Permit information. This section applies to vessels that take and retain, possess, or land groundfish in the West Coast groundfish directed open access fishery, as defined in § 660.11 under “Open Access Fishery”. No person shall take and retain, possess, or land groundfish as part of the directed open access fishery, unless the SFD has issued a permit valid for the groundfish directed open access fishery.

(i) Validity. The following section applies to vessel for permits under this paragraph (i):

(A) A permit issued under this paragraph (i) is valid only for the vessel for which it is registered.

(B) A permit issued under this paragraph (i) not registered for use with a particular vessel is not valid.

(C) Only a person eligible to own a documented vessel under the terms of 46 U.S.C. 12103 may be issued or may hold a directed open access vessel permit.

(D) No individual may alter, erase, mutilate, or forge any permit or document issued under this section. Any such permit or document that is intentionally altered, erased, mutilated, or forged is invalid.

(ii) Transferability. Permits are not transferable. A permit issued under this paragraph (i) is valid only for the vessel for which it is registered. A change in ownership, documentation, or name of the registered vessel, or transfer of the ownership of the registered vessel will render the permit invalid.

(A) A vessel owner must contact SFD if the vessel for which the permit is issued is sold, ownership of the vessel is transferred, the vessel is renamed, or any other reason for which the documentation of the vessel is changed as the change may invalidate the current permit.

(B) In the case where a permit is invalidated due to a change in documentation, a new permit application is required. To submit a new application, please complete the process outlined below in paragraph (i)(2) of this section.

(iii) Civil Procedures. SFD may suspend, revoke, or modify any permit issued under this section under policies and procedures in title 15 CFR part 904, or other applicable regulations in this chapter.

(2) Applications. A vessel owner who wants to engage in the West Coast groundfish directed open access fishery, as defined in section § 660.11, must apply for the directed open access permit using the application form in paragraph (i)(2)(i) of this section.

(i) Application form. To apply for a directed open access permit, an individual must submit a complete permit application to the SFD West Coast Region through the NOAA Fisheries Pacific Coast Groundfish and Halibut Portal—Log In web page at https://www.webapps.nwfsc.noaa.gov/apex/ifq/f?p=120:LOGIN_DESKTOP.

(ii) Required documentation. A complete application consists of:

(A) An application form that contains valid responses for all required data fields, information, and signatures.

(B) A copy of the current (not expired) U.S. Coast Guard Documentation Form or state registration form for the vessel.

(C) Payment of required fees as required at paragraph (f) of this section.

(D) Additional documentation SFD may require as it deems necessary to make a determination on the application.

(iii) Application review, approval or denial, and appeals—(A) Application review. Applications for groundfish directed open access permits issued under this paragraph (i) must be received a minimum of 15 days before intending to participate in the fishery to allow for processing time.

(B) Approved application. SFD shall issue a vessel permit upon receipt of a completed permit application, including all required information listed in paragraph (i)(2)(ii) of this section, submitted through the Pacific Coast Groundfish and Halibut Portal, and a cleared sanctions check.

(C) Denied application. If the application is denied, SFD will issue an initial administrative decision (IAD) that will explain the denial in writing. SFD may decline to act on a permit application that is incomplete, or if the vessel or vessel owner is subject to sanction provisions of the Magnuson-Stevens Act at 16 U.S.C. 1858(a) and implementing regulations at 15 CFR part 904, subpart D.

(D) Appeals. In cases where the applicant disagrees with SFD's decision on a permit application, the applicant may file an appeal following the procedures described at paragraph (g) of this section.

(iv) Issuance. Upon review and approval of a directed open access permit application, SFD will issue a permit under this paragraph (i) electronically to the permit owner.

(A) Duration. A permit issued under this paragraph (i) is valid until the first date of renewal. The date of renewal will be the last day of the vessel owner's birth month, following the year after the permit is issued (e.g., if the birth month is March and the permit is issued on October 3, 2024, the permit will remain valid through March 31, 2025). The permit owner is responsible for renewing their directed open access permit. Any permit not renewed by the renewal date will expire and is no longer valid.

(B) Display. A copy (electronic or paper) of the permit issued under this subpart must be available for inspection by an authorized officer when the vessel is operating in the groundfish open access fishery, defined at § 660.11.

9. Amend § 660.40 by adding paragraph (b) to read as follows:

§ 660.40 Rebuilding Plans.

* * * * *

(b) Quillback rockfish off California. Quillback rockfish off California was declared overfished in 2023. The target year for rebuilding the California quillback rockfish stock to BMSY is 2060. The harvest control rule to be used to rebuild the quillback rockfish stock off California is the ABC Rule (P* 0.45).

10. Amend § 660.50 by revising paragraphs (f) and (g) to read as follows:

§ 660.50 Pacific Coast treaty Indian fisheries.

* * * * *

(f) Pacific Coast treaty Indian fisheries allocations, harvest guidelines, and set-asides. Trip limits for certain species were recommended by the Tribes and the Council and are specified in paragraph (g) of this section.

(1) Arrowtooth flounder. The Tribal harvest guideline is 2,041 mt per year.

(2) Big skate. The Tribal harvest guideline is 15 mt per year.

(3) Black rockfish off Washington. (i) Harvest guidelines for commercial harvests of black rockfish by members of the Pacific Coast Indian Tribes using hook-and-line gear will be established biennially for two subsequent 1-year periods for the areas between the U.S.-Canadian border and Cape Alava (48°09.50′ N lat.) and between Destruction Island (47°40′ N lat.) and Leadbetter Point (46°38.17′ N lat.), in accordance with the procedures for implementing harvest specifications and management measures. Pacific Coast treaty Indians fishing for black rockfish in these areas under these harvest guidelines are subject to the provisions in this section, and not to the restrictions in subparts C through G of this part.

(ii) For the commercial harvest of black rockfish off Washington State, a treaty Indian Tribes' harvest guideline is set at 30,000 lb (13,608 kg) for the area north of Cape Alava, WA (48°09.50′ N lat.) and 10,000 lb (4,536 kg) for the area between Destruction Island, WA (47°40′ N lat.) and Leadbetter Point, WA (46°38.17′ N lat.). This harvest guideline applies and is available to the Pacific Coast treaty Indian Tribes. There are no Tribal harvest restrictions for black rockfish in the area between Cape Alava and Destruction Island.

(4) Canary rockfish. The Tribal harvest guideline is 50 mt per year.

(5) Darkblotched rockfish. The Tribal harvest guideline is 5 mt per year.

(6) Dover sole. The Tribal harvest guideline is 1,497 mt per year.

(7) English sole. The Tribal harvest guideline is 200 mt per year.

(8) Lingcod. The Tribal harvest guideline is 250 mt per year.

(9) Longnose skate. The Tribal harvest guideline is 220 mt per year.

(10) Minor nearshore rockfish. The Tribal harvest guideline is 1.5 mt per year.

(11) Minor shelf rockfish. The Tribal harvest guideline is 30 mt per year.

(12) Minor slope rockfish. The Tribal harvest guideline is 36 mt per year.

(13) Other flatfish. The Tribal harvest guideline is 60 mt per year.

(14) Pacific cod. The Tribal harvest guideline is 500 mt per year.

(15) Pacific ocean perch. The Tribal harvest guideline is 130 mt per year.

(16) Pacific spiny dogfish. The Tribal harvest guideline is 275 mt per year.

(17) Pacific whiting. The Tribal whiting allocation will be announced annually in conjunction with the Total Allowable Catch (TAC) setting process of the Whiting Act.

(18) Petrale sole. The harvest guideline is 290 mt per year.

(19) Sablefish. (i) The sablefish allocation to Pacific coast treaty Indian Tribes is 10 percent of the sablefish ACL for the area north of 36°N lat. This allocation represents the total amount available to the treaty Indian fisheries before deductions for discard mortality.

(ii) The Tribal allocation is 2,869 mt in 2025 and 2,724 mt in 2026. This allocation is, for each year, 10 percent of the Monterey through Vancouver area (North of 36°N lat.) ACL, including estimated discard mortality.

(20) Starry flounder. The Tribal harvest guideline is 2 mt per year.

(21) Thornyheads. The Tribal harvest guideline for shortspine thornyhead is 50 mt per year and the Tribal harvest guideline for longspine thornyhead is 30 mt per year.

(22) Washington cabezon/kelp greenling. The Tribal harvest guideline is 2 mt per year.

(23) Widow rockfish. Widow rockfish taken in the directed Tribal midwater trawl fisheries are subject to a catch limit of 200 mt for the entire fleet, per year.

(24) Yelloweye rockfish. The Tribal harvest guideline is 8 mt per year.

(25) Yellowtail rockfish. Yellowtail rockfish taken in the directed Tribal mid-water trawl fisheries are subject to a catch limit of 1,000 mt for the entire fleet, per year.

(g) Pacific coast treaty Indian fisheries management measures. Trip limits for certain species were recommended by the Tribes and the Council and are specified here.

(1) Rockfish. The Tribes will require full retention of all overfished rockfish species and all other marketable rockfish species during treaty fisheries.

(2) Yelloweye rockfish. Subject to a 200-lb (90-kg) trip limit.

(3) Pacific whiting. Tribal whiting processed at-sea by non-Tribal vessels, must be transferred within the Tribal U&A from a member of a Pacific Coast treaty Indian Tribe fishing under this section.

(4) Groundfish without a Tribal allocation. Makah Tribal members may use midwater trawl gear to take and retain groundfish for which there is no Tribal allocation and will be subject to the trip landing and frequency and size limits applicable to the limited entry fishery.

(5) EFH. Measures implemented to minimize adverse impacts to groundfish EFH, as described in § 660.12, do not apply to Tribal fisheries in their U&A fishing areas described at § 660.4, subpart A.

(6) Small footrope trawl gear. Makah Tribal members fishing in the bottom trawl fishery may use only small footrope (less than or equal to 8 inches (20.3 cm)) bottom trawl gear.

* * * * *

11. Amend § 660.55 by revising table 1 to paragraph (c)(1) and paragraph (i)(2) to read as follows:

§ 660.55 Allocations.

* * * * *

(c) * * *

(1) * * *

Table 1 to Paragraph (c)(1)—Allocation Amounts and Percentages for Limited Entry Trawl and Non-Trawl Sectors Specified for FMP Groundfish Stocks and Stock Complexes
Stock or complex | All non-treaty LE trawl sectors (%) | All non-treaty non-trawl sectors (%)
Arrowtooth Flounder | 95 | 5
Chilipepper Rockfish S of 40°10′ N lat | 75 | 25
Darkblotched Rockfish | 95 | 5
Dover Sole | 95 | 5
English Sole | 95 | 5
Lingcod N of 40°10′ N lat | 45 | 55
Longspine Thornyhead N of 34°27′ N lat | 95 | 5
Pacific Cod | 95 | 5
Pacific Ocean Perch | 95 | 5
Sablefish S of 36° N lat | 42 | 58
Splitnose Rockfish S. of 40°10′ N lat | 95 | 5
Starry Flounder | 50 | 50
Yellowtail Rockfish N of 40°10′ N lat | 88 | 12
Minor Slope Rockfish North of 40°10′ N lat | 81 | 19
Other Flatfish | 90 | 10

* * * * *

(i) * * *

(2) The fishery harvest guideline for Pacific whiting is allocated among three sectors, as follows: 34 percent for the C/P Co-op Program; 24 percent for the MS Co-op Program; and 42 percent for the Shorebased IFQ Program. No more than 5 percent of the Shorebased IFQ Program allocation may be taken and retained south of 42° N lat. before the start of the primary Pacific whiting season north of 42° N lat. Specific sector allocations for a given calendar year are found in tables 1a through c and 2a through c of this subpart. Set-asides for other species for the at-sea whiting fishery for a given calendar year are established through the biennial specifications process.

* * * * *

12. Amend § 660.60 by revising paragraphs (b)(1), (c) introductory text, (c)(1)(i), (g), (h)(1), (h)(7)(i)(D), and (h)(7)(ii)(A)(2) to read as follows:

§ 660.60 Specifications and management measures.

* * * * *

(b) * * *

(1) Except for Pacific whiting, every biennium, NMFS will implement OFLs, ABCs, and ACLs, if applicable, for each species or species group based on the harvest controls used in the previous biennium (referred to as default harvest control rules) applied to the best available scientific information. The default harvest control rules for each species or species group are listed in the biennial SAFE document. NMFS may implement OFLs, ABCs, and ACLs, if applicable, that vary from the default harvest control rules based on a Council recommendation.

* * * * *

(c) Routine management measures. Catch restrictions that are likely to be adjusted on a biennial, or more frequent, basis may be imposed and announced by a single notification in the Federal Register, if good cause exists under the Administrative Procedure Act (APA) to waive notice and comment, and if they have been designated as routine through the two-meeting process described in the PCGFMP. Routine management measures that may be revised during the fishing year, via this process, are implemented in paragraph (h) of this section, and in subparts C through G of this part, including tables 1a through 1c, and 2a through 2c to subpart C of this part, tables 1a and 1b (North) and tables 1a and 1b (South) of subpart D of this part, tables 2a and 2b (North) and tables 2a and 2b (South) of subpart E of this part, and tables 3a and 3b (North) and tables 3a and 3b (South) of subpart F of this part. Most trip, bag, and size limits, and some Groundfish Conservation Area closures in the groundfish fishery have been designated “routine,” which means they may be changed rapidly after a single Council meeting. Council meetings are held in the months of March, April, June, September, and November. Inseason changes to routine management measures are announced in the Federal Register pursuant to the requirements of the APA. Changes to trip limits are effective at the times stated in the Federal Register. Once a trip limit change is effective, it is illegal to take and retain, possess, or land more fish than allowed under the new trip limit. This means that, unless otherwise announced in the Federal Register, offloading must begin before the time a fishery closes or a more restrictive trip limit takes effect. The following catch restrictions have been designated as routine:

(1) * * *

(i) Trip landing and frequency limits, size limits, all gear. Trip landing and frequency limits have been designated as routine for the following species or species groups: Widow rockfish, canary rockfish, yellowtail rockfish, Pacific ocean perch, yelloweye rockfish, black rockfish, blue/deacon rockfish, splitnose rockfish, blackgill rockfish in the area south of 40°10′ N lat., chilipepper, bocaccio, cowcod, Minor Nearshore Rockfish or shallow and deeper Minor Nearshore Rockfish, shelf or Minor Shelf Rockfish, and Minor Slope Rockfish; Dover sole, sablefish, shortspine thornyheads, and longspine thornyheads; petrale sole, rex sole, arrowtooth flounder, Pacific sanddabs, big skate, and the Other Flatfish complex, which is composed of those species plus any other flatfish species listed at § 660.11; Pacific whiting; lingcod; Pacific cod; Pacific spiny dogfish; longnose skate; cabezon in Oregon and California; and “Other Fish” as defined at § 660.11. In addition to the species and species groups listed above, sub-limits or aggregate limits may be specified, specific to the Shorebased IFQ Program, for the following species: big skate, California skate, California scorpionfish, leopard shark, soupfin shark, finescale codling, Pacific rattail (grenadier), ratfish, kelp greenling, shortbelly rockfish, and cabezon in Washington. Size limits have been designated as routine for sablefish and lingcod. Trip landing and frequency limits and size limits for species with those limits designated as routine may be imposed or adjusted on a biennial or more frequent basis for the purpose of keeping landings within the harvest levels announced by NMFS.

* * * * *

(g) Applicability. These specifications account for fish caught in state ocean waters (0-3 nm offshore) though that fishing activity is governed by the States of Washington, Oregon, and California, respectively. Catch of a stock in State waters is taken off the top of the harvest specifications for the stock in the EEZ (3-200 nm (5.6-370.4 km) offshore).

(h) * * *

(1) Commercial trip limits and recreational bag and boat limits. Commercial trip limits and recreational bag and boat limits defined in tables 1a through 2d of this subpart, and those specified in subparts D through G of this part, including tables 1b (North) and 1b (South) of subpart D of this part, tables 2b (North) and 2b (South) of subpart E of this part, and tables 3b (North) and 3b (South) of subpart F of this part must not be exceeded.

* * * * *

(7) * * *

(i) * * *

(D) Rockfish complexes. Several rockfish species are designated with species-specific limits on one side of the 40°10′ N lat. management line and are included as part of a rockfish complex on the other side of the line. A vessel that takes and retains fish from a rockfish complex (nearshore, shelf, or slope) on both sides of a management line during a single cumulative limit period is subject to the more restrictive cumulative limit for that rockfish complex during that period.

(1) If a vessel takes and retains species from the slope rockfish complex north of 40°10′ N lat., that vessel is also permitted to take and retain, possess or land splitnose rockfish up to its cumulative limit south of 40°10′ N lat., even if splitnose rockfish were a part of the landings from slope rockfish complex taken and retained north of 40°10′ N lat.

(2) If a vessel takes and retains species from the slope rockfish complex south of 40°10′ N lat., that vessel is also permitted to take and retain, possess or land Pacific ocean perch up to its cumulative limit north of 40°10′ N lat., even if Pacific ocean perch were a part of the landings from slope rockfish complex taken and retained south of 40°10′ N lat.

(ii) * * *

(A) * * *

(2) Vessels with a valid limited entry permit endorsed for bottom longline and/or pot gear fishing inside the Non-Trawl RCA with stationary vertical jig gear or groundfish troll gear as defined at § 660.320(b)(6). Vessels fishing with one of these two approved hook-and-line gear configurations may fish up to the limited entry fixed gear trip limits in table 2b (North) and table 2b (South) of subpart E, either inside or outside the Non-Trawl RCA. This provision only applies on fishing trips where the vessel made the appropriate declaration (specified at § 660.13(d)(4)(iv)(A)).

* * * * *

13. Revise § 660.65 to read as follows:

§ 660.65 Groundfish harvest specifications.

Harvest specifications include OFLs, ABCs, and the designation of OYs and ACLs. Management measures necessary to keep catch within the ACL include ACTs, HGs, or quotas for species that need individual management, the allocation of fishery HGs between the trawl and non-trawl segments of the fishery, and the allocation of commercial HGs between the open access and limited entry segments of the fishery. These specifications account for fish caught in state ocean waters (0-3 nm (0-5.6 km) offshore), though that fishing activity is governed by the States of Washington, Oregon, and California respectively. Catch of a stock in State waters is taken off the top of the harvest specifications for the stock in the EEZ (3-200 nm (5.6-370.4 km) offshore). Harvest specifications are provided in tables 1a through 2d of this subpart.

§ 660.70 [Amended]

14. Amend § 660.70 by removing paragraph (u) and redesignating paragraph (v) as paragraph (u).

15. Amend § 660.72 by revising paragraphs (a)(95) through (100) to read as follows:

§ 660.72 Latitude/longitude coordinates defining the 50 fm (91 m) through 75 fm (137 m) depth contours.

* * * * *

(a) * * *

(95) 39°32.47′ N lat., 123°52.25′ W long.;

(96) 39°21.86′ N lat., 123°54.13′ W long.;

(97) 39°8.35′ N lat., 123°49.67′ W long.;

(98) 38°57.50′ N lat., 123°49.42′ W long.;

(99) 38°51.20′ N lat., 123°46.09′ W long.;

(100) 38°29.47′ N lat., 123°20.19′ W long.;

* * * * *

16. Revise tables 1a through 1c to part 660, subpart C to read as follows:

Table 1a to Part 660, Subpart C—2025, Specifications of OFL, ABC, ACL, ACT and Fishery HG (Weights in Metric Tons). Capitalized Stocks Are Rebuilding
Species/stock | Area | OFL | ABC | ACL ᵃ | Fishery HG ᵇ
QUILLBACK ROCKFISH OFF CALIFORNIA | California | 1.52 | 1.3 | 1.3 | 1.2
YELLOWEYE ROCKFISH ᶜ | Coastwide | 105.8 | 87.2 | 55.8 | 41
Arrowtooth Flounder | Coastwide | 16,460 | 11,193 | 11,193 | 9,098
Big Skate | Coastwide | 1,456 | 1,224 | 1,224 | 1,164.6
Black Rockfish | Washington (N of 46°16′ N lat.) | 262 | 244.6 | 244.6 | 226
Black Rockfish | California (S of 42° N lat.) | 250 | 234 | 224 | 222.3
Bocaccio | S of 40°10′ N lat | 1,849 | 1,681 | 1,681 | 1,673.2
Cabezon | California (S of 42° N lat.) | 176 | 162 | 162 | 161.2
California Scorpionfish | S of 34°27′ N lat | 273 | 244 | 244 | 242
Canary Rockfish | Coastwide | 647 | 605 | 572 | 508.4
Chilipepper | S of 40°10′ N lat | 3,128 | 2,815 | 2,815 | 2,788
Cowcod | S of 40°10′ N lat | 111 | 77 | 77 | 66.5
Cowcod | (Conception) | 93 | 66 | 66 |
Cowcod | (Monterey) | 18 | 11 | 11 |
Darkblotched Rockfish | Coastwide | 830 | 754 | 754 | 729.8
Dover Sole | Coastwide | 52,214 | 47,424 | 47,424 | 45,840
English Sole | Coastwide | 11,175 | 8,884 | 8,884 | 8,669.4
Lingcod | N of 40°10′ N lat | 4,237 | 3,631 | 3,631 | 3,349.9
Lingcod | S of 40°10′ N lat | 897 | 768 | 748 | 736.4
Longnose Skate | Coastwide | 1,922 | 1,616 | 1,616 | 1,365.4
Longspine Thornyhead | Coastwide | 4,284 | 2,698 | 2,698 |
Longspine Thornyhead | N of 34°27′ N lat |  |  | 2,050 | 2,000.7
Longspine Thornyhead | S of 34°27′ N lat |  |  | 648 | 646
Pacific Cod | Coastwide | 3,200 | 1,926 | 1,600 | 1,098.6
Pacific Ocean Perch | N of 40°10′ N lat. | 4,029 | 3,328 | 3,328 | 3,182.5
Pacific Spiny Dogfish | Coastwide | 1,857 | 1,361 | 1,361 | 1,037.6
Pacific Whiting | Coastwide | (ᵈ) | (ᵈ) | (ᵈ) | (ᵈ)
Petrale Sole | Coastwide | 2,518 | 2,354 | 2,354 | 2,035.5
Sablefish | Coastwide | 39,085 | 36,545 | 36,545 |
Sablefish | N of 36° N lat |  |  | 28,688 | See Table 1c
Sablefish | S of 36° N lat |  |  | 7,857 | 7,829.80
Shortspine Thornyhead ᵉ | Coastwide | 940 | 821 | 815 | 743.3
Splitnose | S of 40°10′ N lat | 1,724 | 1,508 | 1,508 | 1,493.9
Starry Flounder | Coastwide | 652 | 392 | 392 | 375.3
Widow Rockfish | Coastwide | 12,254 | 11,237 | 11,237 | 11,018.7
Yellowtail Rockfish | N of 40°10′ N lat | 6,866 | 6,241 | 6,241 | 5,216.1
Species/Stock Complexes
Blue/Deacon/Black Rockfish | Oregon | 464 | 423 | 423 | 421.7
Cabezon/Kelp Greenling | Washington | 19 | 15 | 15 | 12.2
Cabezon/Kelp Greenling | Oregon | 196 | 177 | 177 | 176.1
Nearshore Rockfish North | N of 40°10′ N lat | 106 | 88 | 88 | 84.8
Nearshore Rockfish South | S of 40°10′ N lat | 1,137 | 934 | 932 | 929.3
Other Fish | Coastwide | 286 | 223 | 223 | 213.2
Other Flatfish | Coastwide | 10,895 | 7,974 | 7,974 | 7,803
Shelf Rockfish North | N of 40°10′ N lat | 1,747 | 1,392 | 1,392 | 1,325.7
Shelf Rockfish South | S of 40°10′ N lat | 1,837 | 1,465 | 1,464 | 1,437.9
Slope Rockfish North | N of 40°10′ N lat | 1,779 | 1,488 | 1,488 | 1,430
Slope Rockfish South | S of 40°10′ N lat | 866 | 693 | 693 | 674
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT. These deductions, as well as any HG sharing agreements between states and/or sectors, are published in the SAFE.
ᶜ Yelloweye rockfish has a non-trawl ACT of 29.6 mt and a non-nearshore ACT of 6.2 mt. The recreational ACTs are: 7.6 mt (Washington), 6.9 mt (Oregon), and 8.9 mt (California).
ᵈ Pacific whiting are assessed annually. The final specifications will be determined consistent with the U.S.-Canada Pacific Whiting Agreement and will be announced in 2025.
ᵉ Shortspine thornyhead has a commercial ACT of 67 mt for north of 34°27′ N lat.
ᶠ Copper rockfish has a recreational ACT of 15.8 for south of 34°27′ N lat.

Table 1b to Part 660, Subpart C—2025, Allocations by Species or Species Group
[Weight in metric tons]
Species/stock & complexes | Area | Fishery HG or ACT | Trawl: % | Trawl: mt | Non-trawl: % | Non-trawl: mt
YELLOWEYE ROCKFISH | Coastwide | 41 | 8 | 3.3 | 92 | 38.5
Arrowtooth flounder | Coastwide | 9,098 | 95 | 8,643.1 | 5 | 454.9
Big skate | Coastwide | 1,164.6 | 95 | 1,106.4 | 5 | 58.2
Bocaccio | S of 40°10′ N lat | 1,673.2 | 39 | 652.5 | 61 | 1,020.6
Canary rockfish | Coastwide | 508.4 | 72.3 | 367.6 | 27.7 | 140.8
Chilipepper rockfish | S of 40°10′ N lat | 2,788 | 75 | 2,091 | 25 | 697
Cowcod | S of 40°10′ N lat | 66.5 | 36 | 23.90 | 64 | 42.6
Darkblotched rockfish | Coastwide | 729.8 | 95 | 693.3 | 5 | 36.5
Dover sole | Coastwide | 45,840 | 95 | 43,459.8 | 5 | 2,290.2
English sole | Coastwide | 8,669.4 | 95 | 8,235.9 | 5 | 433.5
Lingcod | N of 40°10′ N lat | 3,349.9 | 45 | 1,507.5 | 55 | 1,842.4
Lingcod | S of 40°10′ N lat | 736.4 | 40 | 294.6 | 60 | 441.8
Longnose skate | Coastwide | 1,365.4 | 90 | 1,228.9 | 10 | 136.5
Longspine thornyhead | N of 34°27′ N lat | 2,000.7 | 95 | 1,900.7 | 5 | 100
Pacific cod | Coastwide | 1,098.6 | 95 | 1,043.7 | 5 | 54.9
Pacific Ocean perch | N of 40°10′ N lat | 3,182.5 | 95 | 3,023.4 | 5 | 159.1
Pacific whiting | Coastwide |  | 100 |  | 0 | 0
Petrale sole | Coastwide | 2,035.5 |  | 2,005.5 |  | 30
Sablefish | N of 36° N lat | 25,729.3 | See Table 1c
Sablefish | S of 36° N lat | 7,829.8 | 42 | 3,288.5 | 58 | 4,541.3
Shortspine thornyhead | Coastwide | 743.3 | 64 | 475.71 | 36 | 267.59
Splitnose rockfish | S of 40°10′ N lat | 1,493.9 | 95 | 1,419.2 | 5 | 74.7
Starry flounder | Coastwide | 375.3 | 50 | 187.7 | 50 | 187.7
Widow rockfish | Coastwide | 11,018.7 |  | 10,718.7 |  | 300
Yellowtail rockfish | N of 40°10′ N lat | 5,216.1 | 88 | 4,590.2 | 12 | 625.9
Shelf rockfish north | N of 40°10′ N lat | 1,325.7 | 60.2 | 798.1 | 39.8 | 527.6
Shelf rockfish south | S of 40°10′ N lat | 1,437.9 | 12.2 | 175.4 | 87.8 | 1,262.5
Slope rockfish north | N of 40°10′ N lat | 1,430 | 81 | 1,158.3 | 19 | 271.7
Slope rockfish south | S of 40°10′ N lat | 674 | 63 | 424.6 | 37 | 249.4
Other flatfish | Coastwide | 7,803 | 90 | 7,022.7 | 10 | 780.3

Table 1c to Part 660, Subpart C—Sablefish North of 36° N Lat. Allocations, 2025
[Weight in metric tons]
| Percent | Allocation (mt)
Non-Tribal Commercial HG ᵃ |  | 25,729.3
LE Share | 90.6 | 23,310.7
LE Trawl | 58 | 13,520.2
LEFG | 42 | 9,791.9
Primary | 85 | 8,323.1
Trip limit | 15 | 1,468.8
OA Share | 9.4 | 2,418.6
ᵃ Off-the-top deductions from the ACL that result in the HG are in the SAFE.

17. Revise tables 2a through 2c to part 660, subpart C, to read as follows:

Table 2a to Part 660, Subpart C—2026, and Beyond, Specifications of OFL, ABC, ACL, ACT, and Fishery HG (Weights in Metric Tons)
[Capitalized Stocks Are Rebuilding]
Species/stock | Area | OFL | ABC | ACL ᵃ | Fishery HG ᵇ
QUILLBACK ROCKFISH OFF CALIFORNIA | California | 1.77 | 1.5 | 1.5 | 1.4
YELLOWEYE ROCKFISH ᶜ | Coastwide | 108.3 | 88.5 | 56.6 | 41.8
Arrowtooth Flounder | Coastwide | 13,833 | 9,227 | 9,227 | 7,132
Big Skate | Coastwide | 1,426 | 1,188 | 1,188 | 1,128.6
Black Rockfish | Washington (N of 46°16′ N lat.) | 259 | 241 | 241 | 226.6
Black Rockfish | California (S of 42° N lat.) | 265 | 247 | 236 | 234.4
Bocaccio | S of 40°10′ N lat | 1,846 | 1,668 | 1,668 | 1,660.2
Cabezon | California (S of 42° N lat.) | 170 | 155 | 155 | 154.5
California Scorpionfish | S of 34°27′ N lat | 267 | 238 | 238 | 236
Canary Rockfish | Coastwide | 655 | 609 | 573 | 509.6
Chilipepper Rockfish | S of 40°10′ N lat | 2,949 | 2,643 | 2,643 | 2,615.2
Cowcod | S of 40°10′ N lat | 111 | 75 | 75 | 65.2
Cowcod | (Conception) | 92 | 64 | 64 |
Cowcod | (Monterey) | 19 | 11 | 11 |
Darkblotched Rockfish | Coastwide | 810 | 732 | 732 | 707.8
Dover Sole | Coastwide | 46,049 | 42,457 | 42,457 | 40,873
English Sole | Coastwide | 11,192 | 8,819 | 8,819 | 8,604.4
Lingcod | N of 40°10′ N lat | 4,163 | 3,534 | 3,534 | 3,252.9
Lingcod | S of 40°10′ N lat | 937 | 795 | 773 | 761.5
Longnose Skate | Coastwide | 1,895 | 1,579 | 1,579 | 1,328.4
Longspine Thornyhead | Coastwide | 4,166 | 2,575 | 2,575 |
Longspine Thornyhead | N of 34°27′ N lat |  |  | 1,957 | 1,907.3
Longspine Thornyhead | S of 34°27′ N lat |  |  | 618 | 616.5
Pacific Cod | Coastwide | 3,200 | 1,926 | 1,600 | 1,098.6
Pacific Ocean Perch | N of 40°10′ N lat | 3,937 | 3,220 | 3,220 | 3,074.5
Pacific Spiny Dogfish | Coastwide | 1,833 | 1,318 | 1,318 | 994.2
Pacific Whiting | Coastwide | (ᵈ) | (ᵈ) | (ᵈ) | (ᵈ)
Petrale Sole | Coastwide | 2,424 | 2,255 | 2,238 | 1,919.5
Sablefish | Coastwide | 37,310 | 34,699 | 34,699 |
Sablefish | N of 36° N lat |  |  | 27,238 | See Table 2c
Sablefish | S of 36° N lat |  |  | 7,460 | 7,432.9
Shortspine Thornyhead ᵉ | Coastwide | 961 | 831 | 825 | 752.7
Splitnose Rockfish | S of 40°10′ N lat | 1,686 | 1,469 | 1,469 | 1,454.9
Starry Flounder | Coastwide | 652 | 392 | 392 | 375.3
Widow Rockfish | Coastwide | 11,382 | 10,392 | 10,392 | 10,173.7
Yellowtail Rockfish | N of 40°10′ N lat | 6,662 | 6,023 | 6,023 | 4,997.5
Species/stock Complexes
Blue/Deacon/Black Rockfish | Oregon | 472 | 428 | 428 | 426.5
Cabezon/Kelp Greenling | Washington | 19 | 15 | 15 | 12.1
Cabezon/Kelp Greenling | Oregon | 194 | 174 | 174 | 173.6
Nearshore Rockfish North | N of 42° N lat | 105 | 86 | 86 | 83
Nearshore Rockfish South | S of 40°10′ N lat | 1,143 | 933 | 931 | 928.1
Other Fish | Coastwide | 286 | 223 | 223 | 212.7
Other Flatfish | Coastwide | 9,988 | 7,144 | 7,144 | 6,972.6
Shelf Rockfish North | N of 40°10′ N lat | 1,734 | 1,379 | 1,378 | 1,312.3
Shelf Rockfish South | S of 40°10′ N lat | 1,837 | 1,463 | 1,463 | 1,435.7
Slope Rockfish North | N of 40°10′ N lat | 1,754 | 1,460 | 1,460 | 1,402.2
Slope Rockfish South | S of 40°10′ N lat | 865 | 690 | 690 | 671
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT. These deductions, as well as any HG sharing agreements between states and/or sectors, are published in the SAFE.
ᶜ Yelloweye rockfish has a non-trawl ACT of 30.2 mt and a non-nearshore ACT of 6.3 mt. The recreational ACTs are: 7.7 mt (Washington), 7.0 mt (Oregon), and 9.1 mt (California).
ᵈ Pacific whiting are assessed annually. The final specifications will be determined consistent with the U.S.-Canada Pacific Whiting Agreement and will be announced in 2026.
ᵉ Shortspine thornyhead has a commercial ACT of 55 mt for north of 34°27′ N lat.
ᶠ Copper rockfish has a recreational ACT of 18.0 for south of 34°27′ N lat.

Table 2b to Part 660, Subpart C—2026, and Beyond, Allocations by Species or Species Group
Species/stock & complexes | Area | Fishery HG or ACT | Trawl: % | Trawl: mt | Non-trawl: % | Non-trawl: mt
YELLOWEYE ROCKFISH | Coastwide | 41.8 | 8 | 3.3 | 92 | 38.5
Arrowtooth flounder | Coastwide | 7,132 | 95 | 6,775.4 | 5 | 356.6
Big skate | Coastwide | 1,128.6 | 95 | 1,072.2 | 5 | 56.4
Bocaccio | S of 40°10′ N lat | 1,660.2 | 39 | 647.5 | 61 | 1,012.7
Canary rockfish | Coastwide | 509.6 | 72.3 | 368.4 | 27.7 | 141.2
Chilipepper rockfish | S of 40°10′ N lat | 2,615.2 | 75 | 1,961.4 | 25 | 653.8
Cowcod | S of 40°10′ N lat | 65.2 | 36 | 23.5 | 64 | 41.7
Darkblotched rockfish | Coastwide | 707.8 | 95 | 672.4 | 5 | 35.4
Dover sole | Coastwide | 40,873 | 95 | 38,829.4 | 5 | 2,043.7
English sole | Coastwide | 8,604.4 | 95 | 8,174.2 | 5 | 430.2
Lingcod | N of 40°10′ N lat | 3,252.9 | 45 | 1,463.8 | 55 | 1,789.1
Lingcod | S of 40°10′ N lat | 761.5 | 40 | 304.6 | 60 | 456.9
Longnose skate | Coastwide | 1,328.4 | 90 | 1,195.6 | 10 | 132.8
Longspine thornyhead | N of 34°27′ N lat | 1,907.3 | 95 | 1,811.9 | 5 | 95.4
Pacific cod | Coastwide | 1,098.6 | 95 | 1,043.7 | 5 | 54.9
Pacific Ocean perch | N of 40°10′ N lat | 3,074.5 | 95 | 2,920.8 | 5 | 153.7
Pacific whiting | Coastwide |  | 100 | 0.0 |  | 0
Petrale sole | Coastwide | 1,919.5 |  | 1,889.5 |  | 30
Sablefish | N of 36° N lat | 24,425.1 | See Table 2c
Sablefish | S of 36° N lat | 7,432.9 | 42 | 3,121.8 | 58 | 4,311.1
Shortspine thornyhead | Coastwide | 752.7 | 71 | 534.4 | 29 | 218.3
Splitnose rockfish | S of 40°10′ N lat | 1,454.9 | 95 | 1,382.2 | 5 | 72.7
Starry flounder | Coastwide | 375.3 | 50 | 187.7 | 50 | 187.7
Widow rockfish | Coastwide | 10,173.7 |  | 9,873.7 |  | 300
Yellowtail rockfish | N of 40°10′ N lat | 4,997.5 | 88 | 4,397.8 | 12 | 599.7
Shelf rockfish north | N of 40°10′ N lat | 1,312.3 | 60.2 | 790 | 39.8 | 522.3
Shelf rockfish south | S of 40°10′ N lat | 1,435.7 | 12.2 | 172.2 | 87.8 | 1,260.5
Slope rockfish north | N of 40°10′ N lat | 1,402.2 | 81 | 1,135.8 | 19 | 266.4
Slope rockfish south | S of 40°10′ N lat | 671 | 63 | 422.7 | 37 | 248.3
Other flatfish | Coastwide | 6,972.6 | 90 | 6,275.3 | 10 | 697.3

Table 2c to Part 660, Subpart C—Sablefish North of 36° N Lat. Allocations, 2026 and Beyond
[Weights in Metric Tons]
| Percent | Allocation (mt)
Non-Tribal Commercial HG ᵃ |  | 24,425.1
LE Share | 90.6 | 22,129.1
LE Trawl | 58 | 12,834.9
LEFG | 42 | 9,294
Primary | 85 | 7,899.9
Trip limit | 15 | 1,394.1
OA Share | 9.4 | 2,296
ᵃ Off-the-top deductions from the ACL that result in the HG are in the SAFE.

18. Amend § 660.111 by revising the definition of “Block area closures or BACs” to read as follows:

§ 660.111 Trawl fishery—definitions.

* * * * *

Block area closures or BACs are a type of groundfish conservation area, defined at § 660.11, bounded on the north and south by commonly used geographic coordinates, defined at § 660.11, and on the east and west by the EEZ, and boundary lines approximating depth contours, defined with latitude and longitude coordinates at §§ 660.71 through 660.74 (10 fm (18 m) through 250 fm (457 m)), and § 660.76 (700 fm (1,280 m)). BACs may be implemented or modified as routine management measures, per regulations at § 660.60(c). BACs may be implemented in the EEZ seaward of Washington, Oregon, and California for vessels using limited entry bottom trawl and/or midwater trawl gear. BACs may be implemented within Tribal Usual and Accustomed fishing areas but may only apply to non-Tribal vessels. BACs may close areas to specific trawl gear types (e.g., closed for midwater trawl, bottom trawl, or bottom trawl unless using selective flatfish trawl) and/or specific programs within the trawl fishery (e.g., Pacific whiting fishery or MS Co-op Program). BACs may vary in their geographic boundaries and duration. Their geographic boundaries, applicable gear type(s) and/or specific trawl fishery program, and effective dates will be announced in the Federal Register. BACs may have a specific termination date as described in the Federal Register or may be in effect until modified. BACs that are in effect until modified by Council recommendation and subsequent NMFS action are set out in tables 1a (North) and 1a (South) of this subpart.

* * * * *

19. Amend § 660.130 by:

a. Revising paragraphs (a), (c) introductory paragraph, and (c)(4);

c. Removing paragraph (e)(2);

d. Redesignating paragraphs (e)(3) through (8) as (e)(2) through (7); and

e. Revising newly redesignated paragraph (e)(3) introductory text.

The revisions read as follows:

§ 660.130 Trawl fishery—management measures.

(a) General. This section applies to the limited entry trawl fishery. Most species taken in the limited entry trawl fishery will be managed with quotas (see § 660.140), allocations or set-asides (see § 660.150 or § 660.160), or cumulative trip limits (see trip limits in tables 1b (North) and 1b (South) of this subpart), size limits (see § 660.60(h)(5)), seasons (see Pacific whiting at § 660.131(b)), gear restrictions (see paragraphs (b) and (c) of this section) and closed areas (see paragraphs (c) and (e) of this section and §§ 660.70 through 660.79). The limited entry trawl fishery has gear requirements and harvest limits that differ by the type of groundfish trawl gear on board and the area fished. Groundfish vessels operating south of Point Conception must adhere to CCA restrictions (see paragraph (e)(1) of this section and § 660.70). The trip limits in tables 1b (North) and 1b (South) of this subpart apply to vessels participating in the limited entry trawl fishery and may not be exceeded. Federal commercial groundfish regulations are not intended to supersede any more restrictive state commercial groundfish regulations relating to federally managed groundfish.

* * * * *

(c) Restrictions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, tables 1b (North) and 1b (South) of this subpart provide trip limits that are specific to different types of trawl gear: Large footrope, small footrope (including selective flatfish), selective flatfish, midwater, and multiple types. If tables 1a (North), 1b (North), 1a (South), and 1b (South) of this subpart provide gear specific limits or closed areas for a particular species or species group, prohibitions at §§ 660.12 and 660.112(a)(5) apply. Additional conservation areas applicable to vessels registered to limited entry permits with trawl endorsements are listed at paragraph (e) of this section.

* * * * *

(4) More than one type of trawl gear on board. The trip limits in table 1b (North) or 1b (South) of this subpart must not be exceeded. A vessel may not have both groundfish trawl gear and non-groundfish trawl gear onboard simultaneously. A vessel may have more than one type of limited entry trawl gear on board (midwater, large or small footrope, including selective flatfish trawl), either simultaneously or successively, during a cumulative limit period except between 42° N lat. and 40°10′ N lat. as described in this section. If a vessel fishes both north and south of 40°10′ N lat. with any type of small or large footrope gear onboard the vessel at any time during the cumulative limit period, the most restrictive cumulative limit associated with the gear on board would apply for that trip and all catch would be counted toward that cumulative limit (see crossover provisions at § 660.60(h)(7)). When operating in an applicable GCA, all trawl gear must be stowed, consistent with prohibitions at § 660.112(a)(5)(i), unless authorized in this section.

* * * * *

(e) * * *

(3) Trawl RCA. This GCA is off the coast of Washington, between the US/Canada border and 46°16′ N lat. Boundaries for the trawl RCA applicable to groundfish trawl vessels throughout the year are provided in the header to table 1a (North) of this subpart and may be modified by NMFS inseason pursuant to § 660.60(c). Prohibitions at § 660.112(a)(5) do not apply under the following conditions and when the vessel has a valid declaration for the allowed fishing:

* * * * *

20. Amend § 660.131 by revising paragraphs (b)(3) introductory text and (g)(2) to read as follows:

§ 660.131 Pacific whiting fishery management measures.

* * * * *

(b) * * *

(3) Pacific whiting trip limits. For Shorebased IFQ Program vessels targeting Pacific whiting outside the primary season, the “per trip” limit for whiting is announced in table 1b of this subpart. The per-trip limit is a routine management measure under § 660.60(c). This trip limit includes any whiting caught shoreward of 100 fm (183 m) in the Eureka management area. The per-trip limit for other groundfish species are announced in tables 1b (North) and 1b (South) of this subpart and apply as follows:

* * * * *

(g) * * *

(2) The amount of whole whiting on board does not exceed the trip limit (if any) allowed under § 660.60(c) or table 1b (North) or 1b (South) in subpart D.

* * * * *

21. Amend § 660.140 by revising table 1 to paragraph (d)(1)(ii)(D) and paragraph (g) to read as follows:

§ 660.140 Shorebased IFQ Program.

* * * * *

(d) * * *

(1) * * *

(ii) * * *

(D) * * *

Table 1 to Paragraph (d)(1)(ii)(D)—Shorebased Trawl Allocations for 2025 and 2026
IFQ species | Area | 2025 Shorebased trawl allocation (mt) | 2026 Shorebased trawl allocation (mt)
YELLOWEYE ROCKFISH | Coastwide | 3.3 | 3.4
Arrowtooth flounder | Coastwide | 8,573 | 6,705
Bocaccio | South of 40°10′ N lat | 653 | 648
Canary rockfish | Coastwide | 348 | 347
Chilipepper rockfish | South of 40°10′ N lat | 2,091 | 1,961
Cowcod | South of 40°10′ N lat | 24 | 23
Darkblotched rockfish | Coastwide | 593 | 572
Dover sole | Coastwide | 43,538 | 38,819
English sole | Coastwide | 8,236 | 8,174
Lingcod | North of 40°10′ N lat | 1,503 | 1,449
Lingcod | South of 40°10′ N lat | 295 | 305
Longspine thornyhead | North of 34°27′ N lat | 1,901 | 1,812
Pacific cod | Coastwide | 1,044 | 1,044
Pacific ocean perch | North of 40°10′ N lat | 2,723 | 2,621
Pacific whiting ᵃ | Coastwide | TBD | TBD
Petrale sole | Coastwide | 2,001 | 1,885
Sablefish | North of 36° N lat | 13,091 | 13,091
Sablefish | South of 36° N lat | 3,289 | 3,289
Shortspine thornyhead | Coastwide | 406 | 464
Splitnose rockfish | South of 40°10′ N lat | 1,419 | 1,382
Starry flounder | Coastwide | 188 | 188
Widow rockfish | Coastwide | 10,243 | 9,398
Yellowtail rockfish | North of 40°10′ N lat | 4,230 | 4,038
Other Flatfish complex | Coastwide | 6,922 | 6,175
Shelf Rockfish complex | North of 40°10′ N lat | 763 | 755
Shelf Rockfish complex | South of 40°10′ N lat | 175 | 175
Slope Rockfish complex | North of 40°10′ N lat | 858 | 836
Slope Rockfish complex | South of 40°10′ N lat | 425 | 423
ᵃ Managed through an international process. These allocations will be updated when announced.

* * * * *

(g) Retention and disposition requirements—(1) General. Shorebased IFQ Program vessels may discard IFQ species/species groups, provided such discards are accounted for and deducted from QP in the vessel account. The discard mortality for those species with discard mortality rates must be accounted for and applied to QP in the vessel account. With the exception of vessels on a declared Pacific whiting IFQ trip and engaged in maximized retention, and vessels fishing under a valid EM Authorization in accordance with § 660.604, prohibited and protected species (except short-tailed albatross as directed by § 660.21(c)(1)(v)) must be discarded at sea. Pacific halibut must be discarded as soon as practicable and the discard mortality must be accounted for and deducted from IBQ pounds in the vessel account. Non-IFQ species and non-groundfish species may be discarded at sea, unless otherwise required by EM Program requirements at § 660.604. The sorting of catch, the weighing and discarding of any IBQ and IFQ species, and the retention of IFQ species must be monitored by the observer or EM system.

* * * * *

Tables 1 (North) and 2 (South) to Part 660, Subpart D—[Removed]

22. Remove tables 1 (North) and 2 (South) to part 660, subpart D.

23. Add tables 1a (North), 1b (North), 1a (South), and 1b (South) to part 660, subpart D to read as follows:

Table 1a (North) to Part 660, Subpart D—Limited Entry Trawl Rockfish Conservation Areas for North of 40°10′ N Lat.

Note 1 to table 1a (North): The Trawl RCA is an area closed to fishing with groundfish trawl gear, as defined at § 660.11. Trawl RCA boundaries apply in the EEZ only; see appropriate state regulations for state closures. Trawl RCA boundaries or Block Area Closures (BACs) may be revised or implemented via inseason action; therefore, users should refer back to this table throughout the year. Vessels fishing groundfish trawl quota pounds with groundfish non-trawl gears, under gear switching provisions at § 660.140, are subject to the limited entry fixed gear Non-Trawl RCA, as described in tables 2a (North) and 2a (South) to part 660, subpart E.

Latitude | Boundary
North of 46°16′ N lat: | 100 fm line-150 fm line.
46°16′ N lat-40°10′ N lat | BACs may be implemented and will be announced in the Federal Register.

Table 1b (North) to Part 660, Subpart D—Landing Allowances for Non-IFQ Species and Pacific Whiting North of 40°10′ N Lat.

Note 1 to table 1b (North): This table describes incidental landing allowances for vessels registered to a Federal limited entry trawl permit. Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms. See provisions at § 660.130 for gear restrictions and requirements by area. Vessels fishing groundfish trawl quota pounds with groundfish non-trawl gears, under gear switching provisions at § 660.140, are subject to the limited entry groundfish trawl fishery landing allowances in this table, regardless of the type of fishing gear used.

Species | Trip limit
Big skate | Unlimited.
Cabezon (California) | 50 lb/month.
Longnose skate | Unlimited.
Nearshore rockfish complex, Washington black rockfish and Oregon black/blue/deacon rockfish | 300 lb/month.
Oregon cabezon/kelp greenling complex | 50 lb/month.
Other fish | Unlimited.
Pacific Spiny Dogfish | 60,000 lb/month.
Pacific whiting—Midwater Trawl | Before the primary whiting season: CLOSED. During the primary whiting season: mid-water trawl permitted in the RCA. See § 660.131 for season and trip limit details. After the primary whiting season: CLOSED.
Pacific whiting—Large & Small Footrope Gear | Before the primary whiting season: 20,000 lb/trip. During the primary whiting season: 10,000 lb/trip. After the primary whiting season: 10,000 lb/trip.
Pacific whiting—Eureka Management Area | No more than 10,000 lb of whiting may be taken and retained, possessed, or landed by a vessel that, at any time during the fishing trip, fished in the fishery management area shoreward of 100 fm contour (see § 660.131(d)).

Table 1a (South) to Part 660, Subpart D—Limited Entry Trawl Rockfish Conservation Areas for South of 40°10′ N Lat.

Note 1 to table 1a (South): The Trawl RCA is an area closed to fishing with groundfish trawl gear, as defined at § 660.11. Trawl RCA boundaries apply in the EEZ only; see appropriate state regulations for state closures. Trawl RCA boundaries or Block Area Closures (BACs) may be revised or implemented via inseason action; therefore, users should refer back to this table throughout the year. Vessels fishing groundfish trawl quota pounds with groundfish non-trawl gears, under gear switching provisions at § 660.140, are subject to the limited entry fixed gear Non-Trawl RCA, as described in tables 2a (North) and 2a (South) to part 660, subpart E.

Latitude | Boundary
South of 40°10′ N lat.: | BACs may be implemented and will be announced in the Federal Register.

Table 1b (South) to Part 660, Subpart D—Landing Allowances for Non-IFQ Species and Pacific Whiting South of 40°10′ N Lat.

Note 1 to table 1b (South): This table describes incidental landing allowances for vessels registered to a Federal limited entry trawl permit. Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms. See provisions at § 660.130 for gear restrictions and requirements by area. Vessels fishing groundfish trawl quota pounds with groundfish non-trawl gears, under gear switching provisions at § 660.140, are subject to the limited entry groundfish trawl fishery landing allowances in this table, regardless of the type of fishing gear used.

Species | Trip limit
Big skate | Unlimited.
Blackgill rockfish | Unlimited.
Cabezon | 50 lb/month.
California scorpionfish | Unlimited.
Longnose skate | Unlimited.
Longspine thornyhead (south of 34° 27′ N lat.) | 24,000 lb/2 months.
Nearshore rockfish complex, Washington black rockfish and Oregon black/blue/deacon rockfish | 300 lb/month.
Other fish | Unlimited.
Pacific Spiny Dogfish | 60,000 lb/month.
Pacific whiting—Midwater Trawl | During the primary whiting season: allowed seaward of the Trawl RCA; prohibited within and shoreward of the Trawl RCA.
Pacific whiting—Large & Small Footrope Gear | Before the primary whiting season: 20,000 lb/trip. During the primary whiting season: 10,000 lb/trip. After the primary whiting season: 10,000 lb/trip.

24. Amend § 660.230 by:

a. Revising paragraphs (a) and (b)(6)(i)(B);

b. Removing paragraph (d)(15); and

c. Redesignating paragraphs (d)(16) and (17) as paragraphs (d)(15) and (16).

The revisions read as follows:

§ 660.230 Fixed gear fishery—management measures.

(a) General. Most species taken in limited entry fixed gear (longline and pot/trap) fisheries will be managed with cumulative trip limits (see trip limits in tables 2b (North) and 2b (South) of this subpart), size limits (see § 660.60(h)(5)), seasons (see trip limits in tables 2b (North) and 2b (South) of this subpart and sablefish primary season details in § 660.231), gear restrictions (see paragraph (b) of this section), and closed areas (see paragraph (d) of this section and §§ 660.70 through 660.79). Cowcod, yelloweye, and California quillback rockfish retention is prohibited in all fisheries, and groundfish vessels operating south of Point Conception must adhere to GEA restrictions (see paragraph (d)(16) of this section and § 660.70). Regulations governing tier limits for the limited entry fixed gear sablefish primary season north of 36°N lat. are found in § 660.231. Vessels not participating in the sablefish primary season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see paragraph (e) of this section. The trip limits in tables 2b (North) and 2b (South) of this subpart apply to vessels participating in the limited entry groundfish fixed gear fishery and may not be exceeded.

(b) * * *

(6) * * *

(i) * * *

(B) No more than four vertical mainlines attached to or fished from the vessel (e.g., rod and reel) may be used in the water at one time.

* * * * *

25. Amend § 660.231 by revising paragraphs (b)(3)(i) and (iv) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to three permits may be registered for use with a single vessel during the primary season; thus, a single vessel may not take and retain, possess or land more than three primary season sablefish cumulative limits in any one year. A vessel registered for use with multiple limited entry permits is subject to per vessel limits for species other than sablefish, and to per vessel limits when participating in the daily trip limit fishery for sablefish under § 660.232. In 2025, the following annual limits are in effect: Tier 1 at 246,824 lb (111,957 kg), Tier 2 at 112,193 lb (50,890 kg), and Tier 3 at 64,110 lb (29,080 kg). In 2026 and beyond, the following annual limits are in effect: Tier 1 at 234,312 lb (106,282 kg), Tier 2 at 106,506 lb (48,310 kg), and Tier 3 at 60,860 lb (27,606 kg).

* * * * *

(iv) Incidental Pacific halibut retention north of Pt. Chehalis, WA (46°53.30′ N lat.). Pacific halibut may be retained north of Pt Chehalis by vessels participating in the sablefish primary fishery with the requisite Pacific halibut commercial fishery permit. Pacific halibut incidentally caught in the primary sablefish fishery when using bottom longline gear may be retained from April 1 through the Pacific halibut commercial fishing closure date set by the International Pacific Halibut Commission. Vessels permitted as described in this section may possess and land up to 130 lb (59 kg) dressed weight of Pacific halibut for every 1,000 lb (454 kg) dressed weight of sablefish landed, plus two additional Pacific halibut. Pacific halibut retained as described in this section may not be possessed or landed south of Pt. Chehalis.

* * * * *

26. Amend § 660.232 by revising paragraph (a)(3) to read as follows:

§ 660.232 Limited entry daily trip limit (DTL) fishery for sablefish.

(a) * * *

(3) Vessels registered for use with a limited entry fixed gear permit that does not have a sablefish endorsement may fish in the limited entry DTL fishery, consistent with regulations at § 660.230, for as long as that fishery is open during the fishing year, subject to routine management measures imposed under § 660.60(c), Subpart C. DTL limits for the limited entry fishery north and south of 36° N lat. are provided in tables 2b (North) and 2b (South) of this subpart.

* * * * *

Tables 2 (North) and 2 (South) to Part 660, Subpart E—[Removed]

27. Remove tables 2 (North) and 2 (South) to part 660, subpart E.

28. Add tables 2a (North), 2b (North), 2a (South), and 2b (South) to part 660, subpart E to read as follows:

Table 2a (North) to Part 660, Subpart E—Non-Trawl Rockfish Conservation Area Boundaries

Note 1 to table 2a (North): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Latitude | Boundary
North of 46°16′ N lat.: | Shoreward EEZ-100 fm line.
46°16′ N lat.-42°00′ N lat. | 30 fm line-75 fm line.
42°00′ N lat.-40°10′ N lat. | Shoreward EEZ-75 fm line.

Table 2b (North) to Part 660, Subpart E—Trip Limits for Limited Entry Fixed Gear North of 40°10′ N Lat.

Note 1 to table 2b (North): Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Species | Trip Limit
Big skate | Unlimited.
Black rockfish (42°00′ N lat.-40°10′ N lat.) | CLOSED.
Cabezon (42°00′ N lat.-40°10′ N lat.) | CLOSED.
Cabezon/kelp greenling complex (Oregon) | Unlimited.
Canary rockfish | 3,000 lb/2 months.
Flatfish (includes dover sole, arrowtooth flounder, petrale sole, English sole, starry flounder) | 20,000 lb/2 months.
Lingcod (north of 42°00′ N lat.) | 11,000 lb/2 months.
Lingcod (42°00′ N lat.-40°10′ N lat.) | 2,000 lb/2 months seaward of the Non-Trawl RCA; CLOSED inside the Non-Trawl RCA.
Longnose skate | Unlimited.
Longspine thornyheads | 10,000 lb/2 months.
Nearshore rockfish complex, Oregon black/blue/deacon rockfish, & Washington black rockfish (north of 42°00′ N lat.) | 5,000 lb/2 months, no more than 1,200 lb of which may be species other than black rockfish or blue/deacon rockfish See § 660.230(e) for additional trip limits for Washington black rockfish.
Nearshore rockfish complex (42°00′ N lat.-40°10′ N lat.) | CLOSED.
Other fish | Unlimited.
Other flatfish complex (north of 42°00′ N lat.) | 20,000 lb/2 months.
Other flatfish complex (42°00′ N lat.-40°10′ N lat.) | 20,000 lb/2 months seaward of the Non-Trawl RCA; CLOSED inside the Non-Trawl RCA.
Pacific cod | 1,000 lb/2 months.
Pacific ocean perch | 3,600 lb/2 months.
Pacific Spiny Dogfish | Periods 1-2: 200,000 lb/2 months Period 3: 150,000 lb/2 months Periods 4-6: 100,000 lb/2 months.
Pacific whiting | 10,000 lb per trip.
Quillback rockfish (42°00′ N lat.-40°10′ N lat.) | CLOSED.
Sablefish | 4,500 lb/week not to exceed 9,000 lb/2 months.
Shelf rockfish complex | 1,600 lb/2 months.
Shortspine thornyhead | 3,000 lb/2 months.
Slope rockfish complex & darkblotched rockfish | 8,000 lb/2 months.
Widow rockfish | 4,000 lb/2 months.
Yelloweye rockfish | CLOSED.
Yellowtail rockfish | 6,000 lb/2 months.

Table 2a (South) to Part 660, Subpart E—Non-Trawl Rockfish Conservation Area Boundaries

Note 1 to table 2a (South): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Latitude | Boundary
40°10′ N lat.-37° 07′ N lat. | Shoreward EEZ-75 fm line.
37° 07′ N lat.-34° 27′ N lat. | 50 fm line-75 fm line.
South of 34° 27′ N lat. | 100 fm line-150 fm line (also applies around islands and banks).

Table 2b (South) to Part 660, Subpart E—Trip Limits for Limited Entry Fixed Gear South of 40°10′ N Lat.

Note 1 to table 2b (South): Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Species | Trip limit
Big skate | Unlimited.
Bocaccio | 8,000 lb/2 months.
Bronzespotted rockfish | CLOSED.
Cabezon (40°10′ N lat.-36° N lat.) | CLOSED.
Cabezon (south of 36° N lat.) | Unlimited.
California scorpionfish | 3,500 lb/2 months.
Canary rockfish | 3,500 lb/2 months.
Chilipepper rockfish (40°10′ N lat.-34° 27′ N lat.) | 10,000 lb/2 months.
Chilipepper rockfish (south of 34° 27′ N lat.) | 8,000 lb/2 months.
Cowcod | CLOSED.
Flatfish (includes dover sole, arrowtooth flounder, petrale sole, English sole, starry flounder) | 20,000 lb/2 months.
Lingcod (40°10′ N lat.-37° 07′ N lat.) | 1,600 lb/2 months seaward of the Non-Trawl RCA; 0 lb/2 months inside of the Non-Trawl RCA.
Lingcod (south of 37° 07′ N lat.) | 1,600 lb/2 months.
Longnose skate | Unlimited.
Longspine thornyhead (south of 34° 27′ N lat.) | 10,000 lb/2 months.
Nearshore rockfish complexes:
Shallow nearshore rockfish complex (40°10′ N lat.-36° N lat.) | CLOSED.
Shallow nearshore rockfish complex (south of 36° N lat.) | 2,000 lb/2 months.
Deeper nearshore rockfish complex (40°10′ N lat.-36° N lat.) | CLOSED.
Deeper nearshore rockfish complex (south of 36° N lat.) | 2,000 lb/2 months, of which no more than 75 lb may be copper rockfish.
Other fish | Unlimited.
Other flatfish complex (40°10′ N lat.-37° 07′ N lat.) | 20,000 lb/2 months seaward of the Non-Trawl RCA; CLOSED inside of the Non-Trawl RCA.
Other flatfish complex (south of 37° 07′ N lat.) | 20,000 lb/2 months.
Pacific cod | 1,000 lb/2 months.
Pacific Spiny Dogfish | Periods 1-2: 200,000 lb/2 months. Period 3: 150,000 lb/2 months. Periods 4-6: 100,000 lb/2 months.
Pacific whiting | 10,000 lb per trip.
Quillback rockfish | CLOSED.
Sablefish (40°10′ N lat.-36° N lat.) | 4,500 lb/week not to exceed 9,000 lb/2 months.
Sablefish (south of 36° N lat.) | 2,500 lb/2 months.
Shelf rockfish complex (40°10′ N lat.-37° 07′ N lat.); excludes bronzespotted rockfish. | 6,000 lb per 2 months, of which no more than 500 lb may be vermilion/sunset rockfish.
Shelf rockfish complex (37° 07′ N lat.-34° 27′ N lat.); excludes bronzespotted rockfish. | 8,000 lb per 2 months, of which no more than 500 lb may be vermilion/sunset rockfish.
Shelf rockfish complex (south of 34° 27′ N lat.); excludes bronzespotted rockfish | 5,000 lb per 2 months, of which no more than 3,000 lb may be vermilion/sunset rockfish.
Shortspine thornyhead (40° 10′ N lat.-34° 27′ N Lat.) | 3,000 lb/2 months.
Slope rockfish complex & darkblotched rockfish | 40,000 lb/2 months, of which no more than 6,000 lb may be blackgill rockfish.
Splitnose rockfish | 40,000 lb/2 months.
Widow rockfish (40°10′ N lat.-34° 27′ N lat.) | 10,000 lb/2 months.
Widow rockfish (south of 34° 27′ N lat.) | 8,000 lb/2 months.
Yelloweye rockfish | CLOSED.

29. Amend § 660.312 by adding paragraph (a)(6) to read as follows:

§ 660.312 Open access fishery—prohibitions.

* * * * *

(a) * * *

(6) Take and retain, possess, or land groundfish in the directed open access fishery without having a valid directed open access permit for the vessel.

* * * * *

30. Amend § 660.330 by:

a. Revising paragraphs (a), (b)(3) introductory text, and (b)(3)(i)(B) and (C);

b. Removing paragraph (d)(17); and

c. Redesignating paragraphs (d)(18) and (19) as paragraphs (d)(17) and (18).

The revisions read as follows:

§ 660.330 Open access fishery—management measures.

(a) General. Groundfish species taken in open access fisheries will be managed with cumulative trip limits (see trip limits in tables 3b (North) and 3b (South) of this subpart), size limits (see § 660.60(h)(5)), seasons (see seasons in tables 3a (North) and 3a (South) of this subpart), gear restrictions (see paragraph (b) of this section), and closed areas (see paragraph (d) of this section and §§ 660.70 through 660.79). Unless otherwise specified, a vessel operating in the open access fishery is subject to, and must not exceed, any trip limit, frequency limit, and/or size limit for the open access fishery. Retention of cowcod, yelloweye rockfish, and quillback rockfish off California is prohibited in all fisheries, and groundfish vessels operating south of Point Conception must adhere to GEA restrictions (see paragraph (d)(18) of this section and § 660.70). For information on the open access daily/weekly trip limit fishery for sablefish, see § 660.332 and the trip limits in tables 3b (North) and 3b (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies (see paragraph (e) of this section).

(b) * * *

(3) Gear for use inside the Non-Trawl RCA. Inside the Non-Trawl RCA, only legal non-bottom contact hook-and-line gear configurations may be used for target fishing for groundfish by vessels that participate in the directed open access sector as defined at § 660.11. Vessels must be registered to a valid directed open access permit as defined at § 660.25(i). On a fishing trip where any fishing will occur inside the Non-Trawl RCA, only one type of legal non-bottom contact gear may be carried on board, and no other fishing gear of any type may be carried on board or stowed during that trip. The vessel may fish inside and outside the Non-Trawl RCA on the same fishing trip, provided a valid declaration report as required at § 660.13(d) has been filed with NMFS OLE. Legal non-bottom contact hook-and-line gear means stationary vertical jig gear not anchored to the bottom, and groundfish troll gear, subject to the specifications in paragraphs (b)(3)(i) and (ii) of this section.

(i) * * *

(B) No more than four vertical mainlines attached to or fished from the vessel (e.g., rod & reel) may be used in the water at one time.

(C) No more than 100 hooks may be in the water at one time, with no more than 25 extra hooks on board the vessel.

* * * * *

31. Amend § 660.332 by revising paragraph (b)(1) to read as follows:

§ 660.332 Open access daily trip limit (DTL) fishery for sablefish.

* * * * *

(b) * * *

(1) Daily and/or weekly trip limits for the open access fishery north and south of 36° N lat. are provided in tables 3b (North) and 3b (South) of this subpart.

* * * * *

32. Amend § 660.333 by revising paragraph (a), redesignating paragraph (e) as paragraph (g), and adding new paragraph (e) and paragraphs (f), (h), and (i).

The revision and additions read as follows:

§ 660.333 Open access non-groundfish trawl fishery—management measures.

(a) General. This section describes management measures for vessels that take groundfish incidentally with non-groundfish trawl gear, including vessels engaged in fishing for pink shrimp, ridgeback prawns, California halibut, or sea cucumbers.

* * * * *

(e) Non-Trawl Rockfish Conservation Area restrictions for the ridgeback prawn, California halibut, and sea cucumber fisheries. (1) 40° 10′ N lat.-38.00° N lat.: 100 fm to 150 fm during Periods 1 and 6; 100 fm to 150 fm during Periods 2, 3, 4, and 5.

(2) 38.00° N lat.-34° 27 N lat.: 100 fm to 150 fm

(3) South of 34° 27 N lat.: 100 fm to 150 fm

(f) Trip Limits for the ridgeback prawn, California halibut, and sea cucumber fisheries. Groundfish. 300 lb (136 kg) per trip. Species-specific limits described in table 3b South also apply and are counted toward the 300 lb (136 kg) groundfish per trip limit. The amount of groundfish landed may not exceed the amount of the target species landed, except that the amount of Pacific spiny dogfish landed may exceed the amount of target species landed. Pacific spiny dogfish are limited by the 300 lb (136 kg)/trip overall groundfish limit. The daily trip limits for sablefish coastwide and thornyheads south of Pt. Conception and the overall groundfish “per trip” limit may not be multiplied by the number of days of the trip. Vessels participating in the California halibut fishery south of 38°57.50′ N lat. are allowed to:

(1) Land up to 100 lb (45 kg) per day of groundfish without the ratio requirement, provided that at least one California halibut is landed; and

(2) Land up to 3,000 lb (1,361 kg) per month of flatfish, no more than 300 lb (136 kg) of which may be species other than Pacific sanddabs, sand sole, starry flounder, rock sole, curlfin sole, or California scorpionfish (California scorpionfish is also subject to the trip limits and closures in table 3b South).

* * * * *

(h) Management measures for the pink shrimp fishery north of 40° 10′ N lat. Effective April 1-October 31: Groundfish: 500 lb (227 kg)/day, multiplied by the number of days of the trip, not to exceed 1,500 lb (680 kg)/trip. The following sublimits also apply and are counted toward the overall 500 lb (227 kg)/day and 1,500 lb (680 kg)/trip groundfish limits: lingcod 300 lb (136 kg)/month (minimum 24-inch (0.61 cm) size limit); sablefish 2,000 lb (907 kg)/month; canary, thornyheads, and yelloweye rockfish are PROHIBITED. All other groundfish species taken are managed under the overall 500 lb (227 kg)/day and 1,500 lb (680 kg)/trip groundfish limits. Landings of these species count toward the per day and per trip groundfish limits and do not have species-specific limits. The amount of groundfish landed may not exceed the amount of pink shrimp landed.

(i) Management measures for the pink shrimp fishery south of 40° 10′ N lat. Effective April 1-October 31: Groundfish: 500 lb (227 kg)/day, multiplied by the number of days of the trip, not to exceed 1,500 lb (680 kg)/trip. The following sublimits also apply and are counted toward the overall 500 lb (227 kg)/day and 1,500 lb (680 kg)/trip groundfish limits: lingcod 300 lb (136 kg)/month (minimum 24-inch (0.61 cm) size limit); sablefish 2,000 lb (907 kg)/month; canary rockfish, thornyheads, and yelloweye rockfish are PROHIBITED. All other groundfish species taken are managed under the overall 500 lb (227 kg)/day and 1,500 lb (680 kg)/trip groundfish limits. Landings of all groundfish species count toward the per day, per trip or other species-specific sublimits described here and the species-specific limits described in the table above do not apply. The amount of groundfish landed may not exceed the amount of pink shrimp landed.

33. Add § 660.334 to read as follows:

§ 660.334 Open access non-groundfish salmon troll fishery—management measures.

(a) General. This section includes management measures applicable to vessels that incidentally take and retain groundfish while participating in the West Coast salmon fishery under the regulations at part 660, subpart H (herein referred to as “salmon troll fishery”). All salmon troll vessels that take and retain groundfish species are subject to the open access trip limits, seasons, size limits, and Non-Trawl RCA restrictions listed in tables 3a (North), 3b (North), 3a (South), and 3b (South) to this subpart, unless otherwise stated in this section.

(b) Trip limits. (1) In the area north of 40° 10′ N lat., salmon trollers may retain and land up to 500 lb (227 kg) of yellowtail rockfish per month as long as salmon is on board, both within and outside of the Non-Trawl RCA. Salmon trollers may retain and land up to 1 lingcod per 2 Chinook per trip, plus 1 lingcod per trip, up to a trip limit of 10 lingcod, on a trip where any fishing occurs within the Non-Trawl RCA. The lingcod limit only applies during times when lingcod retention is allowed and is not “CLOSED”. These limits are within the limits described in table 3b (North), and not in addition to those limits.

(2) In the area south of 40° 10′ N lat., salmon trollers may retain and land up to 1 lb (0.45 kg) of yellowtail rockfish for every 2 lb (0.90 kg) of Chinook salmon landed, with a cumulative limit of 200 lb (91 kg)/month, both within and outside of the Non-Trawl RCA. This limit is within the trip limits for shelf rockfish, and not in addition to those limits. All groundfish species are subject to the open access limits, seasons, size limits, and RCA restrictions listed in tables 3a (South) and 3b (South) to this subpart, unless otherwise stated here.

Tables 3 (North) and 3 (South) to Part 660, Subpart F—[Removed]

34. Remove tables 3 (North) and 3 (South) to part 660, subpart F.

35. Add tables 3a (North), 3b (North), 3a (South), and 3b (South) to part 660, subpart F to read as follows:

Table 3a (North) to Part 660, Subpart F—Non-Trawl Rockfish Conservation Area Boundaries

Note 1 to table 3a (North): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Latitude | Boundary
North of 46°16′ N lat. | Shoreward EEZ-100 fm line.
46°16′ N lat.-42°00′ N lat. | 30 fm line-75 fm line.
42°00′ N lat.-40°10′ N lat | Shoreward EEZ-75 fm line.

Table 3b (North) to Part 660, Subpart F—Trip Limits for Open Access North of 40°10′ N Lat.

Note 1 to table 3b (North): Trip limits apply in the EEZ only; see appropriate state regulations for state trip limits. Trip limits are effective year-round unless otherwise specified for different cumulative periods (defined at § 660.11 under “Trip limits”). Trip limits are effective from the U.S.-Canada border to 40°10′ N lat. unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Species | Trip limit
Big skate | Unlimited.
Black rockfish (42°00′ N Lat.-40°10′ N Lat.) | CLOSED.
Cabezon (42°00′ N Lat.-40°10′ N Lat.) | CLOSED.
Cabezon/kelp greenling complex (Oregon) | Unlimited.
Canary rockfish | 1,000 lb/2 months.
Flatfish (includes dover sole, arrowtooth flounder, petrale sole, English sole, starry flounder) | 10,000 lb/2 months.
Lingcod (north of 42°00′ N Lat.) | 9,000 lb/2 months.
Lingcod (42°00′ N Lat.-40°10′ N Lat.) | 2,000 lb/2 months seaward of the Non-Trawl RCA; CLOSED inside the Non-Trawl RCA.
Longnose skate | Unlimited.
Longspine thornyheads | 100 lb/2 months.
Nearshore rockfish complex, Oregon black/blue/deacon rockfish, & Washington black rockfish (north of 42°00′ N Lat.) | 5,000 lb/2 months no more than 1,200 lb of which may be species other than black rockfish or blue/deacon rockfish. See § 660.330(e) for additional trip limits for Washington black rockfish.
Nearshore rockfish complex (42°00′ N Lat.-40°10′ N Lat.) | CLOSED.
Other fish | Unlimited.
Other flatfish complex (north of 42°00′ N Lat.) | 10,000 lb/2 months.
Other flatfish complex (42°00′ N Lat.-40°10′ N Lat.) | 10,000 lb/2 months seaward of the Non-Trawl RCA; 0 lb/2 months inside the Non-Trawl RCA.
Pacific cod | 1,000 lb/2 months.
Pacific ocean perch | 200 lb/2 months.
Pacific Spiny Dogfish | Periods 1-2: 200,000 lb/2 months. Period 3: 150,000 lb/2 months. Periods 4-6: 100,000 lb/2 months.
Pacific whiting | 600 lb/2 months.
Quillback rockfish (42°00′ N lat.-40°10′ N lat.) | CLOSED.
Sablefish | 3,250 lb/week not to exceed 6,500 lb/2 months.
Shelf rockfish complex (north of 42°00′ N Lat.) | 1,600 lb/2 months.
Shelf rockfish complex (42°00′ N lat.-40°10′ N lat.) | 1,200 lb per 2 months.
Shortspine thornyhead | 100 lb/2 months.
Slope rockfish complex & darkblotched rockfish | 4,000 lb/2 months.
Widow rockfish | 2,000 lb/2 months.
Yelloweye rockfish | CLOSED.
Yellowtail rockfish | 3,000 lb/2 months.
Salmon Troll | See § 660.334(b)(1).
Pink Shrimp non-groundfish trawl | See § 660.333(g) and (h).

Table 3a (South) to Part 660, Subpart F—Non-Trawl Rockfish Conservation Area Boundaries

Note 1 to table 3a (South): The Non-Trawl RCA is an area closed to fishing with particular non-trawl gear types, as defined at § 660.11. Non-Trawl RCA boundaries apply in the EEZ only; see appropriate state regulations for state closures. Non-Trawl RCA boundaries may be revised via inseason action; therefore, users should refer back to this table throughout the year.

Latitude | Boundary
40°10′ N lat.-37°07′ N lat | Shoreward EEZ-75 fm line.
37°07′ N lat.-34°27′ N lat | 50 fm line-75 fm line.
South of 34°27′ N lat | 100 fm line-150 fm line (also applies around islands and banks).

Table 3b (South) to Part 660, Subpart F—Trip Limits for Open Access South of 40°10′ N Lat.

Note 1 to table 3b (South): Trip limits apply in the EEZ only; see appropriate state regulations for state trip limits. Trip limits are effective year-round unless otherwise specified for different cumulative periods (defined at § 660.11 under “Trip limits”). Trip limits are effective from 40°10′ N lat. to the U.S.-Mexico border unless otherwise specified via latitudinal or state subdivisions in this table. Stock complexes are defined at § 660.11 under “Groundfish”. Trip limits may be revised via inseason action; therefore, users should refer back to this table throughout the year. To convert pounds to kilograms, divide the weight in pounds by 2.20462. The resulting quotient is the weight in kilograms.

Species | Trip limit
Big skate | Unlimited.
Bocaccio | 6,000 lb/2 months.
Bronzespotted rockfish | CLOSED.
Cabezon (40°10′ N lat.-36° N lat.) | CLOSED.
Cabezon (south of 36° N lat.) | Unlimited.
California scorpionfish | 3,500 lb/2 months.
Canary rockfish | 1,500 lb/2 months.
Chilipepper rockfish (40°10′ N lat.-34° 27′ N lat.) | 6,000 lb/2 months.
Chilipepper rockfish (south of 34° 27′ N lat.) | 4,000 lb/2 months.
Cowcod | CLOSED.
Flatfish (includes Dover sole, arrowtooth flounder, petrale sole, English sole, starry flounder) | 10,000 lb/2 months.
Lingcod (40°10′ N lat.-37° 07′ N lat.) | 1,400 lb/2 months seaward of the Non-Trawl RCA; CLOSED inside of the Non-Trawl RCA.
Lingcod (south of 37° 07′ N lat.) | 1,400 lb/2 months.
Longnose skate | Unlimited.
Longspine thornyhead (40° 10′ to 34° 27′ N lat.) | 100 lb/2 months.
Nearshore rockfish complexes:
Shallow nearshore rockfish (40°10′ N lat.-36° N lat.) | CLOSED.
Shallow nearshore rockfish (south of 36° N lat.) | 2,000 lb/2 months.
Deeper nearshore rockfish (40°10′ N lat.-36° N lat.) | CLOSED.
Deeper nearshore rockfish (south of 36° N lat.) | 2,000 lb/2 months, of which no more than 75 lb may be copper rockfish.
Other fish (defined at § 660.11) | Unlimited.
Other flatfish complex (defined at § 660.11) | 40°10′ N lat.-37° 07′ N lat.: 10,000 lb/2 months seaward of the Non-Trawl RCA; CLOSED inside of the Non-Trawl RCA.
| South of 37° 07′ N lat.: 10,000 lb/2 months.
Pacific cod | 1,000 lb/2 months.
Pacific Spiny Dogfish | Periods 1-2: 200,000 lb/2 months.
| Period 3: 150,000 lb/2 months.
| Periods 4-6: 100,000 lb/2 months.
Pacific whiting | 600 lb/2 months.
Quillback rockfish | CLOSED.
Sablefish (40°10′ N lat.-36° N lat.) | 3,000 lb/week not to exceed 9,000 lb/2 months.
Sablefish (south of 36° N lat.) | 2,000 lb/week not to exceed 6,000 lb/2 months.
Shelf rockfish complex (40°10′ N lat.-37° 07′ N lat.); excludes bronzespotted rockfish | 3,000 lb per 2 months, of which no more than 300 lb may be vermilion/sunset rockfish.
Shelf rockfish complex (37° 07′ N lat.-34° 27′ N lat.); excludes bronzespotted rockfish | 4,000 lb per 2 months, of which no more than 300 lb may be vermilion/sunset rockfish.
Shelf rockfish complex (south of 34° 27′ N lat.); excludes bronzespotted rockfish | 3,000 lb per 2 months, of which no more than 900 lb may be vermilion/sunset rockfish.
Shortspine thornyhead (40° 10′ N lat.-34° 27′ N lat.) | 100 lb/2 months.
Shortspine thornyhead and longspine thornyhead (south of 34° 27′ N lat.) | 100 lb/day, no more than 1,000 lb/2 months for all periods.
Slope rockfish complex & darkblotched rockfish | 10,000 lb/2 months, of which no more than 2,500 lb may be blackgill rockfish.
Splitnose rockfish | 400 lb/2 months.
Widow rockfish (40°10′ N lat.-34° 27′ N lat.) | 6,000 lb/2 months.
Widow rockfish (south of 34° 27′ N lat.) | 4,000 lb/2 months.
Yelloweye rockfish | CLOSED.
Salmon Troll | See § 660.334(b)(2).
Ridgeback Prawn, California halibut, and sea cucumber | See § 660.333(e) and (f).
Pink Shrimp | See § 660.333(g) and (i).

36. Amend § 660.351 by revising the definition of “Boat limit” and adding in alphabetical order a definition for “Descending device” to read as follows:

§ 660.351 Recreational fishery—definitions.

* * * * *

Boat limit means the number of fish available for a vessel or boat.

Descending device means an instrument capable of releasing a fish at the depth from which the fish was caught.

* * * * *

37. Amend § 660.352 by adding paragraph (c) to read as follows:

§ 660.352 Recreational fishery—prohibitions.

* * * * *

(c) Fail to have at least one functional descending device on board ready for immediate use during a groundfish recreational fishing trip.

38. Amend § 660.360 by:

a. Adding paragraph (b)(1) and a reserved paragraph (b)(2);

b. Revising paragraph (c)(1) introductory text, table 1 to paragraph (c)(1)(i)(D), paragraphs (c)(1)(ii) through (iv) and (c)(2)(iii)(A) through (C);

c. Redesignating paragraphs (c)(2)(iii)(D) and (E) as paragraphs (c)(2)(iii)(E) and (F);

d. Adding new paragraph (c)(2)(iii)(D);

e. Revising paragraph (c)(3)(i)(A);

f. Removing paragraph (c)(3)(ii)(C);

g. Redesignating paragraph (c)(3)(ii)(D) as paragraph (c)(3)(ii)(C) and revising it;

h. Revising paragraph (c)(3)(iii)(D);

i. Removing paragraph (c)(3)(v)(C); and

j. Redesignating paragraph (c)(3)(v)(D) as paragraph (c)(3)(v)(C) and revising it.

The revisions and additions read as follows:

§ 660.360 Recreational fishery—management measures.

* * * * *

(b) * * *

(1) All vessels participating in the groundfish recreational fishery seaward of California, Oregon, or Washington must carry on board one functional descending device as defined at § 660.351. The descending device must be available for immediate use and be available to present to an enforcement officer upon request.

(2) [Reserved]

(c) * * *

(1) Washington. For each person engaged in recreational fishing off the coast of Washington, the groundfish bag limit is nine groundfish per day, including rockfish, cabezon, and lingcod. Within the groundfish bag limit, there are sub-limits for rockfish, lingcod, and cabezon outlined in paragraph (c)(1)(i)(D) of this section. In addition to the groundfish bag limit of nine, there will be a flatfish limit of five fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits, and size limits apply:

(i) * * *

(D) * * *

BILLING CODE 3510-22-P

BILLING CODE 3510-22-C

(ii) Rockfish. In areas of the EEZ seaward of Washington (Washington Marine Areas 1-4) that are open to recreational groundfish fishing, there is a seven rockfish per day bag limit, including a sub-bag limit of five canary rockfish. Taking and retaining yelloweye rockfish is prohibited in all Marine Areas.

(iii) Cabezon. In areas of the EEZ seaward of Washington (Washington Marine Areas 1-4) that are open to recreational groundfish fishing, there is a one cabezon per day bag limit.

(iv) Lingcod. In areas of the EEZ seaward of Washington (Washington Marine Areas 1-4) that are open to recreational groundfish fishing and when the recreational season for lingcod is open, there is a bag limit of two lingcod per day. The recreational fishing seasons for lingcod is open from the second Saturday in March through the third Saturday in October.

(2) * * *

(iii) * * *

(A) Marine fish. The bag limit is 10 marine fish per day, which includes rockfish, kelp greenling, cabezon, and other groundfish species; except the daily bag limit in the long-leader gear fishery is 12 fish per day with a sub-bag limit of 5 fish per day for canary rockfish. The bag limit of marine fish excludes Pacific halibut, salmonids, tuna, perch species, sturgeon, sanddabs, flatfish, lingcod, striped bass, hybrid bass, offshore pelagic species, and baitfish (e.g., herring, smelt, anchovies, and sardines). The minimum size for cabezon retained in the Oregon recreational fishery is 16 in (41 cm) total length.

(B) Lingcod. There is a three fish limit per day. The minimum size for lingcod retained in the Oregon recreational fishery is 22 in (56 cm) total length. For vessels using long-leader gear (as defined in § 660.351) and fishing inside the Recreational RCA, possession of lingcod is prohibited.

(C) Flatfish. There is a 25 fish limit per day for all flatfish, excluding Pacific halibut, but including all soles, flounders, and Pacific sanddabs.

(D) Sablefish. There is a 10 fish limit per day.

* * * * *

(3) * * *

(i) * * *

(A) Recreational rockfish conservation areas. The recreational RCAs are areas that are closed to recreational fishing for certain groundfish. Fishing for the California rockfish, cabezon, greenling complex (RCG Complex), as defined in paragraph (c)(3)(ii) of this section, and lingcod with recreational gear, is prohibited within the Recreational RCA. It is unlawful to take and retain, possess, or land the RCG Complex and lingcod taken with recreational gear within the Recreational RCA, unless otherwise authorized in this section. A vessel fishing in the Recreational RCA may not be in possession of any species prohibited by the restrictions that apply within the Recreational RCA. For example, if a vessel fishes in the recreational salmon fishery within the Recreational RCA, the vessel cannot be in possession of the RCG Complex and lingcod while in the Recreational RCA. The vessel may, however, on the same trip fish for and retain rockfish shoreward of the Recreational RCA on the return trip to port. If the season is closed for a species or species group, fishing for that species or species group is prohibited both within the Recreational RCA and outside of the Recreational RCA, unless otherwise authorized in this section. In times and areas where a Recreational RCA is closed shoreward of a Recreational RCA line (i.e., when an “off-shore only” fishery is active in that management area) vessels may stop, anchor in, or transit through waters shoreward of the Recreational RCA line so long as they do not have any hook-and-line fishing gear in the water. Coordinates approximating boundary lines at the 30 fm (55 m) through 100 fm (183 m) depth contours can be found at §§ 660.71 through 660.73. The recreational fishing season structure and RCA depth boundaries seaward of California by management area and month are as follows:

* * * * *

(ii) * * *

(C) Dressing/fileting. Each RCG Complex filet must have the entire skin attached.

(iii) * * *

(D) Dressing/fileting. Lingcod filets may be no smaller than 14 in (36 cm) in length. Each lingcod filet must have the entire skin attached.

* * * * *

(v) * * *

(C) Dressing/fileting. Each California scorpionfish filet must have the entire skin attached.

* * * * *

39. Amend § 660.604 by revising paragraph (p)(4)(i) introductory text to read as follows:

§ 660.604 Vessel and first receiver responsibilities.

* * * * *

(p) * * *

(4) * * *

(i) The vessel must retain IFQ species (as defined at § 660.140(c)), except for Arrowtooth flounder, English sole, Dover sole, deep sea sole, Pacific sanddab, Pacific whiting, lingcod, sablefish, starry flounder, and rex sole; must retain salmon and eulachon; and must retain the following non-IFQ species: Greenland turbot, slender sole, hybrid sole, c-o sole, bigmouth sole, fantail sole, hornyhead turbot, spotted turbot, northern rockfish, black rockfish, blue rockfish, shortbelly rockfish, olive rockfish, Puget Sound rockfish, semaphore rockfish, walleye pollock, slender codling, and Pacific tom cod, with exceptions listed in paragraphs (p)(4)(i)(A) and (B) of this section.

* * * * *

[FR Doc. 2024-17651 Filed 8-26-24; 4:15 pm]

BILLING CODE 3510-22-P